DEPARTMENT OF COMMERCE

National Oceanic and Atmospheric Administration

50 CFR Part 660

[Docket No. 021209300-2300-01; I.D. 112502C]

RIN 0648-AQ18

Magnuson-Stevens Act Provisions; Fisheries off West Coast States and in the Western Pacific; Pacific Coast Groundfish Fishery; Annual Specifications and Management Measures

AGENCY: National Marine Fisheries Service (NMFS), National Oceanic and Atmospheric Administration (NOAA), Commerce.

ACTION: Proposed rule; request for comments.

SUMMARY: NMFS proposes a rule to implement the 2003 fishery specifications and management measures for groundfish taken in the U.S. exclusive economic zone (EEZ) and State waters off the coasts of Washington, Oregon, and California. The proposed rule includes the levels of the acceptable biological catch (ABC) and optimum yields (OYs). The commercial OYs (the total catch OYs reduced by tribal allocations and by amounts expected to be taken in recreational and compensation fisheries, which is when a portion of the OY for a groundfish species is used as whole or partial compensation for resource surveys that were conducted using private vessels) proposed in this rule would be allocated between the limited entry and open access fisheries and between different sectors of the limited entry fleet. Proposed management measures for 2003 are intended to prevent overfishing; rebuild overfished species; reduce and minimize the bycatch and discard of overfished and depleted stocks; provide equitable harvest opportunity for both recreational and commercial sectors; and, within the commercial fisheries, achieve harvest guidelines and limited entry and open access allocations to the extent practicable.

DATES: Comments must be received no later than 5 p.m., local time (l.t.,) on February 6, 2003.

ADDRESSES: Send comments to D. Robert Lohn, Administrator, Northwest Region (Regional Administrator), NMFS, 7600 Sand Point Way N.E., Bldg. 1, Seattle, WA 98115-0070, or fax to 206-526-6736; or Rodney McInnis, Acting Administrator, Southwest Region, NMFS, 501 West Ocean Blvd., Suite 4200, Long Beach, CA 90802-4213, or fax to 562-980-4047. Comments will not be accepted if submitted via e-mail or the internet. Information relevant to this proposed rule, which includes a draft environmental impact statement, is available for public review during business hours at the office of the Pacific Fishery Management Council (Council), at 7700 NE Ambassador Place, Portland, OR 97220, phone: 503-820-2280. Copies of additional reports referred to in this document may also be obtained from the Council.

FOR FURTHER INFORMATION CONTACT: Yvonne deReynier or Becky Renko (Northwest Region, NMFS), phone: 206-526-6140; fax: 206-526-6736 and; e-mail: yvonne.dereynier@noaa.gov, becky.renko@noaa.gov or Svein Fougner (Southwest Region, NMFS) phone: 562-980-4000; fax: 562-980-4047 and; e-mail: svein.fougner@noaa.gov.

SUPPLEMENTARY INFORMATION:

Electronic Access

The proposed rule also is accessible via the Internet at the Office of the Federal Register's website at http://www.access.gpo.gov/su_docs/aces/aces140.html. Background information and documents are available at the NMFS Northwest Region website at http://www.nwr.noaa.gov/1sustfsh/gdfsh01.htm and at the Council's website at http://www.pcouncil.org.

Background

The Pacific Coast Groundfish Fishery Management Plan (FMP) requires that fishery specifications for groundfish be annually evaluated, and revised as necessary, that OYs be specified for species or species groups in need of particular protection, and that management measures designed to achieve the OYs be published in the Federal Register and made effective by January 1, the beginning of the fishing year. The Magnuson-Stevens Fishery Conservation and Management Act (Magnuson-Stevens Act) and the FMP require that NMFS implement actions to prevent overfishing and to rebuild overfished stocks.

Throughout 2002, the Council has been developing revisions to its specifications and management measures process, through proposed Amendment 17 to the FMP. Among other procedural changes, Amendment 17 would revise the NMFS publication process for the specifications and management measures. Historically, the Council has developed annual specifications and management measures in a public two-meeting process (formerly at its September and November meetings) followed by a NMFS final action published in the Federal Register and made available for public comment and correction after the effective date of the action. Each year, specifications and management measures were effective until the specifications and management measures for the following year were published and effective. In 2001, the agency was challenged on this process in Natural Resources Defense Council, Inc. v. Evans, 168 F.Supp. 2d 1149 (N.D.Cal., 2001) and the Court ordered NMFS to provide prior public notice and allow public comment on the annual specifications through publication of proposed and final rules.

Amendment 17 was recently adopted by the Council, but has not yet been submitted for NMFS for approval. NMFS must still comply with the Court's Order for a public notice and comment period on the 2003 specifications and management measures. The Council had its initial meeting regarding these measures in June, and finalized its 2003 specifications and management measures recommendations at its September 9-13, 2002, meeting in Portland, OR. The Council could not act earlier in the year because the new science upon which the specifications and management measures were based was not ready until June.

For 2003, the Council has recommended implementing depth-based management measures, with large closed areas intended to prevent vessels from operating in waters where overfished species are commonly found. NMFS and the Council felt that these management changes were significant enough to warrant analysis via an environmental impact statement (EIS). An EIS is a National Environmental Policy Act analysis document that requires a series of public review and comment periods at different document drafting stages. Given the complexity of the annual specifications and management measures and the need for EIS-related public review periods, NMFS did not have enough time to publish a proposed rule, receive public comments, and implement a final rule by January 1, 2003. NMFS is publishing this proposed rule for the entire 2003 specifications and management measures package to comply with the Court's Order to make such regulatory packages available for public comment prior to implementation. To ensure that adequately conservative management measures are in place by January 1, 2003, NMFS has also published an emergency rule in the Final Rules section of this January 7, 2003 edition that implements groundfish management measures for January 1 through February 28, 2003.

Specifications and management measures proposed for 2003 are designed to rebuild overfished stocks through constraining direct and incidental mortality, and to achieve as much of the OYs as practicable for healthier groundfish stocks managed under the FMP.

I. Proposed Specifications

Proposed fishery specifications include ABCs, the designation of OYs (which may be represented by harvest guidelines (HGs) or quotas for species that need individual management), and the allocation of commercial OYs between the open access and limited entry segments of the fishery. These specifications include fish caught in State ocean waters (0-3 nautical miles (nm) offshore) as well as fish caught in the EEZ (3-200 nm offshore).

BILLING CODE 3510-22-S

BILLING CODE 3510-22-C

ABC Policy and Overfishing

Each fishing year, the Council evaluates the biological condition of the Pacific Coast groundfish fishery, develops estimates of the ABC for major groundfish stocks and identifies the harvest levels or OYs for the species or species groups that it proposes to manage.

The Magnuson-Stevens Act requires that the FMP prevent overfishing. Overfishing is defined in the National Standards Guidelines (50 CFR part 600, subpart D) as exceeding the fishing mortality rate (F) needed to produce maximum sustainable yield (MSY) on a continuing basis. When setting the 2003 ABCs, the Council maintained a policy of using a default harvest rate as a proxy for the fishing mortality rate that is expected to achieve the maximum sustainable yield (Fmsy). The OYs were then set at levels expected to prevent overfishing, equal to or less than the ABCs.

The ABC for a species or species group is generally derived by multiplying the harvest rate proxy by the biomass forecast to be available to the fishery. In 2003, the following default harvest rates proxies, based on the Council's Scientific and Statistical Committee (SSC) recommendations, were used: F40% for flatfish and F50% for rockfish (including thornyheads), and F45% for other groundfish such as sablefish, and lingcod. For whiting the Council chose a harvest rate proxy of F45% which was more conservative than the SSC's F40% recommendation. The FMP allows default harvest rate proxies to be modified as scientific data improves for a particular species.

A harvest or fishing mortality rate can mean very different things for different stocks, because the rate is dependent on the productivity of a particular species. For more resilient stocks, those with less of a decline in recruitment (a measure of the young fish that mature and enter the fishery) as the spawning stock declines, a higher fishing mortality rate may be used, such as F40%. A rate of F40% can be explained as that which reduces spawning potential per female to 40 percent of what it would have been under natural conditions (if there were no mortality due to fishing), and is therefore a more aggressive harvest rate than F45% or F50%. Harvest rate policies must account for several complicating factors, including the relative fecundity of mature individuals over time and the optimal stock size for the highest level of productivity within that stock.

For some groundfish species, there may be little or no detailed biological data available on which to base ABCs, with only rudimentary assessments being prepared. For other species, ABC levels may be established only on the basis of historical landings. Precautionary measures continue to be taken when setting ABCs and OYs for species with no or only rudimentary assessments.

In 2000, the Council adopted a more precautionary ABC policy for stocks with less rigorous or rudimentary stock assessments. The policy had been to assume that fishing mortality was equal to natural mortality (F=M); the current policy is that fishing mortality is 75 percent of natural mortality (F=0.75M). Based on SSC recommendations, the Council reaffirmed this policy, but added another precautionary adjustment, requiring that OYs for these stocks be set at 75 percent of ABCs. For further information on this policy, see the preamble to the annual specifications and management measures published on January 11, 2001 (66 FR 2338).

The 2003 ABCs are based on the best scientific information available to the Council at its September 2002 meeting. The ABCs in Table 1 represent total fishing mortality (landed catch plus discards). Where the assessments included Canadian waters, the ABCs apply only to U.S. waters. Stock assessment information considered in determining the ABCs is Stock Assessment and Fishery Evaluation documents and reports and is available from the Council. These documents were made available to the public before the Council's September 2002 meeting. Additional information may be found in the EIS prepared by the Council for this action and in documents available at the June and September 2002 Council meetings. (see ADDRESSES)

OY Policy

In 1999, the Council adopted a “40-10 precautionary policy” for setting OYs. The 40-10 policy is intended to reduce the chance that species will become overfished. According to the Council's OY policy, if the stock biomass is larger than the biomass needed to produce MSY (Bmsy), the OY may be set equal to or less than the ABC. The Council uses 40 percent as a default proxy for Bmsy, also referred to as B40%. The Council's default OY harvest policy reduces the fishing mortality rate when a stock is at or below Bmsy. A stock with a current biomass between 25 percent of the unfished level and Bmsy is said to be in the “precautionary zone.” The further the stock is below the precautionary threshold (usually B40%), the greater the reduction in OY relative to the ABC, until at B10%, the OY would be set at zero. This is, in effect, a default rebuilding policy that will foster quicker return to the Bmsy level than would fishing at the ABC level. For further information on this policy, see the preamble to the annual specification and management measures published on January 8, 1999 (64 FR 1316).

The Council may recommend setting the OY higher than what the default OY harvest policy specifies, provided that the OY does not exceed the ABC (Fmsy) harvest rate, complies with the requirements of the Magnuson-Stevens Act, and is consistent with the National Standard Guidelines and FMP requirements. On a case-by-case basis, additional precaution may be added as may be warranted by uncertainty in the data or by a stock's higher risk of being overfished. A stock that falls below 25 percent of its unfished biomass (B25%) is considered overfished under the FMP. Once a stock is declared overfished, the Magnuson-Stevens Act requires the Council to develop a rebuilding plan within 1 year from the public announcement in the Federal Register that the stock has been declared overfished. Rebuilding plans for overfished species generally have stock-specific allowable harvest rates based on a rebuilding analysis and rebuilding strategy, although those rates may still be consistent with this 40-10 default OY policy and may not exceed Fmsy.

2003 ABCs and OYs

The species that had ABCs and OYs in 2002 continue to have ABCs and OYs in 2003. Changes that have been made since 2002 that affect the ABCs and OYs for 2003 include: (1) the completion of new assessments for canary, bocaccio, and yelloweye rockfish; (2) the preparation of an assessment update for sablefish; (3) the preparation of a yelloweye rockfish rebuilding analysis; (4) revision of the widow rockfish rebuilding analysis; (5) changes in the catch distribution of canary rockfish between commercial and recreational fisheries; (6) the preparation of a sustainability analysis for bocaccio rockfish; (7) the projection of the 2002 Pacific whiting model forward one year; and (8) the subdivision of the minor nearshore rockfish south OY into shallow nearshore rockfish, California scorpion fish, and deeper nearshore rockfish. Discussions of the development of ABCs and OYs for species with changed specifications from 2002 are contained in this section. Summaries of draft rebuilding plans for overfished species are provided in the next section, “Determination of Overfished Stocks and Rebuilding Plans.”

Canary rockfish

NMFS prepared an assessment update for canary rockfish, based on an age-structure stock synthesis model. Unlike the previous assessment in 2000, the 2002 assessment model included the entire coast and blended the alternative mortality/selectivity scenarios into one scenario that linked increasing female natural mortality to maturity while allowing selectivity (the ability of the gear to catch certain sizes or types of fish) of females to be domed shaped. In this context, “domed shaped” means that the model places greater emphasis on female mortality at intermediate ages, rather than equally across all possible ages of mortality. This was done to address uncertainty regarding the reasons for the lower occurrence of old females versus old males. Although the model provides a more complete evaluation, the availability and mortality of older females in the survey and fishery data continues to be a source of uncertainty with the assessment. The 2002 assessment extends back to 1940 to provide a better evaluation of the unfished biomass level, and estimates the degree of compensation in the spawner-recruitment relationship to provide an improved basis for forecasting future recruitments during rebuilding.

The new assessment estimates that the canary rockfish biomass was at 8 percent of its unfished biomass coastwide at the beginning of 2002. As with the 2000 assessment, canary rockfish shows a decline throughout the assessment time period with most of the decline occurring from 1975 to 1995.

The Council considered four OYs based on different rebuilding parameters—constant fishing mortality rates that would have 80-percent, 60-percent and 50-percent probabilities of rebuilding the canary rockfish to Bmsy by the year 2076 (Tmax is the maximum allowable time to rebuild as defined in the National Standard Guidelines, 50 CFR subpart D). The fourth option had a 50-percent probability of rebuilding the canary rockfish to B40% by the year 2067 (Tmid). (Tmid is halfway between Tmax and Tmin-the minimum time to rebuild in the absence of fishing as defined in the National Standard Guidelines, 50 CFR Subpart D). In addition, four different arrangements for dividing catch between the commercial and recreational fisheries were considered. The OY levels ranged from 20 mt to 57 mt. In general, the recreational fisheries take smaller canary rockfish than the commercial fisheries, resulting in a greater per ton impact on the canary stock over the rebuilding period. The catch sharing arrangements considered by the Council included: 20 percent recreational/80 percent commercial, 39 percent recreational/61 percent commercial, 50 percent recreational/50 percent commercial, and 80-percent recreation/20 percent commercial. The Council recommended adopting an ABC of 272 mt and an OY of 44 mt based on a 60-percent probability of rebuilding the canary rockfish to Bmsy by the year 2076 (Tmax) with a 39-percent recreation/61-percent commercial catch sharing arrangement. Canary rockfish is taken in a wide variety of fisheries coastwide, co-occurring with many different groundfish stocks. The catch sharing arrangement for canary rockfish was needed to ensure that canary rockfish taken in the different fisheries would be appropriately accounted for.

Bocaccio Rockfish

A new stock assessment was prepared for bocaccio rockfish in the Conception and Monterey areas, the statistical areas where the bocaccio rockfish stock is overfished. This new assessment uses a length-based stock synthesis model similar to that used for the 1999 assessment, but differs from the previous assessment in that it (1) includes new information from a larger area of southern California; (2) moves the beginning of the assessment time period back 18 years; (3) updates estimates of commercial and recreational landings data; (4) uses a “jacknife” statistical method to estimate precision of abundance indexes rather than using assumed values of precision, which is a useful procedure when the data dispersion or distribution are wide or extreme; (5) omits triennial survey data from hauls where the trawl gear did not actually fish on the ocean floor (so-called “water hauls”); (6) adds an index of larval abundance reflecting spawning biomass; (7) adds a recreational “catch per unit effort”(CPUE)index for 1980-2001; and (8) includes a new recruitment index based on the impingement rate of juvenile bocaccio rockfish in saltwater intakes at southern California electric power plants between 1972-2000.

The new bocaccio rockfish assessment is consistent with the finding in previous assessments that there has been a declining biomass trend since 1969. The new assessment estimates that the bocaccio rockfish spawning stock biomass in the Monterey and Conception areas is at about 3.6 percent of its unfished biomass. The estimated biomass for 2002 (age 2+ fish) is 2,914 mt. The ABC for bocaccio rockfish, which is based on the new assessment with an Fmsy proxy of F50%, is 198 mt.

Bocaccio was declared overfished in 1999. Since 2000, the bocaccio OY has been set to be a constant harvest level of 100 mt. This level was based on the 1999 rebuilding analysis and was estimated to have a 67 percent probability of rebuilding the stock to Bmsy by 2033. The new assessment in 2002 found that the rate of rebuilding would probably be lower than projected from the 1999 assessment and that the harvest level would need to be lowered. Based on the new stock assessment and a new rebuilding analysis, the Council, at its June 2002 meeting, recommended for further analysis a bocaccio rockfish OY for 2003 of 5.8 mt. This new OY was associated with a constant mortality rate and a 50 percent probability of rebuilding to Bmsy by the year 2109 (Tmax). At this same meeting, the Council requested that the rebuilding analysis be updated using procedures recommended by the SSC. Following the June 2002 Council meeting and prior to revision of the bocaccio rebuilding analysis, the rebuilding model for all overfished species was refined to more accurately account for actual catch occurring during and after the initial year of rebuilding.

In the revised bocaccio rebuilding analysis prepared following the June Council meeting, the stock failed to have a 50- percent probability of rebuilding by Tmax, even in the absence of fishing. Tmax is the maximum time for rebuilding established by the National Standard Guidelines (50 CFR 600, subpart D). This failure is due to lower estimated recruitment of the 1999 year class and recent landings that exceeded the rebuilding OYs. Bocaccio landings in 2000 and 2001 were respectively 69 and 47 mt over the OY levels set in 2000. In addition, hindsight shows, based on the new rebuilding analysis' calculation of the actual strength of the 1999 year class, that the OYs for 2000 and 2001 had been set too high in view of the actual strength of the 1999 year class. The OYs set for 2000 and 2001 created a “rebuilding deficit” that will take more than Tmax to recover from. NMFS subsequently prepared a sustainability analysis for bocaccio rockfish. A rebuilding analysis addresses the fishing rates associated with rebuilding an overfished stock to a target abundance within a specified time frame, whereas a sustainability analysis addresses the fishing rates that would lead to no further decline in abundance over a specified time frame. In both types of analysis, the uncertainty of future reproductive successes requires that the results be described in terms of probabilities rather than certainties. The sustainability analysis shows that a harvest level of ≤20 mt would provide a 50- percent probability for the stock to rebuild in 170 years, with a high probability (>80 percent) of no further decline in the spawning biomass over the next 100 years. The Council's SSC concluded that the sustainability analysis represented the best available science and endorsed its use in setting 2003 harvest levels. The Council agreed with the SSC recommendation. The National Standard Guidelines do not address the situation where NMFS concludes, based on an updated rebuilding analysis, that a stock cannot be rebuilt within Tmax, even with zero fishing mortality. Therefore, NMFS has determined that the National Standard Guidelines do not provide sufficient guidance for the bocaccio rockfish situation and instead has looked directly to the Magnuson-Stevens Act for guidance. Section 304(e)(4)(A)(i) states that a rebuilding period shall “be as short as possible, taking into account the status and biology of any overfished stocks of fish, the needs of fishing communities, recommendations by international organizations in which the United States participates, and the interaction of the overfished stock of fish within the marine ecosystem.”

NMFS believes that the Magnuson-Stevens Act requires that the Council and NMFS meet the conservation needs of the stock (National Standard 1), and also consider the needs of fishing communities (National Standard 8). Balancing these considerations, zero fishing mortality is not required for this situation. Zero fishing mortality would seriously adversely affect fishers and communities in California south of Cape Mendocino, CA. In this area, commercial fisheries (including fisheries for non-groundfish species) and recreational fisheries that incidentally catch bocaccio would be severely curtailed or closed for many years into the future. Bocaccio is taken incidentally in a wide variety of fisheries, ranging from recreational fisheries that operate off piers and jetties taking juvenile bocaccio in nearshore waters, to commercial purse seine fisheries for squid and other coastal pelagic species.The OY recommended by the Council, which is based on the sustainability analysis, the needs of fishing communities, and the biology of the stock, has a low probability of driving the stock into further decline and will not materially jeopardize future rebuilding. The large historical biomass of bocaccio occurred through accumulation over time of biomass from several intermittent, large recruitments. These large recruitment events are thought to be connected to currently unknown and unpredictable ocean conditions. Bocaccio rebuilding depends on the future occurrence of similarly large recruitment successes. Although the 1999 year class was in fact smaller than had been projected in 1999, it is still the largest year class since 1991. The recruitment success observed in 1999 indicates that the current spawning biomass is capable of initiating the rebuilding, but substantial rebuilding awaits the future occurrence of several such successes. Based on the current information, NMFS concludes that at the proposed OY level bocaccio will be able to rebuild. The analysis shows an 80 percent probability of no further decline after 100 years, a 50 percent probability (the standard reference probability level) of rebuilding within 170 years, and a 33 percent probability of rebuilding by the year 2109. Therefore, NMFS believes the recommended OY is consistent with the Magnuson-Stevens Act.

Yelloweye Rockfish

Yelloweye rockfish were first assessed in 1996 as part of the “remaining rockfish” group. In 2001, a yelloweye rockfish assessment was conducted for northern California and Oregon. The 2001 assessment estimated that yelloweye rockfish was at about 7 percent of its unfished biomass in waters off northern California and at 13 percent of its unfished biomass in waters off Oregon; this resulted in NMFS declaring yelloweye rockfish to be overfished. An initial yelloweye rockfish rebuilding analysis, based on the 2001 assessment, was prepared and presented at the Council's June 2002 meeting. Because this assessment did not cover Washington, the development of rebuilding measures was hampered.

In August 2002, an updated assessment was completed in order to incorporate data from Washington, an important area of yelloweye rockfish abundance, and to incorporate newly available age data. Other changes from the 2001 assessment included: the use of a combined area model; revised selectivity curves for all sectors of the fishery; the inclusion of Washington catch data; re-evaluation of California logbook data and the influence of port group and depth effects; extension of the modeled time period; revision of the treatment of natural mortality rates; and inclusion of a spawner-recruitment relationship to provide an overall measure of stock productivity.

Like the 2001 assessment, the updated assessment indicated that there has been a declining abundance trend for more than 30 years, with the last above average recruitment occurring in the late 1980s. The assessment update concluded that the coastwide yelloweye rockfish spawning female biomass (934 mt) was at 24.1 percent of its unfished biomass at the beginning of 2002. The SSC supported the new assessment model and indicated that it represented the best available science. The 2003 yelloweye ABC of 52 mt is based on the new assessment, with an Fmsy proxy of F50%.

A revised rebuilding analysis was prepared following completion of the 2002 assessment. Due to the less depleted stock status and higher productivity estimated by the updated assessment, the rebuilding period is shorter than had been estimated following the initial rebuilding analysis. The SSC indicated that the revised rebuilding analysis represented the best available science and advised using it to set 2003 harvest levels.

At the Council's September meeting, four OY options were considered for yelloweye rockfish: 2.1 mt — the low range from the June 2002 draft rebuilding analysis; 13.5 mt - the 2002 OY; 22 mt - based on a 50-percent probability of rebuilding the yelloweye rockfish to Bmsy by the year 2050 (Tmid) from the revised rebuilding analysis; and 27 mt, the value corresponding to a 50-percent probability of rebuilding the yelloweye rockfish to Bmsy by the year 2069 (Tmax) from the revised rebuilding analysis. The SSC advised that the OY not exceed 22 mts, the OY recommended by the Council's ad hoc allocation committee. The Council followed the SSC's advice and recommended adopting an OY of 22 mt.

Sablefish

In 2001, sablefish were assessed in the region between Point Conception (34° 27′ N. lat.) and the U.S.-Canada border. The assessment indicated a decline in biomass since the late 1970s and a decline in recruitment during the early 1990s. This result was supported by a parallel assessment conducted by an industry-supported research team. For 2002, newly available fishery and survey data were used to update the assessment. No changes were made to the model structure or assumptions. However, the update produced a larger than expected increase in the perceived stock abundance throughout the time series. Such a change is an indication of the overall uncertainty in the stock assessment due to the relatively short time series of survey data. The relative 2001 spawning stock biomass had been estimated to be between 27 and 38 percent of the unfished biomass following the 2001 assessment, and the estimate increased to between 31 and 39 percent of the unfished biomass in the 2002 update. There was a notable increase in the estimated abundance of young fish born in 1999 and 2000 and evidence that these young fish have begun to recruit to the fishery.

As in 2001, two alternative states of nature, environmentally driven and density-dependent, were considered in calculation of target abundance levels and current productivity. The declines in recruitment during the early 1990s may have resulted from changes in environmental conditions or the low recruitment may have been caused by low spawning biomass. It is not possible to determine with high confidence the primary cause of the low recruitments during the 1990s, but the higher recruitment in 1999 and 2000 lends support for the environmental scenario.

The ABC estimate for the assessment area north of Point Conception (34° 27′ N. lat) is 8,459 mt. The ABC for the management area north of 36° N lat. is 8,209 mt (97.04 percent of the ABC from the surveyed area). The ABC estimate was based on the environmental scenario for trends in recruitment and on application of an Fmsy proxy of F45%. Although there is evidence that juvenile sablefish have begun to recruit to the fishery, the growth of the sablefish biomass will be slow and will depend on future average recruitment being larger than observed during most of the 1990s.

Four OY options were presented to the Council for the area North of 36° N. lat.: 8,187 mt based on the ABC from the environmentally driven projection with an Fmsy proxy of F45% and a 40/10 adjustment; 7,455 mt based on the ABC from the density-dependent projection with an Fmsy proxy of F45% and a 40/10 adjustment; 4,477 mt based on the ABC from the density-dependent projection with an Fmsy proxy of F60% and a 40/10 adjustment; and 5,000 mt, an intermediate point between 4,477 mt and 7,455 mt. The SSC indicated that the medium and high OYs were relatively risk-prone and advised the Council that caution should be used when setting the 2003 harvest levels. The SSC noted that an OY of 5,000 mt, as recommended by the Council's ad hoc Allocation Committee, was consistent with the SSC recommendation and addresses uncertainty in assessment relating to the different states of nature.

Following discussions and public comment, the Council recommended adopting an ABC of 8,459 mt for the surveyed area, resulting in an ABC of 8,209 mt with an OY of 6,500 mt for the area north of 36° N′ lat. The Council recommended OY of 6,500 mt is the 7,455 mt OY, based on a 40/10 adjustment to the ABC, with an additional 1,000 mt precautionary reduction. The Council based its recommendation on the SSC's advice to be precautionary because of assessment uncertainties, and because the sablefish biomass is within the precautionary range. The Council indicated that it was prudent to adopt an OY that was risk averse rather than risk neutral.

Pacific Whiting

Pacific whiting was declared overfished on April 15, 2002 (67 FR 18117). The Pacific whiting stock is estimated to be just below the FMP's overfished species rebuilding threshhold of B25%. In June, a draft rebuilding analysis for whiting that followed the analysis guidelines established by the SSC was presented to the Council. Because of the high variability in recruitment patterns and short life span of whiting, the rebuilding analysis estimated a short rebuilding period even with high harvest levels. However, given the recruitment variability, there is also a high probability that the whiting biomass would drop below the overfishing threshold again following recovery. The rebuilding analysis examined alternative Fmsy proxies in terms of whether the population would become overfished following recovery. The SSC was unable to investigate the merits of moving from the current F40% Fmsy proxy to another; however, the SSC did advise continuing the use of the 40-10 harvest policy for whiting and noted that the 40-10 harvest policy appeared adequate to achieve rebuilding.

Three OY options, all of which are based on a medium level of recruitment for the 1999 year class, were considered by the Council: 129,600 mt based on the 2002 biomass estimate with an F40% Fmsy proxy and the application of the 40-10 harvest policy; 148,200 mt based on the 2003 projected biomass with an F45% Fmsy proxy and the application of the 40-10 harvest policy; and 173,600 mt based on the 2003 projected biomass with an F40% Fmsy proxy and the application of the 40-10 harvest policy. The SSC advised the Council to be precautionary and not increase the whiting OY over the 2002 harvest level until a new assessment was conducted. However, the Council indicated that the medium harvest level, 148,200 mt, based on the 2003 projected biomass with an F45% Fmsy, was sufficiently precautionary. Although it allows a short-term increase in the OY based on expected population growth, it moves to a more precautionary harvest rate that is expected to increase the rebuilding rate and reduce the risk of declining back into an overfished state (below B25%) given the high productivity of whiting.

Minor Nearshore Rockfish

To protect depleted stocks and minimize the chance of overfishing, changes were made in 2000 that eliminated the “Sebastes complex” and created the “minor rockfish” categories (January 4, 2000, 65 FR 221). Minor rockfish species that have had rudimentary or no assessments are divided into nearshore, shelf, and slope categories that represent where they are predominantly caught.

Given the expected increase in fishing pressure in nearshore areas, the States of Oregon and California indicated that the commercial and recreational minor nearshore rockfish fisheries could be better managed if the minor nearshore rockfish species group were subdivided. For 2003, the States of Oregon and California will manage minor nearshore rockfish north as two groups: black and blue rockfish and all other nearshore rockfish. Due to the expected effort shift to the nearshore area resulting from depth based closures in deeper waters, the Council further recommended capping the 2003 OY at the 2000 OY level. This was done as a precautionary measure until quantitative assessment can be prepared for the southern portion (south of Cape Falcon, OR) of the area north of Cape Mendocino, CA. Because there are no commercial nearshore fisheries in the State of Washington, minor nearshore rockfish will continue to be managed as a single group. The total catch OY for black and blue rockfish in the area between 40°10′ N. lat. and 46°16′ N. lat. is 585 mt and the total catch OY for all other nearshore rockfish in this same area is 53 mt. For the area north of 46°16′ N. lat. (the Washington/Oregon border), the total catch OY for all nearshore rockfish is 290 mt, most of which is estimated to be taken in the recreational fisheries although a small amount is expected to be taken in the tribal fisheries.

For 2003, the minor nearshore rockfish south OY will be managed as the following three groups with separate OYs: Shallow nearshore rockfish (black and yellow, China, grass, gopher and kelp rockfish), California scorpionfish, and deeper nearshore rockfish (black, blue, brown, calico, copper, olive, treefish, and quillback rockfish). Given the projected increase in both recreational and commercial fishing pressure in nearshore areas, the State of California indicated that the fisheries could be better managed and overfishing prevented if the minor nearshore rockfish species were subdivided. The shallow nearshore rockfish total catch OY will be 104.9 mt; the deeper nearshore rockfish total catch OY will be 351 mt; and the California scorpionfish total catch OY will be 84.8 mt. Alternative catch sharing arrangements between the commercial and recreational sectors were considered by the Council. The catch sharing arrangement proposal in this rule was developed through a public hearing process conducted by the California Department of Fish and Game.

Overfished Species

Nine groundfish stocks have been designated as “overfished,” POP, bocaccio, lingcod, canary rockfish, cowcod, darkblotched rockfish, widow rockfish, yelloweye rockfish and Pacific whiting. Management measures designed to rebuild overfished species, or to prevent species from becoming overfished, may restrict the harvest of relatively healthy stocks that are harvested with overfished species. As a result of the constraining management measures imposed to protect and rebuild overfished species, a number of the OYs for healthy stocks may not be achieved in 2003.

Pacific Ocean Perch (POP)

The recommended ABC for POP in 2003 is 689 mt, is based on an F50% Fmsy proxy and is a 2003 projection based on the Council's interim rebuilding strategy. Three OYs based on the most recent rebuilding analysis and corresponding to different probabilities of rebuilding the stock were presented to the Council. These OYs were: 496 mt based on a 50 percent probability of rebuilding POP rockfish to Bmsy by the year 2041 (Tmax); 377 mt the value corresponding to a 70 percent probability of rebuilding POP to Bmsy by the year 2041; and 311 mt the value corresponding to an 80-percent probability of rebuilding POP to Bmsy by the year 2041. The Council recommended OY of 377 mt is consistent with the interim rebuilding strategy adopted by the Council in prior years.

Lingcod

The recommended ABC for lingcod in 2003 is 841 mt and is based on an F45% Fmsy proxy. Three OYs, based on the rebuilding analysis prepared in 2001 and corresponding to different probabilities of rebuilding the stock to Bmsy by Tmax, were presented to the Council. These OYs were: 555 mt based on a 80- percent probability of rebuilding lingcod to Bmsy by the year 2009 (Tmax); 651 mt the value corresponding to a 60-percent probability of rebuilding lingcod to Bmsy by the year 2009; and 725 mt the value corresponding to a 50-percent probability of rebuilding lingcod to Bmsy by the year 2009. The Council recommended adopting an OY for 2003 of 651 mt. This harvest level is consistent with the interim rebuilding strategy adopted by the Council in prior years and is expected to maintain the Council's goal of rebuilding lingcod by the year 2009.

Darkblotched Rockfish

The recommended ABC for darkblotched rockfish in 2003 is 205 mt and is based on an F50% Fmsy proxy. Five OYs, based on the 2001 rebuilding analysis and corresponding to different probabilities of rebuilding the stock to Bmsy, were presented to the Council. These OYs were: 100 mt, 130 mt based on the 2001 harvest level that was in place before the final rebuilding analysis was completed, 172 mt the value corresponding to a 80- percent probability of rebuilding darkblotched rockfish to Bmsy by the year 2047 (Tmax); 184 mt the value corresponding to a 60- percent probability of rebuilding darkblotched rockfish to Bmsy by the year 2047; and 205 mt the value corresponding to a 50- percent probability of rebuilding darkblotched rockfish to Bmsy by the year 2047. The 172 mt OY is also comparable to a 50- percent probability of rebuilding darkblotched rockfish to Bmsy by the year 2030 (Tmid).

Because darkblotched rockfish are primarily harvested with trawl gear, managing to a lower OY would most constrain the trawl fishery and likely require most fishing to occur seaward of the 250 fm (457 m) depth contour, where darkblotched rockfish is primarily caught (for further information see the Emergency rule to establish depth-based management measures; September 13, 2002, 67 FR 57973). Measures to further restrict flatfish trawl fisheries shoreward of 100 fm (183 m) would also protect juvenile darkblotched rockfish. Small vessels would be most affected by a lower OY. The Council recommended an OY of 172 mt, which provides a reasonable balance between the length of time for rebuilding the stock and the adverse economic impacts to the limited entry trawl sector. This OY is associated with an 80- percent probability of rebuilding within Tmax as compared to the 70 percent probability that was applied in 2002.

Widow Rockfish

The recommended ABC for widow rockfish in 2003 is 3,871 mt and is based on an F50% Fmsy proxy. At the Council's June 2002 meeting, a revised widow rockfish rebuilding analysis was reviewed. Three OYs based on the revised analysis and corresponding to different probabilities of rebuilding the stock by Tmax were presented to the Council. These OYs were: 656 mt based on a 50 percent probability of rebuilding widow rockfish to Bmsy by the year 2030 (Tmid); 832 mt the value corresponding to a 60 percent probability of rebuilding widow rockfish to Bmsy by the year 2039 (Tmax); and 916 mt the value corresponding to a 50- percent probability of rebuilding widow rockfish to Bmsy by the year 2039. The low OY alternative would not provide for a mid-water trawl target fishery for yellowtail rockfish and would not provide an adequate buffer against unanticipated mortalities and increased effort. The higher harvest levels could be expected to provide for a limited mid-water trawl fishery for yellowtail rockfish. The Council recommended adopting an OY for 2003 of 832 mt. This harvest level is consistent with the interim rebuilding strategy adopted by the Council, and a 60-percent probability of rebuilding widow rockfish to Bmsy by the year 2039, which is the same as a 50 percent probability of rebuilding by 2037 (TTarget.)Derivations of the ABC and OYs for the individual groundfish species are explained in detail in Council documents from their June and September 2002 meetings and in the most recent stock assessments and are summarized in this document in Table 1a. Derivations of commercial harvest guidelines, limited entry and open access allocations, and landed catch equivalents appear in the footnotes to Table 1a, listed at the end of Table 1b.

Determinations of Overfished Stocks and Rebuilding Plans

The status of the groundfish stocks is evaluated against the requirements of the Magnuson-Stevens Act, the National Standard Guidelines, and the FMP. A species is considered to be overfished if its current biomass is less than 25 percent of the unfished biomass. The Magnuson-Stevens Act requires that a rebuilding plan be prepared within 1 year after the Council is notified by NMFS that a particular species is overfished.

In the fall of 2000, NMFS had approved the first three rebuilding plans for lingcod, boccacio, and POP (65 FR 53646, September 5, 2000). Subsequently, requirements for developing overfished species rebuilding plans were addressed in Amendment 12 to the FMP, which were submitted for public review (65 FR 54475, September 8, 2000) and approved by NMFS on December 7, 2000. During NMFS's review of Amendment 12, the agency considered whether the three recently approved rebuilding plans met the requirements of Amendment 12 and concluded that the plans did not. The final rule to implement Amendment 12 describes NMFS's revocation of the lingcod, boccacio, and POP rebuilding plans (65 FR 82947, December 29, 2000). NMFS instructed the Council to re-submit rebuilding plans. The groundfish fishery has continued to operate under interim rebuilding measures for these species.

While NMFS and the Council were developing rebuilding plans that were consistent with the requirements of Amendment 12, NMFS notified the Council that canary rockfish and cowcod were overfished and that the Council must submit rebuilding plans for these species to NMFS by January 4, 2001 (65 FR 221, January 4, 2000). On January 11, 2001 (66 FR 2338), NMFS notified the Council that darkblotched and widow rockfish were overfished and that Council must submit rebuilding plans for these species to NMFS by January 11, 2002. Subsequently, on August 20, 2001, the Federal magistrate ruled in National Resources Defense Council, Inc v. Evans 168 F. Supp. 2d 1149 (N.D. Cal., 2001) that rebuilding plans under the FMP must be in the form of a plan amendment or proposed regulations as specified by the Magnuson-Stevens Act, 16 U.S.C. 1854 (e)(3). In accordance with the Court ruling, the magistrate issued an order setting aside those portions of Amendment 12 to the FMP dealing with rebuilding plans (Amendment 12 provided a framework for rebuilding plans that were not themselves plan amendments or proposed regulations). As a result of the magistrate's decision, the Council must now revise Amendment 12 and rebuilding plans to be consistent with the Magnuson-Stevens Act. On January 11, 2002 (67 FR 1555), NMFS notified the Council that yelloweye rockfish was overfished and that the Council must submit a rebuilding plan to NMFS by January 11, 2003. On April 15, 2002 (67 FR 18117), NMFS notified the Council that Pacific whiting was overfished and that the Council must submit a rebuilding plan to NMFS by April 15, 2003. At its October 29 - November 1, 2002, meeting in Foster City, CA, the Council addressed Amendment 16 to the FMP, which is scheduled for adoption in April 2003. Amendment 16 is intended to bring the FMP into compliance with the Court order to make rebuilding measures consistent with the Magnuson-Steven's Act, and allow for public review.

The draft rebuilding plans initially endorsed by the Council are summarized as follows:

POP

Areas: Vancouver and Columbia

Status of stock: 13 percent of its unfished biomass (1998)

Tmax: 2041

Ttarget with a 50 percent probability of rebuilding: 2027

Probability of rebuilding to Bmsy by Tmax: 70 percent

Fmsy proxy: F50%

ABC in 2003: 689 mt

OY in 2003: 377 mt

Management measures for 2003: POP primarily inhabit waters of the upper continental slope and are found along the edge of the shelf. POP are primarily taken in trawl gear. Therefore, new depth based management measures that prohibit bottom trawling in depths where darkblotched rockfish, a slope species, are commonly found will also benefit POP. Relatively small cumulative trip limits are intended to accommodate incidental bycatch without encouraging targeting. POP is not an important species for the recreational or nontrawl commercial fisheries.

Bocaccio

Areas: Monterey and Conception

Status of stock: 3.6 percent of its unfished biomass in 2002

Tmax: 2109 see discussion in previous section regarding the sustainability analysis

Ttarget with a 50 percent probability of rebuilding: see discussion in previous section regarding the sustainability analysis

Probability of rebuilding to Bmsy by Tmax: see discussion in previous section regarding the sustainability analysis

Fmsy proxy: F50%

ABC in 2003: 198 mt

OY in 2003: ≤20 mt

Management measures for 2003: All directed bocaccio rockfish fishing opportunities will be eliminated for 2003. Boccacio rockfish retention will not be permitted in the commercial fisheries. The OY will be used to accommodate discards of bocaccio rockfish resulting from incidental catch taken in fisheries for co-occurring species (see bycatch rate discussion). Bocaccio rockfish are a shelf species commonly found in depths between 45-160 fm (82-293 m). New depth based management measures will prohibit groundfish-directed bottom trawl, limited entry fixed gear, and open access fishing opportunities in the depths where bocaccio are most commonly found. Closed areas will differ by gear type to tailor closures so that they best reflect where a particular gear type takes bocaccio. Chilipepper rockfish will be included in the minor shelf species group, which eliminates opportunities to directly target a species that commonly co-occurs with bocaccio. The California recreational fisheries south of 40° 10′ N. lat. will be closed entirely from January through June, 2003 and open only shoreward of 20 fm (37 m) for July through December. The retention of bocaccio rockfish will be prohibited for all gears.

Lingcod

Areas: Coastwide

Status of stock: 15 percent of its unfished biomass in 2001

Tmax: 2009

Tmid with a 50-percent probability of rebuilding: NA

Probability of rebuilding to Bmsy by Tmax: 60 percent

Fmsy proxy: F45%

ABC in 2003: 841 mt

OY in 2003: 651 mt

Management measures for 2003: In general, commercial non-trawl landings are prohibited during winter months to protect lingcod during their spawning and nesting seasons. Trip limits during the open season remain low. Because lingcod are predominately found on the shelf, gear and depth based management restrictions imposed to protect overfished shelf rockfish species will benefit lingcod. The recreational fisheries in each State maintained a 2 lingcod bag limit, however Washington State will close lingcod fishing for five months, from fall to early spring. California recreational fisheries will be closed from January to June. Commercial hook and line fisheries are similarly closed during the winter months to eliminate targeting during the winter spawning and nesting season.

Canary Rockfish

Areas: Coastwide

Status of stock: 8 percent of its unfished biomass in 2002

Tmax: 2076

Ttarget with a 50 percent probability of rebuilding: 2074

Probability of rebuilding to Bmsy by Tmax: 60 percent

Fmsy proxy: F50%

ABC in 2003: 272 mt

OY in 2003: 44 mt

Management measures for 2003: The new depth based management measures that prohibit bottom trawling on much of the continental shelf and slope will limit opportunity to catch canary rockfish. In addition, small footrope trawl gear restrictions in waters shoreward of the closed areas are expected to keep the incidental catch of canary rockfish low. May to October restrictions for arrowtooth flounder are also expected to minimize incidental catch of canary rockfish. Retention of canary rockfish will be prohibited in the limited entry and open access fixed gear fisheries. The States will require the exempted pink shrimp trawl vessels to use finfish excluders to participate in the state-managed fisheries. The States of Washington and California will ban spot prawn trawls beginning in 2003, and instead require pot gear to be used for spot prawns. In the recreational fisheries canary rockfish retention will be limited to 1 fish in Washington and Oregon, and prohibited in California. In addition, the California recreational fisheries south of 40° 10′ N. lat. will be closed entirely from January through June and open only shoreward of 20 fm (37 m) for July through December.

Cowcod

Areas: Point Conception to the U.S.- Mexico boundary.

Status of stock: 4-11 percent of unfished biomass in 1999

Tmax: 2099

Ttarget with a 50-percent probability of rebuilding: 2095

Probability of rebuilding to Bmsy by Tmax: 55 percent

Fmsy proxy: F50%

ABC in 2003: 24 mt

OY in 2003: 4.8 mt

Management measures for 2003: All directed cowcod fishing opportunities were eliminated beginning in 2001. Retention of cowcod is prohibited for all commercial and recreational fisheries. To protect cowcod from incidental harvest, the Council has recommended continuing to use two Cowcod Conservation Areas (CCAs) (the Eastern CCA and the Western CCA) in the Southern California Bight, delineated to encompass key cowcod habitat areas and known areas of high catches. Fishing for groundfish is prohibited within the CCAs, except that minor nearshore rockfish, cabezon, lingcod, scorpionfish, and greenling may be taken from waters where the bottom depth is less than 20 fathoms (37 m) when the season for those species is open. A transportation corridor is provided through the Western CCA to allow commercial vessels fishing for slope rockfish and other groundfish west of the Western CCA to transport that groundfish through the Western CCA.

Darkblotched rockfish

Areas: Coastwide

Status of stock: 22 percent of unfished biomass in 2000

Tmax: 2047

Ttarget with a 50 percent-probability of rebuilding: 2030

Probability of rebuilding to Bmsy by Tmax: 80%

Fmsy proxy: F50%

ABC in 2003: 205 mt

OY in 2003: 172 mt

Management measures for 2003: Adult darkblotched rockfish primarily inhabit waters of the upper continental slope and are primarily found along the edge of the shelf north of 38° N.′ lat. Darkblotched rockfish are primarily taken with trawl gear. The new depth based management measures that prohibit bottom trawling on much of the continental shelf and slope will limit opportunity to catch darkblotched rockfish. Measures to restrict flatfish trawl fisheries shoreward of 100 fm (183 m) will also protect juvenile darkblotched rockfish. May to October restrictions for arrowtooth flounder are also expected to minimize incidental catch of darkblotched rockfish.

Widow Rockfish

Areas: Coastwide

Status of stock: 24 percent of unfished biomass in 2000

Tmax: 2039

Ttarget with a 50-percent probability of rebuilding: 2037

Probability of rebuilding to Bmsy by Tmax: 60 percent

Fmsy proxy: F50 percent

ABC in 2003: 3,871 mt

OY in 2003: 832 mt

Management measures in 2003: Commercial limits for widow rockfish are intended to accommodate incidental catch and remove incentives for direct fishing. In addition, the midwater trawl fisheries for yellowtail rockfish have been constrained with an incidental catch allowance during the primary season for Pacific whiting to reduce interception of widow rockfish. Bottom trawl opportunities for shelf rockfish continue to be extremely limited, which is expected to benefit widow rockfish.

Yelloweye Rockfish

Areas: coastwide

Status of stock: 24 percent of unfished biomass in 2002

Tmax: 2071

Ttarget with a 50-percent probability of rebuilding: 2052

Probability of rebuilding to Bmsy by Tmax: 92 percent

Fmsy proxy: F50%

ABC in 2003: 52 mt

OY in 2003: 22 mt

Management measures in 2003: Yelloweye rockfish are more available to the fixed gear and recreational fisheries than to trawl gear. The retention of yelloweye rockfish in the commercial fixed gear fisheries will be prohibited. In addition, depth based closures on the continental shelf will prevent commercial interception of yelloweye rockfish. Off Washington State retention of yelloweye rockfish in recreational fisheries will be prohibited. A Yelloweye Rockfish Conservation Area (YRCA) has been identified off the north Washington coast, and recreational fishing will be prohibited within that conservation area. In Oregon, the retention of yelloweye rockfish during the all-depth halibut fisheries will be prohibited, otherwise there is a one yelloweye rockfish sub-limit in the ten marine fish bag limit. The California recreational fisheries south of 40° 10′ N lat will be closed entirely from January through June and open shoreward of 20 fm (37 m) for July through December. However, the retention of yelloweye rockfish in the California recreational fisheries will be prohibited.

Overfishing

None of the 2003 ABCs are knowingly set higher than Fmsy or its proxy, none of the OYs are set higher than the corresponding ABCs, and the management measures in this proposed rule are designed to keep harvest levels within specified OYs. Overfishing is difficult to detect inseason for many groundfish, particularly for minor rockfish species, because most are not individually identified on landing. Species compositions, based on proportions encountered in samples of landings, are applied during the year. However, final results are not available until after the end of the year. Thus, this Federal Register document discusses overfishing for 2001, not 2002. If overfishing occurred on any groundfish species in 2002, it will be discussed in the 2004 Federal Register publication of the specifications for that year. After the 2001 fishing season, NMFS determined that overfishing had not occurred on any of the groundfish species. However, a new stock assessment on Pacific whiting incorporating 2001 hydroacoustic survey data was completed in early 2002. The new stock assessment revised the spawning stock biomass to be lower than previously estimated over the past several years. Therefore, in retrospect, revised biomass estimates based on the results of the new assessment indicate that the exploitation rates on Pacific whiting in 1999, 2000, and 2001 were above the overfishing level.

In the past, several changes to groundfish management, and rockfish management in particular, were intended to ensure that groundfish species were not subject to overfishing harvest rates. These changes included separating the rockfish complex into species and assemblages (nearshore, shelf, and slope), closing fisheries inseason once the OY has been reached, structuring the season to reduce bycatch of overfished species, imposing gear restrictions, requiring sorting of rockfish to improve landings data, and restructuring the season and trip limits inseason. As information on the stocks improves, management measures continue to evolve. For 2003, management measures are more restrictive in order to protect overfished species, including reduced harvest levels, depth based management, closed areas and seasons. Area closures north of Cape Mendocino, CA, were primarily designed to protect canary rockfish, but are also expected to provide protection for other northern overfished species such as darkblotched rockfish, lingcod, POP, yelloweye rockfish, and widow rockfish. Area closures south of Cape Mendocino, CA were primarily designed to protect bocaccio rockfish, but are also expected to provide protection for other southern overfished species such as cowcod, lingcod, and darkblotched rockfish in its southern range.

Bycatch and Discard Accounting

The Magnuson-Stevens Act defines bycatch as “fish which are harvested in a fishery, which are not sold or kept for personal use, and include economic discards and regulatory discards.” By contrast, Pacific Coast groundfish fishery management and many other fishery management regimes commonly use the term bycatch to describe non-targeted species that are caught in common with (co-occur with) target species, some of which are landed and sold or otherwise used and some of which are discarded. The term “discard” is used to describe those fish harvested that are neither landed nor used. For the purposes of this proposed rule, the term “bycatch” is used to describe a species' co-occurrence with a target species, regardless of that first species' disposition.

West Coast groundfish species are rarely found in isolation. They normally form associations with other groundfish species that vary by geographic location, position in the water column, and season. Fisheries management recognizes this mix by setting management measures that discourage targeting of more abundant stocks in times when and areas where depleted stocks may co-occur with those healthy stocks. Fisheries management also recognizes this mix by structuring retention allowances for the harvestable amounts of depleted stocks so that fisheries have some limited opportunity to access more abundant fish stocks.

With the exception of the mid-water trawl fishery for Pacific whiting, most groundfish vessels sort their catch at sea and discard species that are either in excess of cumulative trip limits, unmarketable, in excess of annual allocations, or incidentally caught non-groundfish species. Landed or retained catch has been monitored by the three state-run fish ticket programs in Washington, Oregon, and California. Since August 2001, total catch (landed catch + discards) has been monitored through a Federal observer program. (For more information on the NMFS observer program and the observer coverage plan, see http://wwwnwfsc.noaa.gov/fram/Observer.) Widow, yellowtail, canary and darkblotched rockfish discard in the at-sea whiting fisheries is monitored inseason and actual discard numbers are deducted from the OY.

Groundfish management measures include provisions to reduce trip limit-induced discards and to account for those discards when monitoring harvest levels OYs. Historically, NMFS and the Council have accounted for dead discards by estimating the amounts of certain species OYs that would be discarded dead, and then subtracting those amounts from the total catch OYs to get landed catch levels for those species. These discard rates have been expressed as a percent of total catch OY, so that a 16- percent discard rate for a species meant that 16 percent of that species' total catch OY would be deducted to derive that species' landed catch OY. Then, management measures were set to achieve the landed catch OY for that species. Using discard rates was intended to account for dead fish either as dead discard or in landed catch. For all species except lingcod, sablefish, and nearshore rockfish species, it is assumed that discarded fish are generally dead upon discard or die soon after being discarded. Rockfish, particularly deepwater species, are severely stressed by decompression and temperature shock; however, lingcod discard mortality studies show about a 50-percent discard survival rate. There is no exact measure of discard amounts in most fisheries. Assumed amounts are taken into account to determine the fishing mortality level and to prevent overall harvest from exceeding the OYs.

NMFS approach to bycatch management in the 2002 specifications and management measures was a radical departure from historic bycatch management practices. The primary emphasis of the bycatch modeling that NMFS used in the development of the 2002 management measures was the estimation of the total amounts of bycatch species that would be caught coincidentally with available target species. The new management approach structured the amount and timing of cumulative landings limits for target species so that the expected total catch of both target and bycatch species not exceed their allowable annual harvests. This new approach better accounted for the total mortality of the overfished stocks taken as bycatch than the previous method of applying estimated discard rates to the annual OY to calculate landed catch harvest guidelines. NMFS believes that setting cumulative landing limits for both target and bycatch species based on their co-occurrence in the catch will help ensure that annual OYs for bycatch species are not exceeded. Additional information on the bycatch analysis used in setting the 2002 specifications and management measures is available in the preambles to the proposed and final rules implementing that regulatory package, at 67 FR 1555 (January 11, 2002) and 67 FR 10490 (March 7, 2002,) respectively.

Discard rates for individual groundfish species or species groups are provided in the species-specific footnotes to Table 1 of this document. Although no longer the first line of defense, calculating landed catch OYs based on estimated discard rates is still a strong second line of defense. NMFS new modeling approach for 2002 provided insight into the expected level of discards that are associated with total amounts of catch. Results from the modeling were drawn upon to estimate landed catch OYs for overfished species taken incidentally in the commercial fishery. Landings were monitored so that inseason action could be taken to reduce fishing effort for one or more of the target species. During 2002, notable closures and restrictive regulations were implemented to prevent overharvest of overfished species.

The third line of defense is the revision of the procedures used for evaluating inseason progress of the fishery and for making management adjustments for the target species, and will also help ensure that annual OYs for overfished species are not exceeded. In previous years, when inseason monitoring had revealed that landings of a target species or complex were progressing at a rate that was too fast or too slow, adjustments were made to the cumulative landings limits based primarily on achieving the annual OY for the target species with little consideration of the bycatch implications of changing those limits. For 2002 inseason actions, the bycatch model was used to evaluate the bycatch consequences of any deviations from the projected target fishery landings, and of any changes in target species limits during the remainder of the year. Target species landings limits were not adjusted upwards when an adjustment meant that an associated bycatch species total catch OY would be exceeded, even if the annual OY for the target species would not be achieved.

For setting its 2003 specifications and management measures, the Council again relied on the 2002 bycatch analysis described earlier in this document, adjusted as described below. However, NMFS anticipates revising the co-occurrence rates in the bycatch analysis in early 2003, based on the agency's evaluation of how those rates compare with rates recorded in the first year of the Federal at-sea observer program (August 2001 through August 2002). These revised co-occurrence rates will be used to guide decisions on inseason actions in 2003, just as the original bycatch analysis guided those decisions in 2002.

As discussed in more detail following this section, the Council has introduced new closed areas for 2003, intended to prevent vessels from fishing in waters where overfished species commonly occur. The Council and its advisory bodies expected that introducing new depth based management measures would require adjusting the bycatch analysis to better recognize fishing patterns in the areas remaining open to fishing. Additionally, 2003 depth-related revisions to the bycatch analysis would have to account for expected effort shift by vessels that had historically operated in the formerly open areas.

To account for varying fishing patterns by depth, the Groundfish Management Team (GMT) estimated the percentage of effort shift from closed areas to the remaining open fishing areas, then estimated the percentage of target species OYs that would be taken in the nearshore and offshore open areas. Some deepwater species, such as sablefish, will likely only be taken offshore of the closed areas; similarly, vessels will be targeting nearshore species shoreward of the closed areas. Other species, such as Dover sole, are distributed more broadly and will likely be taken in both the nearshore and offshore open areas. Once the GMT had set formulas to account for effort shift and target species availability in open fishing areas, the GMT addressed expected bycatch rates within those open areas.

Using the bycatch rates approved by the Council for the 2002 groundfish fisheries, the GMT analyzed bycatch rates for the same combinations of targeted and overfished stocks by depth and by two-month fishing period in trawl logbooks. Because the bycatch rates from trawl logbooks for the total fishing area were lower than those chosen by the Council for 2002 management, the GMT assumed that depth-specific bycatch rates shown in the trawl logbooks were not adequately conservative. Thus, the GMT adjusted depth-specific trawl logbook bycatch rates by the ratio between the Council's 2001/2002 selected rates for all areas and the logbook rates for all areas. From these adjustments, the GMT set new depth- and fishing period-specific bycatch rates that were compatible with the more conservative all areas bycatch rates the Council set in 2002. The SSC evaluated the GMT's methodology for setting depth based bycatch rates for 2003 and noted that the methods chosen were reasonable, yet would benefit from the expected 2003 analysis of the bycatch model against data gathered in the at-sea observer program.

In designing trip limits, season closures, and other management measures, the GMT crafted trip limit scenarios for targeted and bycatch species taken in the open areas that were calculated to keep the total catch (landed + discard) of targeted species and overfished species below their respective OYs. The Council's ultimate trip limit, season, and area closure recommendations were shaped largely by the depth-adapted 2001/2002 bycatch and discard analysis and are proposed in section IV of this proposed rule.

Depth-based Management

Since 1998, groundfish management measures have been shaped by the need to rebuild overfished groundfish stocks. The over 80 species in the West Coast groundfish complex mix with each other to varying degrees throughout the year and in different portions of the water column. Some species, like Pacific whiting, are strongly aggregated, making them easier to target with relatively little bycatch of other species. Conversely, other species like canary rockfish may occur in species specific clusters, but are also found co-occurring with a wide variety of other groundfish species. Over the past several years, groundfish management measures have been more carefully crafted to recognize the tendencies of overfished species to co-occur with healthy stocks in certain times and areas.

With the 2002 specifications and management measures, the Council introduced a new bycatch analysis model, discussed earlier, that allowed managers to set trip limits so that more abundant stocks were more strongly targeted in times when they were less likely to co-occur with overfished stocks. The 2002 management measures primarily varied by time (two-month period) and by north-south management area (north of Cape Mendocino, between Cape Mendocino and Point Conception, south of Point Conception, etc.) For 2003, the Council has recommended using a new management tool: depth-based closures intended to prevent vessels from fishing in depths where overfished species commonly occur while still allowing some fishing for more abundant stocks in the open areas.

Depth-based management closures for the continental shelf were first introduced on September 13, 2002 (67 FR 57973), with an emergency rule that closed trawling in the months of September-December 2002 in waters north of 40°10′ N. lat. (approximately at Cape Mendocino) at depths where darkblotched rockfish commonly occurs. At its June 2002 meeting, the Council had found that the darkblotched rockfish estimated total catch was expected to exceed the OY before the end of 2002. In order to protect darkblotched rockfish from overharvest while still allowing fisheries access to underharvested healthy stocks, the Council asked NMFS to implement an emergency rule that would allow trawl gear only shoreward of 100 fm (184 m) and offshore of 250 fm (461 m). NMFS reviewed and implemented the Council's request, revising the restrictions to allow fishing shoreward of 100 fm (184 m) only in October-December and offshore of 250 fm (461 mt) in September-December, to prevent overharvest of canary rockfish and darkblotched rockfish in September.

The September-December 2002 closure was intended to specifically protect darkblotched rockfish, which are commonly caught by trawl gear in waters of 70-250 fm (128-457 m) depth. In designing 2003 management measures, the Council considered depth closures that would provide protection for several overfished species. Different closed areas are provided for different gear types, as not all gear types encounter each overfished species at the same rate or in similar areas. POP, for example, is almost exclusively caught in trawl fisheries, whereas yelloweye rockfish tends to be caught by hook-and-line gear.

For the limited entry bottom trawl fisheries north of 40°10′ N. lat., canary rockfish tends to be available in 20-200 fm (37-366 m) depths, with higher catches in more shallow areas during the summer. As mentioned earlier, darkblotched rockfish tends to be found in 70-250 fm (128-457 m). To provide protection for all of these stocks in 2003, the Council recommended a closed area for bottom trawl fisheries north of 40°10′ N. lat. of 100-250 fm (184-461 m) depths, with the inshore closed area boundary line moving to 75 fm (137 m) for the months of July-August. This closure is expected to protect canary and darkblotched rockfish in areas where they have historically been taken by trawl fisheries. In the months of January-February and November-December, the offshore closed area boundary would be revised to allow some bottom trawling in areas where petrale sole tends to aggregate. (See paragraph IV A. (19) for exact coordinates.) This closed area is also expected to protect other northern continental shelf and slope overfished species, such as lingcod, widow rockfish, POP, and yelloweye rockfish. Large footrope bottom trawling would be prohibited shoreward of the closed areas. Midwater trawling, as defined at 50 CFR 660.322(b)(6) would be permitted within the closed area for Pacific whiting, yellowtail and widow rockfish because these fishing strategies have historically encountered only small amounts of overfished species as bycatch. Trawling with open access exempted gear for species other than groundfish (spot prawn off Oregon and pink shrimp north of 40°10′ N. lat) would be permitted within the closed area. However, the States require groundfish excluder devices to be used in the pink shrimp fishery.

In the limited entry bottom trawl and open access exempted trawl fisheries south of 40°10′ N. lat., bocaccio tend to be found in 45-160 fm (82-293 m) depths and the greatest number of bocaccio tend to be taken between 40°10′ N. lat. and 34°27′ N. lat. (Point Conception.) Although darkblotched rockfish are considered a northern species, they are also found between 40°10′ N. lat. and 38° N. lat. To protect these overfished species, the Council recommended closing bottom trawling between 40°10′ N. lat. and 38° N. lat. in 60-250 fm (110-457 m) depths, except that the inshore closed area boundary would be at 50 fm (91 m) in January-February. Between 38° N. lat. and 34°27′ N. lat., bottom trawling would be closed in 60-150 fm (110-274 m) depths, except that the inshore closed area boundary would be at 50 fm (91 m) in January-February. South of 34°27′ N. lat., bottom trawling would be permitted along the mainland coast (not off California islands) inside of 100 fm (183 m). Around the California islands, bottom trawling would be prohibited shoreward of 150 fm (274 m). Midwater trawling, as defined at 50 CFR 660.322(b)(6), would be permitted within the closed areas only for widow rockfish and whiting. For all areas, large footrope bottom trawling would be prohibited shoreward of the closed areas. Small footrope trawls are less able to fish in the rocky habitat preferred by many of the overfished rockfish species. In addition to these depth closures, the CCAs will remain closed to fishing offshore of 20 fm (37 m).

North of Cape Mendocino, CA, limited entry fixed gear and open access hook-and-line fisheries have a greater effect on yelloweye rockfish and a lesser effect on darkblotched rockfish than trawl gear fisheries. Thus, depth restrictions for these fisheries were designed to prevent hook-and-line gear from operating in depths where yelloweye rockfish are commonly found, 100 fm (183 m) and shallower. The Council has recommended closing limited entry and open access hook-and-line fishing shoreward of the 100 fm (183 m) contour off the Washington coast, and between 27 fm (49 m) and 100 fm (183 m) off the Oregon coast and off California north of 40°10′ N. lat. The 27-fm (49-m) contour occurs entirely in State waters off the State of Washington and commercial fishing for groundfish is prohibited in State waters off Washington, making an inshore closed area boundary moot for that State. Fishing is permitted shoreward of the 27 fm (49 m) boundary off Oregon and northern California because this area tends to be inshore of the areas where overfished species occur.

South of 40°10′ N. lat., limited entry fixed gear and open access fisheries will be primarily constrained by management measures to protect bocaccio. Fishing will be prohibited between the 20-fm (37-m) and 150-fm (274-m) depth contours throughout the year. The Council recommended an exception to this prohibition for commercial vessels using hook-and-line gear with no more than 12 hooks per line and up to 1 lb (.45 kg) weight per line, using hooks no larger than “Number 2” hooks, which measure 11 mm (0.44 inches) point to shank. This type of gear is used by vessels fishing for Pacific sanddabs, an abundant species that does not usually co-occur with overfished species. Hook-and-line vessels will also be permitted to fish in waters of 20-60 fm (37-110 m) depths during July and August. In addition to these depth closures, the CCAs will remain closed to fishing offshore of 20 fm (37 m).

Anticipating inseason adjustments to depth-based management measures, designed to protect overfished species while allowing the harvest of healthy groundfish stocks, the states of Oregon and California supplied coordinates for two additional depth contours. A 50-fm (91-m) depth contour off the state of Oregon and/or a 150-fm (270-m) depth contour between 46°16′ N. lat. and 38°N. lat. may be implemented at any time during 2003 through an inseason action.

Recreational fisheries off Washington, Oregon, and California north of 40°10′ N. lat. will be subject to fewer depth restrictions than the commercial fisheries, primarily because most recreational vessels tend to operate in the nearshore area inside State waters. Off Washington, recreational fishing for groundfish and halibut will be prohibited inside the YRCA, a C-shaped closed area off the northern Washington coast. Coordinates for the YRCA will be defined at 50 CFR 660.304(d). Off Oregon and California north of 40°10′ N. lat., recreational fishing for groundfish will be closed outside of 27 fm (49 m) if either the yelloweye or canary rockfish recreational fisheries set asides are projected to be achieved.

As in past years, recreational fisheries off California south of 40°10′ N. lat., will be constrained by depth in order to reduce catch of bocaccio and other overfished rockfish species. Recreational fishing for groundfish will be prohibited entirely in waters offshore of the 20 fm (37 m) depth contour. The CCAs will also remain closed to fishing offshore of 20 fm (37 m). Coordinates defining the CCAs have changed modestly to ensure that the CCAs comply with depth-based closures for waters off southern California. CCA coordinates will be defined at 50 CFR 660.304(c).

Many of the closed areas and boundary lines are generally described using a fathom contour line. All of these lines, except the 20 fm (37 m) contour off California south of 40°10′ N. lat. and the 3-nautical mile State management line off California, are specifically defined in the regulations at IV.A. (19), using latitude/longitude waypoints. These waypoint coordinates provide straight-line boundaries that approximate the depth-contours to provide clarity to the closed area boundaries for enforcement purposes. To ensure that consistent nomenclature is used coastwide, an area closed to fishing for groundfish will be referred to as a “Groundfish Conservation Area” in general, regardless of whether the boundaries of that area change during the year. The YRCA and the CCA are defined by coordinates that are fixed throughout the year. The larger, gear or sector-specific closed areas described by depth contour boundaries for the 2003 fishing year will be referred to as “Rockfish Conservation Areas,” or RCAs. For example, there will be both a trawl RCA and a non-trawl RCA north of 40°10′ N. lat. Boundaries for the RCAs will be referred to as either the “inshore boundary,” meaning the RCA boundary or borderline that is closest to shore, or the “offshore boundary,” meaning the RCA boundary or borderline that is farthest offshore.

At its September meeting, the Council adopted the State of California's recommendation to create a California Rockfish Conservation Area (CRCA) in waters south of 40°10′ N. lat. To ensure consistent coastwide nomenclature, this area will be referred to as an RCA in Federal regulations. NMFS anticipates that the Council and the State of California may continue to refer to the CRCA in management discussions. This RCA south of 40°10′ N. lat. will be an area of restricted or no fishing intended to protect overfished rockfish species. This restricted area is proposed as ocean waters of 20-250 fm (37-457 m) depth between 40°10′ N. lat. and 38° N. lat and waters of 20-150 fm (37-274 m) depth between 38° N. lat. and the U.S. border with Mexico. The restrictions for that area that apply to the groundfish fisheries and the exceptions to those restrictions are described earlier in the section on depth based management. Any vessel allowed to fish within the CRCA based on an exception to a fishing restriction would be required to accommodate a State or Federal observer, if requested. In creating this RCA, the Council and the State of California wished to ensure that they had accounted for all fisheries that operate in waters where overfished rockfish species occur, whether State or federally managed. Several of the restrictions within the RCA affect only State-managed species and will be implemented through State regulations. Other restrictions affect federally-managed species other than groundfish, such as salmon, and will be implemented through Federal salmon regulations.

Vessel Monitoring System (VMS)

Routine monitoring of the fishing fleet is used to ensure that vessel operators comply with fisheries regulations. Traditional monitoring techniques include the monitoring of fisheries from air and surface craft, observer programs and analysis of catch records and vessel logbooks. The efficiency of these surveillance techniques can be dramatically enhanced by the addition of a VMS. VMS is a tool that is commonly used to monitor vessel activity in relationship to geographically defined management areas where fishing activity is restricted. VMS transmitters installed aboard each vessel automatically determine the vessel's location and transmit that position to a processing center via a communication satellite where the information is validated and analyzed before being disseminated for fisheries management, surveillance and enforcement purposes. Transmitters are designed to be tamper resistant and automatic.

Time area closures have long been used to restrict fishing activity in the Pacific Coast groundfish fishery in order to keep harvests within sector allocations and at sustainable levels or to prohibit the catch of certain species. Until September 2002, geographically defined areas tended to be in the nearshore area or defined by simple latitude lines. On September 13, 2002, NMFS published an emergency rule that established a Darkblotched Rockfish Conservation Area for the Pacific Coast groundfish fishery (67 FR 57973), a large irregularly shaped geographical area defined by a series of latitudinal and longitudinal coordinates that extends far offshore with much activity being beyond the range of State enforcement capabilities. Coastwide, depth-based areas defined for 2003 are similarly defined. Traditional enforcement of time areas closures is most effective when the geographical areas are nearshore, small, and defined by simple line. Therefore, management and enforcement of the large irregularly shaped areas proposed for the Pacific Coast groundfish fishery would be greatly enhanced if a VMS program were established. The Council recommended that NMFS move forward in developing a VMS program with the intention of having a system in place by mid-year 2003.

For October-December 2002, Washington and Oregon were able to monitor mid-water fisheries for yellowtail and widow rockfish in the DBCA through a vessel declaration process. The declaration process required vessels intending to fish within the closed area with mid-water gear to declare their intentions to the States. The States were able to fund this process because each vessel was limited to two trips per 2-month period, which also limited the number of declarations the States would have to track. In 2003, the States will not be able to monitor fisheries occurring within the closed areas with a declaration process because they are unable to fund such a process. Federal regulations proposing implementation of a VMS system will address the possible need for a Federal declaration system in conjunction with VMS coverage.

II. Commercial and Recreational Fisheries

Since 1994, the non-tribal commercial groundfish fishery has been divided into limited entry and open access sectors, each with its own set of allocations and management measures. Species or species group allocations between the two sectors are based on the relative amounts of a species or species group taken by each component of the fishery during the 1984-1988 limited entry permit qualification period (50 CFR 660.332). The FMP allows suspension of this allocation formula for overfished species when changes to the traditional allocation formula are needed to better protect overfished species (FMP, section 5.3.2).

Historically, groundfish species and/or species groups have not been allocated between the commercial and recreational fisheries. Fishery managers instead estimated the amount that would be taken in the recreational fisheries and set that amount aside before determining the allowable harvest for the non-tribal commercial sectors. For 2003, the Council has recommended adopting nearshore groundfish allocations between the recreational and commercial fisheries. These allocations were proposed by the States of Oregon and California for waters off their coasts north and south of 40°10′ N. lat. and are intended to maintain the ratio between recreational and commercial landings 2000. Most of the fish subject to the allocation will be taken in State waters, but State-Federal management of these nearshore species is coordinated through the Council. Commercial groundfish fishing is prohibited in Washington State waters.

Groundfish species or species group allocations and set asides for the tribal and non-tribal sectors, and between the different non-tribal commercial and recreational sectors, are detailed in Tables 1a and 1b. All OYs, allocations and set asides are expressed in terms of total catch. The limited entry/open access allocations for bocaccio, canary, darkblotched, yelloweye rockfish, and the nearshore rockfish species group would be suspended to allow the Council to better develop management measures that provide harvest opportunity for more abundant stocks while protecting overfished stocks. Estimates of trip-limit induced discards are taken “off the top” and in accordance with the bycatch and discard analysis described earlier in this notice before setting the non-tribal sector allocations, except for estimates of sablefish discards as explained in the footnotes to Table 1a. Landed catch equivalents are the harvest goals used when adjusting trip limits and other management measures during the season. Estimated bycatch of yellowtail, widow, canary, and darkblotched rockfish in the offshore whiting fishery is also deducted from the limited entry allocations before determining the landed catch equivalents for the target fisheries for widow and yellowtail rockfish.

Open Access Allocations

The open access fishery is composed of vessels that operate under the OYs, quotas, and other management measures governing the open access fishery, using (1) exempt gear or (2) longline or pot (trap) gear fished from vessels that do not have limited entry permits endorsed for that gear. Exempt gear includes all types of legal groundfish fishing gear except groundfish trawl, longline, and pots. (Exempt gear includes trawls used to harvest pink shrimp, spot or ridgeback prawns (shrimp trawls) and halibut or sea cucumbers south of Pt. Arena, CA (38°57′30″ N. lat.)

Open access allocations are derived by applying the open access allocation percentages to the commercial OY. The commercial OY is the total catch OY after subtracting any tribal allocations and set-asides for recreational fisheries or compensation fishing for conducting resource surveys. For those species in which the open access share would have been less than 1 percent, no open access allocation is specified unless significant open access effort is expected.

Limited Entry Allocations

The limited entry fishery is the fishery composed of vessels using limited entry gear fished pursuant to the OYs, quotas, and other management measures governing the limited entry fishery. Limited entry gear includes longline, pot, or groundfish trawl gear used under the authority of a valid limited entry permit issued under the FMP, affixed with an endorsement for that gear. Groundfish trawl gear excludes shrimp trawls used to harvest pink shrimp, spot or ridgeback prawns, and other trawls used to fish for California halibut or sea cucumbers south of Pt. Arena, CA. A sablefish endorsement is also required for a vessel to operate in the limited entry primary fixed gear season for sablefish.

The limited entry allocation (in total catch) is the OY reduced by (1) set-asides, if any, for treaty tribal fisheries, recreational fisheries, or compensation fishing for participation in resource surveys (which results in the commercial OY or quota); and (2) the open access allocation. (Allocations for Washington coastal tribal fisheries are discussed in Section V. and, for Pacific whiting, at paragraph IV.B.(3).)

Following these procedures, the Regional Administrator calculated the amounts of allocations that are presented in Table 1a of this document. Unless otherwise specified, the limited entry and open access allocations would be treated as OYs or harvest guidelines in 2003. There may be slight discrepancies from the Council's recommendations due to rounding.

III. 2003 Management Measures

Before 2000, the major goals of groundfish management were to prevent overfishing while achieving the OYs and to provide year-round fisheries for the major species or species groups. Over time, however, it became apparent that a number of species could not continue to be harvested year-round at a constant harvest rate. New legislative mandates under the Magnuson-Stevens Act (as amended by the Sustainable Fisheries Act in 1996) gave highest priority to preventing overfishing and rebuilding overfished stocks to their MSY levels. The National Standard Guidelines at 50 CFR 600.310 interpreted this as “weak stock management,” which means that harvest of more abundant stocks may need to be curtailed to prevent overfishing or to rebuild overfished stocks.

Nine FMP species were declared overfished as of March 2002 (lingcod, bocaccio, POP, canary rockfish, cowcod, widow rockfish, darkblotched rockfish, yelloweye rockfish and Pacific whiting). Of the management measures intended to protect these species, measures for canary and darkblotched rockfish protection in the north and bocaccio protection in the south are the most constraining, because both species are broadly distributed on the continental shelf. Canary rockfish management is constraining because canary rockfish are caught directly or incidentally in most West Coast fisheries (groundfish and non-groundfish.) In order to rebuild these overfished species while allowing harvest of more abundant stocks, the Council chose management measures that prohibit bottom trawling over large portions of the continental shelf, where lingcod, bocaccio, canary rockfish, cowcod, widow rockfish, yelloweye rockfish, and, to a lesser extent, POP and darkblotched rockfish occur. As discussed earlier in this notice, the depth based management measures introduced for 2003 are gear-specific and have been crafted to maximize fishing opportunity for more abundant stocks in times when and areas where bycatch and discard of overfished and depleted stocks is estimated to be lowest.

Management measures for the limited entry fishery are found in section IV. Most cumulative trip limits, size limits, and seasons for the limited entry fishery are set out in Tables 3 and 4 of section IV. However, the limited entry nontrawl sablefish fishery, the midwater trawl fishery for Pacific whiting, and the hook-and-line fishery for black rockfish off Washington are managed separately from the majority of the groundfish species and are not fully addressed in the tables. The management structure for these fisheries has not changed since 2002, except for the level of trip limits for sablefish and Pacific whiting, and is described in paragraphs IV.B.(2)-(4) of section IV. Other provisions for the 2002 fisheries not explicitly addressed above would remain in effect for 2003 and are repeated in section V. of this document.

After hearing proposals and advice from its advisory entities and public testimony at its September 2002 meeting, the Council recommended the following actions for management in 2003.

Limited Entry Trawl

For the limited entry trawl fishery, the Council recommended a suite of gear restrictions, area closures and cumulative trip limits designed to allow fishing with gear in times and areas where incidental catch of overfished or depleted species will be minimized. In 2002, limits for some species groups were more varied than those proposed for 2003 because the 2002 limits were set to encourage (higher limits) or discourage (lower limits) fishing in different depths. Because the Council has recommended depth based closures for 2003, trip limits for those species taken in areas that remain open vary less than in 2002. Many of the more abundant groundfish stocks, such as the suite of flatfish species, are harvested almost exclusively with trawl gear, rather than with hook-and-line gear. Similarly to closed areas designed to protect overfished species taken with trawl gear, the limited entry trawl trip limit regime for more abundant stocks is gear-specific.

Flatfish fisheries are managed with more restrictive trip limits and an expanded closed area during the summer months, when participation is greater and trawl tows for flatfish are more likely to encounter overfished species. Dover sole, sablefish, thornyhead (DTS) complex limits vary only slightly throughout the year because fishing for these species is expected to largely take place on the continental slope, beyond the offshore boundary of the trawl RCAs. North of 40°10′ N. lat., the trawl RCA is primarily intended to protect canary and darkblotched rockfish; south of 40°10′ N. lat., the trawl RCA is primarily intended to protect bocaccio.

As in 2002, trawl-caught lingcod retention would be permitted throughout the year, with higher limits in the summer months. Lingcod caught incidentally during winter trawl fisheries would otherwise be discarded and thereby increase the overall lingcod discard level in the trawl fisheries. The lingcod landings limits of 800 lb (363 kg) per 2-month period in the winter months and 1,000 lb (454 kg) per 2-month period in the summer months are not high enough to give trawlers an incentive to target lingcod. Total lingcod catch is expected to be well under the lingcod OY due to fishery restrictions intended to protect other overfished species.

For 2003, the Council recommended continuing the use of differential trip limits for limited entry trawlers operating with different trawl gear configurations: bottom trawl with footropes greater than 8 inches (20.5 cm) in diameter (large footrope); bottom trawl with footropes smaller than 8 inches (20.5 cm) in diameter (small footrope); and midwater or pelagic trawl. Trawling with footropes that have roller gear or other large gear designed to bounce over tough rock piles tends to allow those vessels greater access to rocky areas where several of the overfished species congregate. Therefore, landings of shelf rockfish are prohibited if large footrope trawls (such as roller gear) are used (or are on board the vessel); small amounts of shelf rockfish bycatch may be landed if small footrope trawls are used; and, targeting more abundant shelf rockfish stocks is encouraged only if midwater trawls are used. Midwater trawl gear generally has very low bycatch of overfished species because most of those species aggregate on or near the ocean bottom, where mid-water trawl gear does not operate. To further ensure that large footrope trawl gear is not used in nearshore and continental shelf areas, bottom trawling with large footrope gear is prohibited shoreward of the RCAs. Within the RCAs, bottom trawling will be prohibited for all groundfish and mid-water trawling will be permitted only for Pacific whiting, widow rockfish and yellowtail rockfish north of 40°10′ N. lat. and only for whiting and widow rockfish south of 40°10′ N. lat. If a vessel fishes in an RCA, it may not participate in any fishing on that same trip that is inconsistent with the restrictions that apply within the RCA. For example, if a vessel participates in the shrimp fishery within the RCA, the vessel cannot on the same trip participate in the DTS fishery outside the RCA. Additionally, only one trawl gear type will be permitted on board per fishing trip. Cowcod prohibitions and CCAs apply to limited entry trawl vessels, although there are few limited entry trawl vessels operating south of Point Conception in CCA waters.

Large footrope trawls may still be used for deepwater fisheries where fewer overfished species are encountered. These fisheries primarily take Dover and rex soles, thornyheads, sablefish, and deepwater rockfish. Higher limits of yellowtail and widow rockfish are available when those species are taken with midwater trawl gear during the primary whiting season. Yellowtail rockfish taken with small footrope gear is restricted to 1,000 lb (454 kg) per month unless it is taken with flatfish, or taken during November-December. These combined yellowtail rockfish management measures are intended to allow yellowtail rockfish retention in fisheries, times and areas where incidental harvest of overfished species is lower.

Limited Entry Fixed Gear

Similar to the limited entry trawl fisheries, trip limit opportunities and area closures in the limited entry fixed gear fisheries are arranged to minimize opportunities for intercepting overfished species. As discussed earlier, limited entry fixed gear fisheries will be closed in times when and areas where they are expected to intercept overfished species.

North of 40°10′ N. lat., management measures to protect yelloweye rockfish constrain the limited entry fixed gear fishery by prohibiting those vessels from operating in an RCA of 27-100 fm (49-183 m) depths. Washington State waters (shore to 3 nm) are closed to commercial groundfish fishing and the 27 fm (49 m) contour is entirely within State waters, which means that limited entry fixed gear vessels operating off Washington will not have nearshore fishing opportunities. South of the Washington/Oregon border at 46°16′ N. lat. and north of 40°10′ N. lat., the primary limited entry fixed gear fishing opportunity shoreward of the RCA will be for nearshore rockfish. Similar to 2002, fisheries for minor nearshore rockfish north of 40°10′ N. lat. are managed with sublimits for species other than black and blue rockfish, to encourage targeting on these more abundant nearshore rockfish species.

South of 40°10′ N. lat., the limited entry fixed gear RCA is in 20-150 fm (37-274 m) depths to protect bocaccio and other overfished rockfish. In 2001 and 2002, this fishery and the open access hook-and-line fishery had season structures tied to that of the recreational fishery south of 40°10′ N. lat. This season structure link was intended to facilitate enforcement, so that similar gear types would be either on or off the water at the same time. For 2003, the recreational and commercial fisheries will be separated because the recreational season has been shifted to a six month July-December block. If commercial hook-and-line fisheries were restricted to July-December, key fishing and marketing months in spring and early summer would be closed. Trip limits for species available in the open inshore area tend to be higher in the summer months. For the first time in 2003, species in the minor nearshore rockfish complex in the south will be managed with different trip limits for a shallow nearshore group, a deeper nearshore group, and California scorpionfish (shallow and deeper nearshore groups defined at IV.A.(20) and in Table 2.) These groups will be managed separately because the Council expects an increase in nearshore fishing effort due to fishing being prohibited in the RCA and wishes to spread that effort through the different minor nearshore species that will be available shoreward of the RCA. Cowcod prohibitions and closures continue to apply to limited entry, fixed gear vessels.

Limited entry fixed gear fisheries for sablefish will likely be concentrated offshore of the RCAs north and south of 40°10′ N. lat. Larger sablefish, which sell for a higher price per pound than small sablefish, tend to be found farther offshore. The primary sablefish fishery will again be held from April 1 through October 31 north of 36° N. lat. Minor slope rockfish are often caught in association with sablefish, therefore vessels will be permitted minor slope rockfish landings of up to 25 percent of the weight of sablefish landed during the months of March through October. Minor slope rockfish may not be landed unless taken with sablefish so as to discourage directed targeting on that complex. The northern overfished slope rockfish species, darkblotched rockfish and POP, are not commonly caught with fixed gear. Historically, yelloweye rockfish have been caught incidentally in hook-and-line sablefish fisheries. In 2003, however, hook-and-line sablefish fisheries will be moved offshore of yelloweye rockfish habitat through implementation of the RCAs. Yelloweye rockfish retention will again be prohibited in the 2003 limited entry fixed gear fisheries.

As in 2001-2002, limited entry fixed gear fishing for lingcod will be prohibited during January through April and during November through December. These closures are intended to protect nest-guarding lingcod during the spawning and nesting season. Nest-guarding lingcod are more available to fixed gear than to trawl gear, because lingcod nest in rocky habitat that tears trawl gear while line gear may be used successfully in rocky areas. Winter closures for fixed gear are intended to eliminate fixed gear lingcod targeting.

Open Access Nontrawl Gear (Hook-and-line, Troll, Pot, Setnet, Trammel Net)

The open access nontrawl fishery is managed separately from the limited entry fixed-gear fishery, but overfished species protection measures are similar for both sectors. As in the past, open access cumulative trip limits continue to be applied mostly to 2-month periods, and thornyheads may not be taken and retained north of 34°27′ N. lat. Season structuring and RCAs are similar to those for the limited entry fixed gear fisheries, and implemented to protect the same overfished species. The lingcod fishery for all open access nontrawl gears is also subject to the same closures and size limits as the limited entry fixed gear fisheries. Similar to 2002, fisheries for minor nearshore rockfish north of 40°10′ N. lat. are managed with sublimits for species other than black and blue rockfish, to encourage targeting on these more abundant nearshore rockfish species. Cowcod prohibitions and closures apply to all open access vessels.

Open access cumulative limits may exceed those for limited entry. If a vessel with a limited entry permit uses open access gear (including exempted trawl gear) and the open access cumulative limit is larger, the vessel will be constrained by the smaller, limited entry cumulative limit for the entire cumulative period.

Open Access Exempted Trawl Gear

Open access exempted trawl gear (used to harvest ridgeback prawns, California halibut, sea cucumbers, pink shrimp, or spot prawns in Oregon) is managed with both “per trip” limits, cumulative trip limits, and area closures. These trip limits are similar to those in 2002, and the species-specific open access limits apply but may not exceed the overall groundfish limits. The groundfish limits in the pink shrimp fishery are 500 lb (227 kg) of groundfish per day, not to exceed 1,500 lb (680 kg) per trip in the pink shrimp fishery. For other exempted trawl gears, there is a 300 lb (136 kg) per trip limit of groundfish. The pink shrimp fishery is subject to species-specific limits that are different from other open access limits for lingcod, canary rockfish, and sablefish. As with open access nontrawl gears, thornyheads may not be taken and retained north of 34°27′ N. lat. RCAs for the limited entry trawl fishery also apply to open access exempted trawl fisheries south of 40°10′ N. lat. Cowcod prohibitions and closures apply to all open access vessels.

South of 40°10′ N. lat., the RCAs for exempted trawl gear are similar to those for limited entry trawl gear. Between 40°10′ N. lat. and 38° N. lat., trawling is prohibited in 60-250 fm (110-457 m) depths (50-250 fm (91-457 m) in January-February) and large footrope trawling is prohibited shoreward of the RCA. Between 38° N. lat. and 34°27′ N. lat., trawling is prohibited in 60-150 (110-457 m) depths (50-250 fm (91-457 m) in January-February) and large footrope trawling is prohibited shoreward of the RCA. From 34°27′ N. lat. to the U.S. border with Mexico, trawling is prohibited in 100-150 fm (183-274 m) depths and large footrope trawling is prohibited shoreward of the RCA.

In addition to the trip limit restrictions and area closures south of 40°10′ N. lat., all three States are requiring that vessels operating in their pink shrimp trawl fisheries use finfish excluders. The States of Washington and California have banned trawling for spot prawns, requiring that spot prawn fishery participants use low bycatch pot gear. Oregon is in the process of considering whether to similarly ban trawling for spot prawns. The State of California is also requiring that ridgeback shrimp trawlers use finfish excluder devices, similar to requirements in the more northern pink shrimp trawl fishery.

Recreational Fishery

Recreational fisheries effort has also been constrained to protect overfished species, particularly for lingcod, canary rockfish, bocaccio, and yelloweye rockfish, which have significant recreational catches. Washington, Oregon, and California each proposed, and the Council recommended, different combinations of seasons, bag limits, and size limits to best fit the needs of their recreational fisheries, while also meeting conservation goals.

For lingcod, Washington proposed closing their recreational fishery for 5 months (January 1 - March 15, October 15 - December 31) and maintained its 2 fish bag limit and its 24 inch (61 cm) minimum size limit. For Oregon and California north of 40°10′ N. lat., the States proposed increasing the lingcod bag limit to 2 fish, and continuing the year-round fishery and 24 inch (61 cm) minimum size limit. For California, south of 40°10′ N. lat., California proposed maintaining its 2-lingcod bag limit and 24- inch (61-cm) size limit, but restricting its fishery to a 6- month season of July-December.

Recreational fisheries management off Washington and Oregon will again be shaped this year by a need to maintain low yelloweye rockfish catch. Measures taken to protect yelloweye rockfish in 2002 will be maintained and expanded upon. Washington also proposed maintaining its 10 rockfish bag limit, but reducing its canary rockfish sublimit to 1 fish and prohibiting yelloweye rockfish retention. In the past, Oregon has had an overall rockfish bag limit of 10 fish. For 2003, Oregon proposed including rockfish within an overall 10 marine fish bag limit, a category that includes all marine fish except salmon, tuna, surfperch, sanddab, lingcod and baitfish (herring, anchovy, smelt, and sardine.) For Oregon anglers who take marine fish other than rockfish, this marine fish bag limit will reduce the amount of available rockfish. Within the 10 marine fish bag limit, Oregon has proposed a sublimit of no more than one canary rockfish and no more than one yelloweye rockfish. In reviewing the take of yelloweye rockfish in their recreational fisheries, the States of Washington and Oregon found that yelloweye rockfish is most frequently taken by vessels that travel offshore to target Pacific halibut. However, yelloweye rockfish are not taken while the vessel is fishing for halibut, but rather after the vessel has completed its halibut fishing and is headed for port. Therefore, prohibiting the retention of yelloweye rockfish when halibut are on the vessel should eliminate the directed harvest of yelloweye rockfish during halibut fishing trips, without causing discard of incidentally-caught yelloweye rockfish. Oregon has proposed prohibiting the retention of yelloweye rockfish during its all-depth halibut fisheries. Washington has proposed prohibiting all yelloweye rockfish retention off its shore, and will also prohibit recreational fishing for groundfish and halibut within the YRCA.

Recreational fishing restrictions proposed by California are intended to ensure that fishing mortality does not exceed limits associated with rebuilding plans for bocaccio, canary rockfish, cowcod, and lingcod. In 2001 and 2002, California's recreational fisheries management measures were not sufficiently conservative to prevent their fisheries from exceeding their set asides for overfished rockfish species. Therefore, California has proposed notably more restrictive measures for 2003. North of 40°10′ N. lat., California recreational management measures will continue to be similar to those for waters off Oregon. South of 40°10′ N. lat., where the significant majority of California recreational fisheries occur, recreational fishing will be closed entirely January through June and open only shoreward of 20 fm (37 m) July through December. The season was restructured to maximize recreational harvest opportunity while ensuring that nearshore groundfish, California scorpionfish, and lingcod shoreward of 20 fm (37 m) are not overharvested. California proposed to maintain its 10 rockfish bag limit, but set that within a 10 fish nearshore groundfish bag limit, similar to Oregon's marine fish bag limit. Within the nearshore groundfish limit, no more than 2 fish may be rock or kelp greenling and no more than three fish may be cabezon. Within the 10-rockfish bag limit, no more than two may be shallow nearshore rockfish. Unlike in previous years, bocaccio, canary rockfish and yelloweye rockfish retention will be prohibited. As with the commercial fisheries, cowcod retention will continue to be prohibited and recreational fishing within the CCAs offshore of 20 fm (37 m) will be prohibited.

Council Revisions to Its Management Measures Recommendations

At its October 28 through November 1, 2002 meeting in Foster City, CA, the Council made recommendations to modestly alter some of the management measures recommendations it had made at its September 2002 meeting. These recommendations were made at the November meeting, when the public had not expected to have opportunity to comment on 2003 management measures. In addition, these are minor changes that need not be in place on January 1. 2003. Thus, NMFS is proposing the Council's November recommendations as part of this proposed rule, but will not implement them for January-February 2003 via the emergency rule implementing management measures for those two months. The Council made the following recommended revisions to its September 2002 management measures recommendations, all of which are minor and are not expected to alter the overall effect of this management package on the environment:

1. For vessels participating in the open access exempted trawl fishery for California halibut south of 38°57′30″ N. lat., continue overall groundfish 300 lb (136 kg) per trip limit, provided that weight of groundfish landed does not exceed weight of non-groundfish species landed. However, allow up to 100 lb (45 kg) of groundfish to be landed without the vessel having to meet that ratio requirement, provided that at least one California halibut is landed.

2. For vessels participating in the open access exempted trawl fishery for California halibut south of 38°57′30″ N. lat. the monthly flatfish cumulative limit of 3,000 lb (1,361 kg), no more than 300 lb (136 kg) of which may be species other than Pacific sanddabs, is proposed to be revised so that the overall monthly cumulative limit is retained, but no more than 300 lb (136 kg) of that cumulative amount may be species other than Pacific sanddabs, sand sole, starry flounder, rock sole, curlfin sole, or California scorpionfish. Vessels fishing for sea cucumber with open access exempted trawl gear that also take California halibut would still have access to the 300 lb (136 kg) per trip limit, but only if their landings of groundfish species did not exceed their landings of non-groundfish species.

3. Continue to allow hook-and-line fishing for Pacific sanddabs within the RCAs south of 40°10′ N. lat. However, instead of allowing this fishing with up to 5 hooks per fishing line and no more than 5 lb (2.27 kg) line weight, allow this fishing with up to 12 hooks per fishing line and no more than 1 lb (.45 kg) line weight for commercial fisheries and no more than 2 lb (.91 kg) line weight for recreational fisheries.

4. Revise the coordinates of the YRCA so that they define a “C-shaped” area off the north Washington coast instead of an “L-shaped” area to better protect areas where yelloweye rockfish are found, and to be consistent with the measures proposed for the recreational fisheries for halibut.

Fishing Communities and Impacts

The Magnuson-Stevens Act requires that actions taken to implement FMPs be consistent with the 10 National Standards, one of which requires that conservation and management measures shall, consistent with the conservation requirements of the Act, “take into account the importance of fishery resources to fishing communities in order to (A) provide for the sustained participation of such communities and (B), to the extent practicable, minimize adverse economic impacts on such communities.” Commercial and recreational fisheries for Pacific coast groundfish contribute to the economies and shape the cultures of numerous fishing communities in Washington, Oregon, and California. Meeting the needs of fishing communities has become increasingly difficult because the Council manages an overcapitalized fleet that harvests a multi-species complex with several overfished species. In recommending this year's specifications and management measures, the Council accommodated some of the needs of those communities within the constraints of Magnuson-Stevens Act requirements to rebuild overfished stocks, prevent overfishing, and minimize bycatch. In general, the Council allows the largest harvest possible, consistent with conservation needs of the fish stocks.

West Coast groundfish intermix by species, which means that interception and incidental mortality of overfished species is inevitable even if retention of a particular species is prohibited. As discussed earlier, the Council's primary goal for 2003 was to minimize opportunities for incidental take of overfished species while allowing as much fishing opportunity of more abundant stocks as possible. To achieve this, the fishing seasons and area closures are structured both to maximize target species catch while minimizing overfished species incidental take and to allow minimal retention of overfished species where incidental take will inevitably occur. Larger area closures are intended to ensure that few vessels have opportunities to fish in waters where overfished species commonly occur.

For 2003, the Council continued the year-round fishery opportunity that is important to the fishing and processing sectors for maintaining continuous employment opportunities and maintaining consistent groundfish marketing opportunities. Depth closures and gear restrictions would modify the cumulative trip limit system to allow fishing for at least some groundfish species at all times during the year. Gear restrictions prohibit bottom trawling with roller gear in the nearshore area and on the continental shelf and allow only the use of midwater trawl on the continental shelf where most overfished species occur. Small footrope bottom trawling is permitted in the nearshore area. The concepts behind these trawl gear restrictions were first developed for the 2000 fishery by a group of industry participants who met with the GMT to develop measures that would achieve conservation goals while minimizing effects of the restrictions on the industry and coastal communities.

Allowable commercial catches of many groundfish remain low in 2003, but the Council has tried to structure the area closures to provide commercial fisheries with greater flexibility in their fishing patterns while not increasing the overall catches. For example, the offshore boundary of the trawl RCA is modified in January-February and in November-December to allow directed fishing for petrale sole in areas where and times when petrale sole are known to aggregate and to co-occur with fewer overfished stocks. New depth based closures are intended to allow fisheries access to more abundant stocks in the offshore and inshore open areas, thereby limiting the extent to which fishers and related firms would be driven out of business. Many commercial groundfish fishers have other fishing opportunities during the year, and these opportunities were taken into account. For example, the small-scale commercial fishers (and recreational fishers) in southern California would (under State regulations) still be able to fish for certain species in nearshore waters while the continental shelf is closed to protect overfished species.

Nonetheless, the effects of these 2003 management measures on some fishers and communities will be severe, particularly for those without other opportunities. For the 2003 fishery, the Council proposed stringent harvest levels intended to protect and rebuild overfished and depleted stocks. In addition to constraining OYs for overfished stocks, the Council also severely restricted harvest on more abundant stocks associated with overfished stocks. These measures were needed to ensure that rebuilding of overfished and depleted stocks could occur. However, they will cause serious socio-economic repercussions as a result of these lower harvest levels and the consequent lower landings limits.

Distribution of the economic effect of the 2003 management measures will depend on how well fishers can adapt to the restrictions. Some user groups, particularly those able to use midwater trawl gear, will have a greater opportunity to harvest than they would have had without gear restrictions, because proposed restrictions allow fishers to use gear with lower incidental catch of the depleted rockfish. Other fishers will not be able to maintain a viable operation at the reduced harvest levels. The Council prepared an EIS for this action, which includes a discussion of the economic and social effects of these management measures on coastal communities (see ADDRESSES).

Trip Limit Tables and Management Measures

Cumulative trip limits are set into tables, with explanations in section IV. For 2003, NMFS has separated tables for each fishing sector into northern and southern area tables. The industry is cautioned not to rely on the tables alone. The text in Section IV. provides cumulative trip limit definitions and periods, size limit definitions and conversions, and other information that cannot be readily included in a table but must be understood in order to correctly use the tables. For the first time in 2003, gear regulations and reference coordinates are being proposed as a regulatory amendment to the regulations at 50 CFR part 660. Historically, NMFS has published these regulatory measures as annual specifications. The sablefish allocations and nontrawl sablefish management, Pacific whiting allocations and seasons, and “per trip” limits for black rockfish off Washington State are still presented in text in paragraphs IV.B. Trip limits for exempted trawl gear in the open access fishery (Table 5 and paragraph IV.C.), recreational management measures (paragraph IV.D.), and tribal allocations and management measures (paragraph V.) still remain in the text.

Cumulative trip limits are applied during the time periods and in the areas indicated in Tables 3-5 of Section IV. The cumulative trip limit may be taken at any time within the applicable cumulative trip limit period. All cumulative trip limit periods start at 0001 hours, local time, on the specified beginning date.

IV. NMFS Actions

For the reasons stated above, the Assistant Administrator for Fisheries, NOAA (Assistant Administrator), concurs with the Council's recommendations and announces the following management actions for 2003, including measures that are unchanged from 2002 and new measures.

A. General Definitions and Provisions

The following definitions and provisions apply to the 2002 management measures, unless otherwise specified in a subsequent Federal Register document:

(1) Trip limits. Trip limits are used in the commercial fishery to specify the amount of fish that may legally be taken and retained, possessed, or landed, per vessel, per fishing trip, or cumulatively per unit of time, or the number of landings that may be made from a vessel in a given period of time, as follows:

(a) A per trip limit is the total allowable amount of a groundfish species or species group, by weight, or by percentage of weight of legal fish on board, that may be taken and retained, possessed, or landed per vessel from a single fishing trip.

(b) A daily trip limit is the maximum amount that may be taken and retained, possessed, or landed per vessel in 24 consecutive hours, starting at 0001 hours l.t. Only one landing of groundfish may be made in that 24-hour period. Daily trip limits may not be accumulated during multiple day trips.

(c) A weekly trip limit is the maximum amount that may be taken and retained, possessed, or landed per vessel in 7 consecutive days, starting at 0001 hours l.t. on Sunday and ending at 2400 hours l.t. on Saturday. Weekly trip limits may not be accumulated during multiple week trips. If a calendar week includes days within two different months, a vessel is not entitled to two separate weekly limits during that week.

(d) A cumulative trip limit is the maximum amount that may be taken and retained, possessed, or landed per vessel in a specified period of time without a limit on the number of landings or trips, unless otherwise specified. The cumulative trip limit periods for limited entry and open access fisheries, which start at 0001 hours l.t. and end at 2400 hours l.t., are as follows, unless otherwise specified:

(i) The 2-month periods are: January 1-February 28, March 1-April 30, May 1-June 30, July 1-August 31, September 1-October 31, and, November 1-December 31.

(ii) One month means the first day through the last day of the calendar month.

(iii) One week means 7 consecutive days, Sunday through Saturday.

(2) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. As stated at 50 CFR 660.302 (in the definition of “landing”), once the offloading of any species begins, all fish aboard the vessel are counted as part of the landing. Fishing ahead is not allowed during or before a closed period (see paragraph IV.A.(7)). See paragraph IV.A.(9) for information on inseason changes to limits.

(3) Weights. All weights are round weights or round-weight equivalents unless otherwise specified.

(4) Percentages. Percentages are based on round weights, and, unless otherwise specified, apply only to legal fish on board.

(5) Legal fish. “Legal fish” means fish legally taken and retained, possessed, or landed in accordance with the provisions of 50 CFR part 660, the Magnuson-Stevens Act, any document issued under part 660, and any other regulation promulgated or permit issued under the Magnuson-Stevens Act.

(6) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the State where the fish will be landed.

(a) Whole fish. For a whole fish, total length is measured from the tip of the snout (mouth closed) to the tip of the tail in a natural, relaxed position.

(b) “Headed” fish. For a fish with the head removed (“headed”), the length is measured from the origin of the first dorsal fin (where the front dorsal fin meets the dorsal surface of the body closest to the head) to the tip of the upper lobe of the tail; the dorsal fin and tail must be left intact.

(c) Filets. A filet is the flesh from one side of a fish extending from the head to the tail, which has been removed from the body (head, tail, and backbone) in a single continuous piece. Filet lengths may be subject to size limits for some groundfish taken in the recreational fishery off California (see paragraph IV. D.(1)). A filet is measured along the length of the longest part of the filet in a relaxed position; stretching or otherwise manipulating the filet to increase its length is not permitted.

(d) Sablefish weight limit conversions. The following conversions apply to both the limited entry and open access fisheries when trip limits are effective for those fisheries. For headed and gutted (eviscerated) sablefish:

(i) The minimum size for headed sablefish, which corresponds to 20 inches (51 cm) total length for whole fish, is 14 inches (36 cm).

(ii) The conversion factor established by the State where the fish is or will be landed will be used to convert the processed weight to round weight for purposes of applying the trip limit. (The conversion factor currently is 1.6 in Washington, Oregon, and California. However, the State conversion factors may differ; fishers should contact fishery enforcement officials in the State where the fish will be landed to determine that State's official conversion factor.)

(e) Lingcod size and weight conversions. The following conversions apply in both limited entry and open access fisheries.

(i) Size conversion. For lingcod with the head removed, the minimum size limit is 19.5 inches (49.5 cm), which corresponds to 24 inches (61 cm) total length for whole fish.

(ii) Weight conversion. The conversion factor established by the State where the fish is or will be landed will be used to convert the processed weight to round weight for purposes of applying the trip limit. (The States' conversion factors may differ, and fishers should contact fishery enforcement officials in the state where the fish will be landed to determine that State's official conversion factor.) If a state does not have a conversion factor for headed and gutted lingcod, or lingcod that is only gutted; the following conversion factors will be used. To determine the round weight, multiply the processed weight times the conversion factor.

(A) Headed and gutted. The conversion factor for headed and gutted lingcod is 1.5.

(B) Gutted, with the head on. The conversion factor for lingcod that has only been gutted is 1.1.

(7) Closure. “Closure,” when referring to closure of a fishery, means that taking and retaining, possessing, or landing the particular species or species group is prohibited. (See 50 CFR 660.302.) Unless otherwise announced in the Federal Register, offloading must begin before the time the fishery closes. The provisions at paragraph IV.A.(2) for fishing ahead do not apply during a closed period. It is unlawful to transit through a closed area with the prohibited species on board, no matter where that species was caught, except as provided for in the CCA at IV. A.(19).

(8) Fishery management area. The fishery management area for these species is the EEZ off the coasts of Washington, Oregon, and California between 3 and 200 nm offshore, bounded on the north by the Provisional International Boundary between the United States and Canada, and bounded on the south by the International Boundary between the United States and Mexico. All groundfish possessed between 0-200 nm offshore or landed in Washington, Oregon, or California are presumed to have been taken and retained from the EEZ, unless otherwise demonstrated by the person in possession of those fish.

(9) Routine management measures. Most trip, bag, and size limits, and area closures in the groundfish fishery have been designated “routine,” which means they may be changed rapidly after a single Council meeting see 50 CFR 660.323(b). Council meetings in 2002 will be held in the months of March, April, June, September, and November. Inseason changes to routine management measures are announced in the Federal Register. Information concerning changes to routine management measures is available from the NMFS Northwest and Southwest Regional Offices (see ADDRESSES). Changes to trip limits are effective at the times stated in the Federal Register. Once a change is effective, it is illegal to take and retain, possess, or land more fish than allowed under the new trip limit. This means that, unless otherwise announced in the Federal Register, offloading must begin before the time a fishery closes or a more restrictive trip limit takes effect.

(10) Limited entry limits. It is unlawful for any person to take and retain, possess, or land groundfish in excess of the landing limit for the open access fishery without having a valid limited entry permit for the vessel affixed with a gear endorsement for the gear used to catch the fish (50 CFR 660.306(p)).

(11) Operating in both limited entry and open access fisheries. The open access trip limit applies to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit cannot be exceeded and counts toward the limited entry limit. If a vessel has a limited entry permit and uses open access gear, but the open access limit is larger than the limited entry limit, the smaller limited entry limit applies, even if taken entirely with open access gear.

(12) Operating in areas with different trip limits. Trip limits for a species or a species group may differ in different geographic areas along the coast. The following “crossover” provisions apply to vessels operating in different geographical areas that have different cumulative or “per trip” trip limits for the same species or species group. Such crossover provisions do not apply to species that are subject only to daily trip limits, or to the trip limits for black rockfish off Washington (see 50 CFR 660.323(a)(1)). In 2002, the cumulative trip limit periods for the limited entry and open access fisheries are specified in paragraph IV.A(1)(d), but may be changed during the year if announced in the Federal Register.

(a) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(b) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(c) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(d) Minor rockfish. Several rockfish species are designated with species-specific limits on one side of the 40°10 N. lat. management line, and are included as part of a minor rockfish complex on the other side of the line.

(i) If a vessel takes and retains minor slope rockfish north of 38° N. lat., that vessel is also permitted to take and retain, possess or land splitnose rockfish up to its cumulative limit south of 38° N. lat., even if splitnose rockfish were a part of the landings from minor slope rockfish taken and retained north of 38° N. lat. [Note: A vessel that takes and retains minor slope rockfish on both sides of the management line in a single cumulative limit period is subject to the more restrictive cumulative limit for minor slope rockfish during that period.]

(ii) If a vessel takes and retains minor slope rockfish south of 38° N. lat., that vessel is also permitted to take and retain, possess or land POP up to its cumulative limit north of 38° N. lat., even if POP were a part of the landings from minor slope rockfish taken and retained south of 38° N. lat. [Note: A vessel that takes and retains minor slope rockfish on both sides of the management line in a single cumulative limit period is subject to the more restrictive cumulative limit for minor slope rockfish during that period.]

(iii) If a vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Widow rockfish is included in overall shelf rockfish limits for all gear groups. [Note: A vessel that takes and retains minor shelf rockfish on both sides of the management line in a single cumulative limit period is subject to the more restrictive cumulative limit for minor shelf rockfish during that period.]

(e) “DTS complex.” For 2003, there are differential trip limits for the “DTS complex” (Dover sole, shortspine thornyhead, longspine thornyhead, sablefish) north and south of the management line at 40°10′ N. lat. Vessels operating in the limited entry trawl fishery are subject to the crossover provisions in this paragraph IV.A.(12) when making landings that include any one of the four species in the “DTS complex.”

(f) Flatfish complex. For 2003, there are differential trip limits for the flatfish complex (butter, curlfin, English, flathead, petrale, rex, rock, and sand soles, Pacific sanddab, and starry flounder) north and south of the management line at 40°10′ N. lat. Vessels operating in the limited entry trawl fishery are subject to the crossover provisions in this paragraph IV.A.(12) when making landings that include any one of the species in the flatfish complex.

(13) Sorting. It is unlawful for any person to “fail to sort, prior to the first weighing after offloading, those groundfish species or species groups for which there is a trip limit, size limit, quota, or commercial OY, if the vessel fished or landed in an area during a time when such trip limit, size limit, commercial optimum yield, or quota applied.” This provision applies to both the limited entry and open access fisheries. (See 50 CFR 660.306(h).) The following species must be sorted in 2003:

(a) For vessels with a limited entry permit:

(i) Coastwide - widow rockfish, canary rockfish, darkblotched rockfish, yelloweye rockfish, shortbelly rockfish, minor nearshore rockfish, minor shelf rockfish, minor slope rockfish, shortspine and longspine thornyhead, Dover sole, arrowtooth flounder, rex sole, petrale sole, arrowtooth flounder, other flatfish, lingcod, sablefish, and Pacific whiting [Note: Although both yelloweye and darkblotched rockfish are considered minor rockfish managed under the minor shelf and minor slope rockfish complexes, respectively, they have separate OYs and therefore must be sorted by species.]

(ii) North of 40°10′ N. lat. - POP, yellowtail rockfish, and, for fixed gear, black rockfish and blue rockfish;

(iii) South of 40°10′ N. lat.- minor shallow nearshore rockfish, minor deeper nearshore rockfish, chilipepper rockfish, bocaccio rockfish, splitnose rockfish, and Pacific sanddabs.

(b) For open access vessels (vessels without a limited entry

permit):

(i) Coastwide - widow rockfish, canary rockfish, darkblotched rockfish, yelloweye rockfish, minor nearshore rockfish, minor shelf rockfish, minor slope rockfish, Dover sole, arrowtooth flounder, petrale sole, rex sole, other flatfish, lingcod, sablefish, Pacific whiting, and Pacific sanddabs;

(ii) North of 40°10′ N. lat. - black rockfish, blue rockfish, Pacific ocean perch, yellowtail rockfish;

(iii) South of 40°10′ N. lat.- minor shall nearshore rockfish, minor deeper nearshore rockfish, chilipepper rockfish, bocaccio rockfish, splitnose rockfish;

(iv) South of Point Conception—thornyheads.

(14) Limited Entry Trawl Gear Restrictions. Limited entry trip limits may vary depending on the type of trawl gear that is on board a vessel during a fishing trip: large footrope, small footrope, or midwater trawl gear. No more than one type of trawl gear may be on board during any single fishing trip.

(a) Types of trawl gear—Large footrope, small footrope, and midwater or pelagic trawl gears are defined at 50 CFR 660.302 and 660.322(b).

(b) Cumulative trip limits and prohibitions by trawl gear type—(i) Large footrope trawl. If Table 3 does not provide a large footrope trawl cumulative or trip limit for a particular species or species group, it is unlawful to take and retain, possess or land that species or species group if large footrope gear is on board. It is unlawful for any vessel using large footrope gear to exceed large footrope gear limits for any species or to use large footrope gear to exceed small footrope gear or midwater trawl gear limits for any species. It is unlawful for any vessel using large footrope gear or that has large footrope trawl gear on board to fish for groundfish shoreward of the RCAs defined at paragraph (19) of this section. The presence of rollers or bobbins larger than 8 inches (20 cm) in diameter on board the vessel, even if not attached to a trawl, will be considered to mean a large footrope trawl is on board.

(ii) Small footrope or midwater trawl gear. Cumulative trip limits for canary rockfish, chilipepper rockfish, widow rockfish, yellowtail rockfish, bocaccio, minor shelf rockfish, minor nearshore rockfish, and lingcod, as indicated in Table 3 to section IV, are allowed only if small footrope gear or midwater trawl gear is used, and if that gear meets the specifications in paragraphs IV.A.(14).

(iii) Midwater trawl gear. Higher yellowtail and widow rockfish cumulative trip limits are available for limited entry vessels using midwater trawl gear. Each landing that contains yellowtail or widow rockfish is attributed to the gear on board with the most restrictive trip limit for those species. Landings attributed to small footrope trawl must not exceed the small footrope limit, and landings attributed to midwater trawl must not exceed the midwater trawl limit. If a vessel has landings attributed to both types of trawls during a cumulative trip limit period, all landings are counted toward the most restrictive gear-specific cumulative limit.

(iv) More than one type of trawl gear on board; trawl gear and non-trawl gear on board. The cumulative trip limits in Table 3 of Section IV must not be exceeded. For the first time in 2003, it is prohibited to have more than one type of trawl gear on board. It is prohibited to have more than one type of limited entry trawl gear on board and it is prohibited to have both limited entry trawl gear and exempted trawl gear on board. It is also prohibited to have both trawl gear and non-trawl (limited entry or open access) gear on board at the same time.

(c) State landing receipts. Washington, Oregon, and California will require the type of trawl gear on board to be recorded on the State landing receipt(s) for each trip or on an attachment to the State landing receipt.

(d) Gear inspection. All trawl gear and trawl gear components, including unattached rollers or bobbins, must be readily accessible and made available for inspection at the request of an authorized officer. No trawl gear may be removed from the vessel prior to offloading. All footropes shall be uncovered and clearly visible except when in use for fishing.

(15) Platooning—limited entry trawl vessels. Limited entry trawl vessels are automatically in the “A” platoon, unless the “B” platoon is indicated on the limited entry permit. If a vessel is in the “A” platoon, its cumulative trip limit periods begin and end on the beginning and end of a calendar month as in the past. No more than one trawl permit may be registered to a vessel unless a permit is endorsed for both trawl and either longline or pot gear and is being stacked under § 660.335(c) for use in the limited entry fixed gear primary sablefish fishery. If a vessel is registered for use with more than one permit with a trawl endorsement through the fixed gear permit stacking program, then the vessel owner must designate one trawl-endorsed permit as his base trawl permit and may only fish in the platoon associated with that base trawl permit. If a limited entry trawl permit is authorized for the “B” platoon, then cumulative trip limit periods will begin on the 16th of the month (generally 2 weeks later than for the “A” platoon), unless otherwise specified.

(a) For a vessel in the “B” platoon, cumulative trip limit periods begin on the 16th of the month at 0001 hours, l.t., and end at 2400 hours, l.t., on the 15th of the month. Therefore, the management measures announced herein that are effective on January 1, 2003, for the “A” platoon will be effective on January 16, 2003, for the “B” platoon. The effective date of any inseason changes to the cumulative trip limits also will be delayed for 2 weeks for the “B” platoon, unless otherwise specified.

(b) A vessel authorized to operate in the “B” platoon may take and retain, but may not land, groundfish from January 1, 2003, through January 15, 2003.

(c) A vessel authorized to operate in the “B” platoon will have the same cumulative trip limits for the November 16, 2003, through December 31, 2003, period as a vessel operating in the “A” platoon has for the November 1, 2002, through December 31, 2002 period.

(16) Permit transfers. Limited entry permit transfers are to take effect no earlier than the first day of a major cumulative limit period following the day NMFS receives the transfer form and original permit (50 CFR 660.335(e)(3)). Those days in 2003 are January 1, March 1, May 1, July 1, September 1, and November 1, and are delayed by 15 days (starting on the 16th of a month) for the “B” platoon.

(17) Exempted fisheries. U.S. vessels operating under an exempted fishing permit (EFP) issued under 50 CFR part 600 are also subject to these restrictions, unless otherwise provided in the permit. EFPs may include the collecting of scientific samples of groundfish species that would otherwise be prohibited for retention.

(18) Application of requirements. Paragraphs IV.B. and IV.C. pertain to the commercial groundfish fishery, but not to Washington coastal tribal fisheries, which are described in Section V. The provisions in paragraphs IV.B. and IV.C. that are not covered under the headings “limited entry” or “open access” apply to all vessels in the commercial fishery that take and retain groundfish, unless otherwise stated. Paragraph IV.D. pertains to the recreational fishery.

(19) Rockfish Conservation Areas. For 2003, the Council has introduced several RCAs and a YRCA and has retained the CCAs used in 2001 and 2002. Collectively, any geographically defined area where specific fishing activities are prohibited (closed) or otherwise restricted intended to protect a particular groundfish species or species group or intended to protect a complex of species is referred to as a Groundfish Conservation Area. The YRCA, the CCAs, and the larger depth-based RCAs are Groundfish Conservation Areas. Larger RCAs intended to protect a complex of species, such as overfished shelf rockfish species, have boundaries defined by a series of coordinates intended to approximate particular depth contours, such as 100 fm (183 m), 150 fm (274 m), 250 fm (457,) etc. Different gear types or fishing sectors may have RCAs with differing boundaries.

(a) Yelloweye Rockfish Conservation Area. The coordinates of the YRCA are defined at § 660.304(d). Recreational fishing for groundfish is prohibited within the YRCA. It is unlawful for recreational fishing vessels to take, retain, possess, or land groundfish inside the YRCA.

(b) Cowcod Conservation Areas. The coordinates of the Cowcod Conservation Areas (CCAs) are defined at § 660.304(c). Recreational and commercial fishing for groundfish is prohibited within the CCAs, except that recreational and commercial fishing for rockfish and lingcod is permitted in waters inside 20-fathoms (36.9-m). It is unlawful to take and retain, possess, or land groundfish inside the CCAs, except for rockfish and lingcod taken in waters inside the 20-fathom (36.9-m) depth contour, when those waters are open to fishing. Commercial fishing vessels may transit through the Western CCA with their gear stowed and groundfish on board only in a corridor through the Western CCA bounded on the north by the latitude line at 33°00′30″ N. lat., and bounded on the south by the latitude line at 32°59′30” N. lat.

(c) Limited entry trawl groundfish coastwide and open access exempted trawl south of 40°10′ N. lat. Conservation Area.

(i) The trawl RCA is closed to limited entry groundfish trawl fishing coastwide and to open access exempted trawl fishing (except for pink shrimp trawling) south of 40°10′ N. lat. Fishing with limited entry groundfish trawl gear is prohibited within the trawl RCA north of 40°10′ N. lat. and fishing with any trawl gear is prohibited within the trawl RCA south of 40°10′ N. lat., unless that vessel is trawling for pink shrimp. Coastwide, it is unlawful to take and retain, possess, or land groundfish taken with limited entry groundfish trawl gear in the trawl RCA. South of 40°10′ N. lat., it is unlawful to take and retain, possess, or land any species of fish taken with any type of trawl gear in the trawl RCA. Trawl vessels may transit through the trawl RCA, with or without groundfish on board, provided all groundfish trawl gear is stowed either: (1) below deck; or (2) if the gear cannot readily be moved, in a secured and covered manner, detached from all towing lines, so that it is rendered unusable for fishing; or (3) remaining on deck uncovered if the trawl doors are hung from their stanchions and the net is disconnected from the doors. These restrictions do not apply to vessels fishing with midwater trawl gear for Pacific whiting or taking and retaining yellowtail rockfish or widow rockfish in association with Pacific whiting caught with midwater trawl gear or to taking and retaining yellowtail or widow rockfish with midwater trawl gear when trip limits are authorized for those species (November-December 2003.) If a vessel fishes in an RCA, it may not participate in any fishing on that trip that is inconsistent with the restrictions that apply within the RCA. For example, if a vessel participates in the pink shrimp fishery within the RCA, the vessel cannot on the same trip participate in the DTS fishery outside of the RCA. Nothing in these Federal regulations supercede any State regulations that may prohibit trawling shoreward of the 3 nm State waters boundary line.

(ii) Between the U.S. border with Canada and 40°10′ N. lat., the trawl RCA is defined along an eastern, inshore boundary approximating 100 fm (183 m) in January through June and October through December, and approximating 75 fm (137 m) in July and August. Between 40°10′ N. lat. and 34°27′ N. lat., the trawl RCA is defined along an eastern, inshore boundary approximating 50 fm (91 m) in January and February and 60 fm (110 m) in March through December. Between 34°27′ N. lat. and the U.S. border with Mexico, along the mainland coast of California, the trawl RCA is defined along an eastern, inshore boundary approximating 100 fm (183 m) throughout the year. Between 34°27′ N. lat. and the U.S. border with Mexico, adjacent to the islands offshore of California, the trawl RCA is defined along an inshore boundary approximating 20 fm (37 m) throughout the year. Boundary coordinates are provided below at paragraph (e) of this section.

(iii) Between the U.S. border with Canada and 38° N. lat., the trawl RCA is defined along a western, offshore boundary approximating 250 fm (457 m) in March through October, and approximating 250 fm (457 m) with some modifications to provide open areas to allow winter petrale sole fishing in January, February, November, and December. Between 38° N. lat. and the U.S. border with Mexico, the trawl RCA is defined along a western, offshore boundary approximating 150 fm (274 m) throughout the year. Boundary coordinates are provided below at paragraph (e) of this section.

(d) Non-Trawl (Limited Entry Fixed Gear and Open Access Nontrawl Gears) Groundfish Conservation Area.

(i) The non-trawl RCA is closed to non-trawl gear (limited entry or open access longline and pot or trap, open access hook-and-line, pot or trap, gillnet, set net, trammel net and spear) fishing for groundfish. Fishing with non-trawl gear is prohibited within the non-trawl gear RCA. It is unlawful to take and retain, possess, or land groundfish taken with non-trawl gear in the non-trawl gear RCA. Limited entry fixed gear and open access non-trawl gear vessels may transit through the non-trawl gear RCA, with or without groundfish on board. These restrictions do not apply to vessels fishing for species other than groundfish with non-trawl gear. If a vessel fishes in an RCA, it may not participate in any fishing on that trip that is inconsistent with the restrictions that apply within the RCA. For example, if a vessel participates in the salmon troll fishery within the RCA, the vessel cannot on the same trip participate in the sablefish fishery outside of the RCA.

(ii) Between the U.S. border with Canada and 46°16′ N. lat., the non-trawl gear RCA extends to the shoreline. Between 46°16′ N. lat. and 40°10′ N. lat., the non-trawl gear RCA is defined along an eastern, inshore boundary approximating 27 fm (49 m) throughout the year. Between 40°10′ N. lat. and the U.S. border with Mexico, the non-trawl gear RCA is defined along an eastern, inshore boundary approximating 20 fm (37 m) throughout the year, except as provided for between Point Fermin (33°41′ N. lat.; 118°18′ W. long.) and the Newport South Jetty (33°36′ N .lat.; 117° 51′ W. long.) Between a line drawn due south from Point Fermin (33°41′ N. lat.; 118°18′ W. long.) and a line drawn due west from the Newport South Jetty (33°36′ N .lat.; 117° 51′ W. long.,) vessels fishing with hook-and-line and/or trap (or pot) gear may operate from shore to a boundary line approximating 50 fm (91 m) in the months of July and August. Boundary coordinates are provided below at paragraph (e) of this section.

(iii) Between the U.S. border with Canada and 40°10′ N. lat., the non-trawl gear RCA is defined along a western, offshore boundary approximating 100 fm (183 m) throughout the year. Between 40°10′ N. lat. and the U.S. border with Mexico, the trawl RCA is defined along a western, offshore boundary approximating 150 fm (274 m) throughout the year. Boundary coordinates are provided below at paragraph (e) of this section.

(e) RCA Boundary Coordinates. Coordinates for the specific boundaries that approximate the depth contours selected for both trawl and non-trawl gear RCAs are provided here.

(i) The 27-fm (49-m) depth contour used between 46°16′ N. lat. and 40°10′ N. lat. as an eastern boundary for the non-trawl RCA is defined by straight lines connecting all of the following points in the order stated:

(1) 46°16.00′ N. lat., 124°12.39′ W. long.;

(2) 46°14.85′ N. lat., 124°12.39′ W. long.;

(3) 46°3.95′ N. lat., 124°3.64′ W. long.;

(4) 45°43.14′ N. lat., 124°0.17′ W. long.;

(5) 45°23.33′ N. lat., 124°1.99′ W. long.;

(6) 45°9.54′ N. lat., 124°1.65′ W. long.;

(7) 44°39.99′ N. lat., 124°8.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°6.89′ N. lat., 124°29.65′ W. long.;

(14) 43°1.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°4.86′ N. lat., 124°21.94′ W. long.;

(24) 42°0.10′ N. lat., 124°20.99′ W. long.;

(25) 42°0.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°4.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.;

(ii) The 75-fm (137-m) depth contour used north of 40°10′ N. lat. as an eastern boundary for the trawl RCA in the months of July and August is defined by straight lines connecting all of the following points in the order stated:

(1) 48°14.58′ N. lat., 125°42.47′ W. long.;

(2) 48°20.26′ N. lat., 125°23.03′ W. long.;

(3) 48°23.00′ N. lat., 124°50.00′ W. long.;

(4) 48°17.10′ N. lat., 124°54.82′ W. long.;

(5) 48°05.10′ N. lat., 124°59.40′ W. long.;

(6) 48°04.98′ N. lat., 125°10.02′ W. long.;

(7) 47°54.00′ N. lat., 125°04.98′ W. long.;

(8) 47°44.52′ N. lat., 125°00.00′ W. long.;

(9) 47°42.00′ N. lat., 124°58.98′ W. long.;

(10) 47°35.52′ N. lat., 124°55.50′ W. long.;

(11) 47°22.02′ N. lat., 124°44.40′ W. long.;

(12) 47°16.98′ N. lat., 124°45.48′ W. long.;

(13) 47°10.98′ N. lat., 124°48.48′ W. long.;

(14) 47°04.98′ N. lat., 124°49.02′ W. long.;

(15) 46°57.98′ N. lat., 124°46.50′ W. long.;

(16) 46°54.00′ N. lat., 124°45.00′ W. long.;

(17) 46°48.48′ N. lat., 124°44.52′ W. long.;

(18) 46°40.02′ N. lat., 124°36.00′ W. long.;

(19) 46°34.09′ N. lat., 124°27.03′ W. long.;

(20) 46°24.64′ N. lat., 124°30.33′ W. long.;

(21) 46°19.98′ N. lat., 124°36.00′ W. long.;

(22) 46°18.14′ N. lat., 124°34.26′ W. long.;

(23) 46°18.72′ N. lat., 124°22.68′ W. long.;

(24) 46°14.64′ N. lat., 124°22.54′ W. long.;

(25) 46°11.08′ N. lat., 124°30.74′ W. long.;

(26) 46°4.28′ N. lat., 124°31.49′ W. long.;

(27) 45°55.97′ N. lat., 124°19.95′ W. long.;

(28) 45°44.97′ N. lat., 124°15.96′ W. long.;

(29) 45°43.14′ N. lat., 124°21.86′ W. long.;

(30) 45°34.44′ N. lat., 124°14.44′ W. long.;

(31) 45°15.49′ N. lat., 124°11.49′ W. long.;

(32) 44°57.31′ N. lat., 124°15.03′ W. long.;

(33) 44°43.90′ N. lat., 124°28.88′ W. long.;

(34) 44°28.64′ N. lat., 124°35.67′ W. long.;

(35) 44°25.31′ N. lat., 124°43.08′ W. long.;

(36) 44°17.15′ N. lat., 124°47.98′ W. long.;

(37) 44°13.67′ N. lat., 124°54.41′ W. long.;

(38) 43°56.85′ N. lat., 124°55.32′ W. long.;

(39) 43°57.50′ N. lat., 124°41.23′ W. long.;

(40) 44°1.79′ N. lat., 124°38.00′ W. long.;

(41) 44°2.16′ N. lat., 124°32.62′ W. long.;

(42) 43°58.15′ N. lat., 124°30.39′ W. long.;

(43) 43°53.25′ N. lat., 124°31.39′ W. long.;

(44) 43°35.56′ N. lat., 124°28.17′ W. long.;

(45) 43°21.84′ N. lat., 124°36.07′ W. long.;

(46) 43°19.73′ N. lat., 124°34.86′ W. long.;

(47) 43°9.38′ N. lat., 124°39.30′ W. long.;

(48) 43°7.11′ N. lat., 124°37.66′ W. long.;

(49) 42°56.27′ N. lat., 124°43.29′ W. long.;

(50) 42°45.00′ N. lat., 124°41.50′ W. long.;

(51) 42°39.72′ N. lat., 124°39.11′ W. long.;

(52) 42°32.88′ N. lat., 124°40.13′ W. long.;

(53) 42°32.30′ N. lat., 124°39.04′ W. long.;

(54) 42°26.96′ N. lat., 124°44.31′ W. long.;

(55) 42°24.11′ N. lat., 124°42.16′ W. long.;

(56) 42°21.10′ N. lat., 124°35.46′ W. long.;

(57) 42°14.72′ N. lat., 124°32.30′ W. long.;

(58) 42°9.24′ N. lat., 124°32.04′ W. long.;

(59) 42°1.89′ N. lat., 124°32.70′ W. long.;

(60) 42°0.03′ N. lat., 124°32.02′ W. long.;

(61) 42°0.00′ N. lat., 124°32.02′ W. long.;

(62) 41°46.18′ N. lat., 124°26.60′ W. long.;

(63) 41°29.22′ N. lat., 124°28.04′ W. long.;

(64) 41°9.62′ N. lat., 124°19.75′ W. long.;

(65) 40°50.71′ N. lat., 124°23.80′ W. long.;

(66) 40°43.35′ N. lat., 124°29.30′ W. long.;

(67) 40°40.24′ N. lat., 124°29.86′ W. long.;

(68) 40°37.50′ N. lat., 124°28.68′ W. long.;

(69) 40°34.42′ N. lat., 124°29.65′ W. long.;

(70) 40°34.74′ N. lat., 124°34.61′ W. long.;

(71) 40°31.70′ N. lat., 124°37.13′ W. long.;

(72) 40°25.03′ N. lat., 124°34.77′ W. long.;

(73) 40°23.58′ N. lat., 124°31.49′ W. long.;

(74) 40°23.64′ N. lat., 124°28.35′ W. long.;

(75) 40°22.53′ N. lat., 124°24.76′ W. long.;

(76) 40°21.46′ N. lat., 124°24.86′ W. long.;

(77) 40°21.74′ N. lat., 124°27.63′ W. long.;

(78) 40°19.76′ N. lat., 124°28.15′ W. long.;

(79) 40°18.00′ N. lat., 124°25.38′ W. long.;

(80) 40°18.54′ N. lat., 124°22.94′ W. long.;

(81) 40°15.55′ N. lat., 124°25.75′ W. long.;

(82) 40°16.06′ N. lat., 124°30.48′ W. long.;

(83) 40°15.75′ N. lat., 124°31.69′ W. long.; and

(84) 40°10.00′ N. lat., 124°21.28′ W. long.

(iii) The 100-fm (183-m) depth contour used north of 40°10′ N. lat. as an eastern boundary for the trawl RCA and as a western boundary for the non-trawl RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.08′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.98′ N. lat., 125°13.24′ W. long.;

(22) 48°22.95′ N. lat., 125°10.79′ W. long.;

(23) 48°21.61′ N. lat., 125°02.54′ W. long.;

(24) 48°23.00′ N. lat., 124°49.34′ W. long.;

(25) 48°17.00′ N. lat., 124°56.50′ W. long.;

(26) 48°06.00′ N. lat., 125°00.00′ W. long.;

(27) 48°04.62′ N. lat., 125°01.73′ W. long.;

(28) 48°04.84′ N. lat., 125°04.03′ W. long.;

(29) 48°06.41′ N. lat., 125°06.51′ W. long.;

(30) 48°06.00′ N. lat., 125°08.00′ W. long.;

(31) 48°07.28′ N. lat., 125°11.14′ W. long.;

(32) 48°03.45′ N. lat., 125°16.66′ W. long.;

(33) 47°59.50′ N. lat., 125°18.88′ W. long.;

(34) 47°58.68′ N. lat., 125°16.19′ W. long.;

(35) 47°56.62′ N. lat., 125°13.50′ W. long.;

(36) 47°53.71′ N. lat., 125°11.96′ W. long.;

(37) 47°51.70′ N. lat., 125°09.38′ W. long.;

(38) 47°49.95′ N. lat., 125°06.07′ W. long.;

(39) 47°49.00′ N. lat., 125°03.00′ W. long.;

(40) 47°46.95′ N. lat., 125°04.00′ W. long.;

(41) 47°46.58′ N. lat., 125°03.15′ W. long.;

(42) 47°44.07′ N. lat., 125°04.28′ W. long.;

(43) 47°43.32′ N. lat., 125°04.41′ W. long.;

(44) 47°40.95′ N. lat., 125°04.14′ W. long.;

(45) 47°39.58′ N. lat., 125°04.97′ W. long.;

(46) 47°36.23′ N. lat., 125°02.77′ W. long.;

(47) 47°34.28′ N. lat., 124°58.66′ W. long.;

(48) 47°32.17′ N. lat., 124°57.77′ W. long.;

(49) 47°30.27′ N. lat., 124°56.16′ W. long.;

(50) 47°30.60′ N. lat., 124°54.80′ W. long.;

(51) 47°29.26′ N. lat., 124°52.21′ W. long.;

(52) 47°28.21′ N. lat., 124°50.65′ W. long.;

(53) 47°27.38′ N. lat., 124°49.34′ W. long.;

(54) 47°25.61′ N. lat., 124°48.26′ W. long.;

(55) 47°23.54′ N. lat., 124°46.42′ W. long.;

(56) 47°20.64′ N. lat., 124°45.91′ W. long.;

(57) 47°17.99′ N. lat., 124°45.59′ W. long.;

(58) 47°18.20′ N. lat., 124°49.12′ W. long.;

(59) 47°15.01′ N. lat., 124°51.09′ W. long.;

(60) 47°12.61′ N. lat., 124°54.89′ W. long.;

(61) 47°08.22′ N. lat., 124°56.53′ W. long.;

(62) 47°08.50′ N. lat., 124°54.95′ W. long.;

(63) 47°01.92′ N. lat., 124°57.74′ W. long.;

(64) 47°01.14′ N. lat., 124°59.35′ W. long.;

(65) 46°58.48′ N. lat., 124°57.81′ W. long.;

(66) 46°56.79′ N. lat., 124°56.03′ W. long.;

(67) 46°58.01′ N. lat., 124°55.09′ W. long.;

(68) 46°55.07′ N. lat., 124°54.14′ W. long.;

(69) 46°59.60′ N. lat., 124°49.79′ W. long.;

(70) 46°58.72′ N. lat., 124°48.78′ W. long.;

(71) 46°54.45′ N. lat., 124°48.36′ W. long.;

(72) 46°53.99′ N. lat., 124°49.95′ W. long.;

(73) 46°54.38′ N. lat., 124°52.73′ W. long.;

(74) 46°52.38′ N. lat., 124°52.02′ W. long.;

(75) 46°48.93′ N. lat., 124°49.17′ W. long.;

(76) 46°41.50′ N. lat., 124°43.00′ W. long.;

(77) 46°34.50′ N. lat., 124°28.50′ W. long.;

(78) 46°29.00′ N. lat., 124°30.00′ W. long.;

(79) 46°20.00′ N. lat., 124°36.50′ W. long.;

(80) 46°18.00′ N. lat., 124°38.00′ W. long.;

(81) 46°17.00′ N. lat., 124°35.50′ W. long.;

(82) 46°17.00′ N. lat., 124°22.50′ W. long.;

(83) 46°15.02′ N. lat., 124°23.77′ W. long.;

(84) 46°12.00′ N. lat., 124°35.00′ W. long.;

(85) 46°10.50′ N. lat., 124°39.00′ W. long.;

(86) 46°8.90′ N. lat., 124°39.11′ W. long.;

(87) 46°0.97′ N. lat., 124°38.56′ W. long.;

(88) 45°57.04′ N. lat., 124°36.42′ W. long.;

(89) 45°54.29′ N. lat., 124°40.02′ W. long.;

(90) 45°47.19′ N. lat., 124°35.58′ W. long.;

(91) 45°41.75′ N. lat., 124°28.32′ W. long.;

(92) 45°34.16′ N. lat., 124°24.23′ W. long.;

(93) 45°27.10′ N. lat., 124°21.74′ W. long.;

(94) 45°17.14′ N. lat., 124°17.85′ W. long.;

(95) 44°59.51′ N. lat., 124°19.34′ W. long.;

(96) 44°49.30′ N. lat., 124°29.97′ W. long.;

(97) 44°45.64′ N. lat., 124°33.89′ W. long.;

(98) 44°33.00′ N. lat., 124°36.88′ W. long.;

(99) 44°28.20′ N. lat., 124°44.72′ W. long.;

(100) 44°13.16′ N. lat., 124°56.36′ W. long.;

(101) 43°56.34′ N. lat., 124°55.74′ W. long.;

(102) 43°56.47′ N. lat., 124°34.61′ W. long.;

(103) 43°42.73′ N. lat., 124°32.41′ W. long.;

(104) 43°30.92′ N. lat., 124°34.43′ W. long.;

(105) 43°17.44′ N. lat., 124°41.16′ W. long.;

(106) 43°7.04′ N. lat., 124°41.25′ W. long.;

(107) 43°3.45′ N. lat., 124°44.36′ W. long.;

(108) 43°3.90′ N. lat., 124°50.81′ W. long.;

(109) 42°55.70′ N. lat., 124°52.79′ W. long.;

(110) 42°54.12′ N. lat., 124°47.36′ W. long.;

(111) 42°43.99′ N. lat., 124°42.38′ W. long.;

(112) 42°38.23′ N. lat., 124°41.25′ W. long.;

(113) 42°33.02′ N. lat., 124°42.38′ W. long.;

(114) 42°31.89′ N. lat., 124°42.04′ W. long.;

(115) 42°30.08′ N. lat., 124°42.67′ W. long.;

(116) 42°28.27′ N. lat., 124°47.08′ W. long.;

(117) 42°25.22′ N. lat., 124°43.51′ W. long.;

(118) 42°19.22′ N. lat., 124°37.92′ W. long.;

(119) 42°16.28′ N. lat., 124°36.11′ W. long.;

(120) 42°5.65′ N. lat., 124°34.92′ W. long.;

(121) 42°0.00′ N. lat., 124°35.27′ W. long.;

(122) 42°00.00′ N. lat., 124°35.26′ W. long.;

(123) 41°47.04′ N. lat., 124°27.64′ W. long.;

(124) 41°32.92′ N. lat., 124°28.79′ W. long.;

(125) 41°24.17′ N. lat., 124°28.46′ W. long.;

(126) 41°10.12′ N. lat., 124°20.50′ W. long.;

(127) 40°51.41′ N. lat., 124°24.38′ W. long.;

(128) 40°43.71′ N. lat., 124°29.89′ W. long.;

(129) 40°40.14′ N. lat., 124°30.90′ W. long.;

(130) 40°37.35′ N. lat., 124°29.05′ W. long.;

(131) 40°34.76′ N. lat., 124°29.82′ W. long.;

(132) 40°36.78′ N. lat., 124°37.06′ W. long.;

(133) 40°32.44′ N. lat., 124°39.58′ W. long.;

(134) 40°24.82′ N. lat., 124°35.12′ W. long.;

(135) 40°23.30′ N. lat., 124°31.60′ W. long.;

(136) 40°23.52′ N. lat., 124°28.78′ W. long.;

(137) 40°22.43′ N. lat., 124°25.00′ W. long.;

(138) 40°21.72′ N. lat., 124°24.94′ W. long.;

(139) 40°21.87′ N. lat., 124°27.96′ W. long.;

(140) 40°21.40′ N. lat., 124°28.74′ W. long.;

(141) 40°19.68′ N. lat., 124°28.49′ W. long.;

(142) 40°17.73′ N. lat., 124°25.43′ W. long.;

(143) 40°18.37′ N. lat., 124°23.35′ W. long.;

(144) 40°15.75′ N. lat., 124°26.05′ W. long.;

(145) 40°16.75′ N. lat., 124°33.71′ W. long.;

(146) 40°16.29′ N. lat., 124°34.36′ W. long.; and

(147) 40°10.00′ N. lat., 124°21.12′ W. long.

(iv) The 250-fm (457-m) depth contour used north of 38° N. lat. for March through October as a western boundary for the trawl RCA is defined by straight lines connecting all of the following points in the order stated:

(1) 48°14.68′ N. lat., 125°42.10′ W. long.;

(2) 48°12.83′ N. lat., 125°39.71′ W. long.;

(3) 48°13.00′ N. lat., 125°39.00′ W. long.;

(4) 48°12.73′ N. lat., 125°38.87′ W. long.;

(5) 48°12.43′ N. lat., 125°39.12′ W. long.;

(6) 48°11.83′ N. lat., 125°40.01′ W. long.;

(7) 48°11.78′ N. lat., 125°41.70′ W. long.;

(8) 48°10.62′ N. lat., 125°43.41′ W. long.;

(9) 48°09.23′ N. lat., 125°42.80′ W. long.;

(10) 48°08.79′ N. lat., 125°43.79′ W. long.;

(11) 48°08.50′ N. lat., 125°45.00′ W. long.;

(12) 48°07.43′ N. lat., 125°46.36′ W. long.;

(13) 48°06.00′ N. lat., 125°46.50′ W. long.;

(14) 48°05.38′ N. lat., 125°42.82′ W. long.;

(15) 48°04.19′ N. lat., 125°40.40′ W. long.;

(16) 48°03.50′ N. lat., 125°37.00′ W. long.;

(17) 48°01.50′ N. lat., 125°40.00′ W. long.;

(18) 47°57.00′ N. lat., 125°37.00′ W. long.;

(19) 47°55.21′ N. lat., 125°37.22′ W. long.;

(20) 47°54.02′ N. lat., 125°36.57′ W. long.;

(21) 47°53.67′ N. lat., 125°35.06′ W. long.;

(22) 47°54.14′ N. lat., 125°32.35′ W. long.;

(23) 47°55.50′ N. lat., 125°28.56′ W. long.;

(24) 47°57.03′ N. lat., 125°26.52′ W. long.;

(25) 47°57.98′ N. lat., 125°25.08′ W. long.;

(26) 48°00.54′ N. lat., 125°24.38′ W. long.;

(27) 48°01.45′ N. lat., 125°23.70′ W. long.;

(28) 48°01.97′ N. lat., 125°22.34′ W. long.;

(29) 48°03.68′ N. lat., 125°21.20′ W. long.;

(30) 48°01.96′ N. lat., 125°19.56′ W. long.;

(31) 48°00.98′ N. lat., 125°20.43′ W. long.;

(32) 48°00.00′ N. lat., 125°20.68′ W. long.;

(33) 47°58.00′ N. lat., 125°20.00′ W. long.;

(34) 47°57.65′ N. lat., 125°19.18′ W. long.;

(35) 47°58.00′ N. lat., 125°18.00′ W. long.;

(36) 47°56.59′ N. lat., 125°18.15′ W. long.;

(37) 47°51.30′ N. lat., 125°18.32′ W. long.;

(38) 47°49.88′ N. lat., 125°14.49′ W. long.;

(39) 47°49.00′ N. lat., 125°11.00′ W. long.;

(40) 47°47.99′ N. lat., 125°07.31′ W. long.;

(41) 47°46.47′ N. lat., 125°08.63′ W. long.;

(42) 47°46.00′ N. lat., 125°06.00′ W. long.;

(43) 47°44.50′ N. lat., 125°07.50′ W. long.;

(44) 47°43.39′ N. lat., 125°06.57′ W. long.;

(45) 47°42.37′ N. lat., 125°05.74′ W. long.;

(46) 47°40.61′ N. lat., 125°06.48′ W. long.;

(47) 47°37.43′ N. lat., 125°07.33′ W. long.;

(48) 47°33.68′ N. lat., 125°04.80′ W. long.;

(49) 47°30.00′ N. lat., 125°00.00′ W. long.;

(50) 47°28.00′ N. lat., 124°58.50′ W. long.;

(51) 47°28.88′ N. lat., 124°54.71′ W. long.;

(52) 47°27.70′ N. lat., 124°51.87′ W. long.;

(53) 47°24.84′ N. lat., 124°48.45′ W. long.;

(54) 47°21.76′ N. lat., 124°47.42′ W. long.;

(55) 47°18.84′ N. lat., 124°46.75′ W. long.;

(56) 47°19.82′ N. lat., 124°51.43′ W. long.;

(57) 47°18.13′ N. lat., 124°54.25′ W. long.;

(58) 47°13.50′ N. lat., 124°54.69′ W. long.;

(59) 47°15.00′ N. lat., 125°00.00′ W. long.;

(60) 47°08.00′ N. lat., 124°59.83′ W. long.;

(61) 47°05.79′ N. lat., 125°01.00′ W. long.;

(62) 47°03.34′ N. lat., 124°57.49′ W. long.;

(63) 47°01.00′ N. lat., 125°00.00′ W. long.;

(64) 46°55.00′ N. lat., 125°02.00′ W. long.;

(65) 46°51.00′ N. lat., 124°57.00′ W. long.;

(66) 46°47.00′ N. lat., 124°55.00′ W. long.;

(67) 46°34.00′ N. lat., 124°38.00′ W. long.;

(68) 46°30.50′ N. lat., 124°41.00′ W. long.;

(69) 46°33.00′ N. lat., 124°32.00′ W. long.;

(70) 46°29.00′ N. lat., 124°32.00′ W. long.;

(71) 46°20.00′ N. lat., 124°39.00′ W. long.;

(72) 46°18.16′ N. lat., 124°40.00′ W. long.;

(73) 46°15.83′ N. lat., 124°27.01′ W. long.;

(74) 46°15.00′ N. lat., 124°30.96′ W. long.;

(75) 46°13.17′ N. lat., 124°37.87′ W. long.;

(76) 46°13.17′ N. lat., 124°38.75′ W. long.;

(77) 46°10.50′ N. lat., 124°42.00′ W. long.;

(78) 46°6.21′ N. lat., 124°41.85′ W. long.;

(79) 46°3.02′ N. lat., 124°50.27′ W. long.;

(80) 45°57.00′ N. lat., 124°45.52′ W. long.;

(81) 45°46.85′ N. lat., 124°45.91′ W. long.;

(82) 45°45.81′ N. lat., 124°47.05′ W. long.;

(83) 45°44.87′ N. lat., 124°45.98′ W. long.;

(84) 45°43.44′ N. lat., 124°46.03′ W. long.;

(85) 45°35.82′ N. lat., 124°45.72′ W. long.;

(86) 45°35.70′ N. lat., 124°42.89′ W. long.;

(87) 45°24.45′ N. lat., 124°38.21′ W. long.;

(88) 45°11.68′ N. lat., 124°39.38′ W. long.;

(89) 44°57.94′ N. lat., 124°37.02′ W. long.;

(90) 44°44.28′ N. lat., 124°50.79′ W. long.;

(91) 44°32.63′ N. lat., 124°54.21′ W. long.;

(92) 44°23.20′ N. lat., 124°49.87′ W. long.;

(93) 44°13.17′ N. lat., 124°58.81′ W. long.;

(94) 43°57.92′ N. lat., 124°58.29′ W. long.;

(95) 43°50.12′ N. lat., 124°53.36′ W. long.;

(96) 43°49.53′ N. lat., 124°43.96′ W. long.;

(97) 43°42.76′ N. lat., 124°41.40′ W. long.;

(98) 43°24.00′ N. lat., 124°42.61′ W. long.;

(99) 43°19.74′ N. lat., 124°45.12′ W. long.;

(100) 43°19.62′ N. lat., 124°52.95′ W. long.;

(101) 43°17.41′ N. lat., 124°53.02′ W. long.;

(102) 42°49.15′ N. lat., 124°54.93′ W. long.;

(103) 42°46.74′ N. lat., 124°53.39′ W. long.;

(104) 42°43.76′ N. lat., 124°51.64′ W. long.;

(105) 42°45.41′ N. lat., 124°49.35′ W. long.;

(106) 42°43.92′ N. lat., 124°45.92′ W. long.;

(107) 42°38.87′ N. lat., 124°43.38′ W. long.;

(108) 42°34.78′ N. lat., 124°46.56′ W. long.;

(109) 42°31.47′ N. lat., 124°46.89′ W. long.;

(110) 42°31.00′ N. lat., 124°44.28′ W. long.;

(111) 42°29.22′ N. lat., 124°46.93′ W. long.;

(112) 42°28.39′ N. lat., 124°49.94′ W. long.;

(113) 42°26.28′ N. lat., 124°47.60′ W. long.;

(114) 42°19.58′ N. lat., 124°43.21′ W. long.;

(115) 42°13.75′ N. lat., 124°40.06′ W. long.;

(116) 42°5.12′ N. lat., 124°39.06′ W. long.;

(117) 41°59.99′ N. lat., 124°37.72′ W. long.;

(118) 42°0.00′ N. lat., 124°37.76′ W. long.;

(119) 41°47.93′ N. lat., 124°31.79′ W. long.;

(120) 41°21.35′ N. lat., 124°30.35′ W. long.;

(121) 41°7.11′ N. lat., 124°25.25′ W. long.;

(122) 40°57.37′ N. lat., 124°30.25′ W. long.;

(123) 40°41.03′ N. lat., 124°33.21′ W. long.;

(124) 40°37.40′ N. lat., 124°38.96′ W. long.;

(125) 40°33.70′ N. lat., 124°42.50′ W. long.;

(126) 40°31.31′ N. lat., 124°41.59′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°10.11′ N. lat., 124°28.25′ W. long.;

(132) 40°1.63′ N. lat., 124°17.25′ W. long.;

(133) 39°51.85′ N. lat., 124°10.33′ W. long.;

(134) 39°32.41′ N. lat., 124°0.01′ W. long.;

(135) 38°57.16′ N. lat., 124°1.89′ W. long.;

(136) 38°11.66′ N. lat., 123°30.87′ W. long.;

(137) 38°3.18′ N. lat., 123°33.45′ W. long.; and

(138) 38°00.00′ N. lat., 123°28.84′ W. long.

(v) The 250-fm (457-m) depth contour modified to allow fishing for petrale in winter months of January, February, November, and December and used north of 38° N. lat. as a western boundary for the trawl RCA is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°15.83′ N. lat., 124°27.01′ W. long.;

(47) 46°15.00′ N. lat., 124°30.96′ W. long.;

(48) 46°13.17′ N. lat., 124°38.76′ W. long.;

(49) 46°10.51′ N. lat., 124°41.99′ W. long.;

(50) 46°6.24′ N. lat., 124°41.81′ W. long.;

(51) 46°3.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°8.98′ N. lat., 124°34.26′ W. long.;

(65) 45°9.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°4.14′ N. lat., 124°52.55′ W. long.;

(86) 43°4.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°5.12′ N. lat., 124°39.06′ W. long.;

(102) 42°2.67′ N. lat., 124°38.41′ W. long.;

(103) 42°2.67′ N. lat., 124°35.95′ W. long.;

(104) 42°0.00′ N. lat., 124°35.88′ W. long.;

(105) 41°59.99′ N. lat., 124°35.92′ W. long.;

(106) 41°56.38′ N. lat., 124°34.96′ W. long.;

(107) 41°53.98′ N. lat., 124°32.50′ W. long.;

(108) 41°50.69′ N. lat., 124°30.46′ W. long.;

(109) 41°48.30′ N. lat., 124°29.91′ W. long.;

(110) 41°47.93′ N. lat., 124°31.79′ W. long.;

(111) 41°21.35′ N. lat., 124°30.35′ W. long.;

(112) 41°7.11′ N. lat., 124°25.25′ W. long.;

(113) 40°57.37′ N. lat., 124°30.25′ W. long.;

(114) 40°41.03′ N. lat., 124°33.21′ W. long.;

(115) 40°37.40′ N. lat., 124°38.96′ W. long.;

(116) 40°33.70′ N. lat., 124°42.50′ W. long.;

(117) 40°31.31′ N. lat., 124°41.59′ W. long.;

(118) 40°25.00′ N. lat., 124°36.65′ W. long.;

(119) 40°22.42′ N. lat., 124°32.19′ W. long.;

(120) 40°17.17′ N. lat., 124°32.21′ W. long.;

(121) 40°18.68′ N. lat., 124°50.44′ W. long.;

(122) 40°10.11′ N. lat., 124°28.25′ W. long.;

(123) 40°1.63′ N. lat., 124°17.25′ W. long.;

(124) 39°51.85′ N. lat., 124°10.33′ W. long.;

(125) 39°32.41′ N. lat., 124°0.01′ W. long.;

(126) 38°57.16′ N. lat., 124°1.89′ W. long.;

(127) 38°11.66′ N. lat., 123°30.87′ W. long.;

(128) 38°3.18′ N. lat., 123°33.45′ W. long.; and

(129) 38°00.00′ N. lat., 123°28.84′ W. long.

(vi) The 50-fm (91-m) depth contour used between 40°10′ N. lat. and 34°27′ N. lat. as an eastern boundary for the trawl RCA in the months of January and February is defined by straight lines connecting all of the following points in the order stated:

(1) 40°10.01′ N. lat., 124°19.97′ W. long.;

(2) 40°9.20′ N. lat., 124°15.81′ W. long.;

(3) 40°7.51′ N. lat., 124°15.29′ W. long.;

(4) 40°5.22′ N. lat., 124°10.06′ W. long.;

(5) 40°6.51′ N. lat., 124°8.01′ W. long.;

(6) 40°0.72′ N. lat., 124°8.45′ W. long.;

(7) 39°56.60′ N. lat., 124°7.12′ W. long.;

(8) 39°52.58′ N. lat., 124°3.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°14.58′ N. lat., 123°9.93′ W. long.;

(17) 38°1.86′ N. lat., 123°9.76′ W. long.;

(18) 37°53.66′ N. lat., 123°12.06′ W. long.;

(19) 37°48.01′ N. lat., 123°15.84′ W. long.;

(20) 37°36.77′ N. lat., 122°58.48′ W. long.;

(21) 37°1.02′ N. lat., 122°33.71′ W. long.;

(22) 37°2.28′ N. lat., 122°25.06′ W. long.;

(23) 36°48.20′ N. lat., 122°3.28′ W. long.;

(24) 36°51.46′ N. lat., 121°57.54′ W. long.;

(25) 36°44.14′ N. lat., 121°58.10′ W. long.;

(26) 36°36.76′ N. lat., 122°1.16′ W. long.;

(27) 36°15.62′ N. lat., 121°57.13′ W. long.;

(28) 36°10.60′ N. lat., 121°43.65′ W. long.;

(29) 35°40.38′ N. lat., 121°22.59′ W. long.;

(30) 35°24.35′ N. lat., 121°2.53′ W. long.;

(31) 35°2.66′ N. lat., 120°51.63′ W. long.;

(32) 34°39.52′ N. lat., 120°48.72′ W. long.;

(33) 34°31.26′ N. lat., 120°44.12′ W. long.; and

(34) 34°27.00′ N. lat., 120°31.25′ W. long.

(vii) The 60-fm (110-m) depth contour used between 40°10′ N. lat. and 34°27′ N. lat. as an eastern boundary for the trawl RCA in March through October is defined by straight lines connecting all of the following points in the order stated:

(1) 40°10.01′ N. lat., 124°19.97′ W. long.;

(2) 40°9.20′ N. lat., 124°15.81′ W. long.;

(3) 40°7.51′ N. lat., 124°15.29′ W. long.;

(4) 40°5.22′ N. lat., 124°10.06′ W. long.;

(5) 40°6.51′ N. lat., 124°8.01′ W. long.;

(6) 40°0.72′ N. lat., 124°8.45′ W. long.;

(7) 39°56.60′ N. lat., 124°7.12′ W. long.;

(8) 39°52.58′ N. lat., 124°3.57′ W. long.;

(9) 39°50.65′ N. lat., 123°57.98′ W. long.;

(10) 39°40.16′ N. lat., 123°52.41′ W. long.;

(11) 39°30.12′ N. lat., 123°52.92′ W. long.;

(12) 39°24.53′ N. lat., 123°55.16′ W. long.;

(13) 39°11.58′ N. lat., 123°50.93′ W. long.;

(14) 38°55.13′ N. lat., 123°51.14′ W. long.;

(15) 38°28.58′ N. lat., 123°22.84′ W. long.;

(16) 38°8.32′ N. lat., 123°14.60′ W. long.;

(17) 38°0.27′ N. lat., 123°15.29′ W. long.;

(18) 37°56.93′ N. lat., 123°21.61′ W. long.;

(19) 37°48.01′ N. lat., 123°15.84′ W. long.;

(20) 37°36.77′ N. lat., 122°58.48′ W. long.;

(21) 37°1.02′ N. lat., 122°33.71′ W. long.;

(22) 37°2.28′ N. lat., 122°25.06′ W. long.;

(23) 36°48.20′ N. lat., 122°3.28′ W. long.;

(24) 36°51.46′ N. lat., 121°57.54′ W. long.;

(25) 36°44.14′ N. lat., 121°58.10′ W. long.;

(26) 36°36.76′ N. lat., 122°1.16′ W. long.;

(27) 36°15.62′ N. lat., 121°57.13′ W. long.;

(28) 36°10.60′ N. lat., 121°43.65′ W. long.;

(29) 35°40.38′ N. lat., 121°22.59′ W. long.;

(30) 35°24.35′ N. lat., 121°2.53′ W. long.;

(31) 35°2.66′ N. lat., 120°51.63′ W. long.;

(32) 34°39.52′ N. lat., 120°48.72′ W. long.;

(33) 34°31.26′ N. lat., 120°44.12′ W. long.; and

(34) 34°27.00′ N. lat., 120°31.25′ W. long.

(viii) The 100-fm (183-m) depth contour used between 34°27′ N. lat. and the U.S. border with Mexico as an eastern boundary for the trawl RCA is defined by straight lines connecting all of the following points in the order stated:

(1) 34°27.00′ N. lat., 120°31.74′ W. long.;

(2) 34°21.90′ N. lat., 120°25.25′ W. long.;

(3) 34°24.86′ N. lat., 120°16.81′ W. long.;

(4) 34°22.80′ N. lat., 119°57.06′ W. long.;

(5) 34°18.59′ N. lat., 119°44.84′ W. long.;

(6) 34°15.04′ N. lat., 119°40.34′ W. long.;

(7) 34°14.40′ N. lat., 119°45.39′ W. long.;

(8) 34°12.32′ N. lat., 119°42.41′ W. long.;

(9) 34°9.71′ N. lat., 119°28.85′ W. long.;

(10) 34°4.70′ N. lat., 119°15.38′ W. long.;

(11) 34°3.33′ N. lat., 119°12.93′ W. long.;

(12) 34°2.72′ N. lat., 119°7.01′ W. long.;

(13) 34°3.90′ N. lat., 119°4.64′ W. long.;

(14) 34°1.80′ N. lat., 119°3.23′ W. long.;

(15) 33°59.32′ N. lat., 119°3.50′ W. long.;

(16) 33°59.00′ N. lat., 118°59.55′ W. long.;

(17) 33°59.51′ N. lat., 118°57.25′ W. long.;

(18) 33°58.82′ N. lat., 118°52.47′ W. long.;

(19) 33°58.54′ N. lat., 118°41.86′ W. long.;

(20) 33°55.07′ N. lat., 118°34.25′ W. long.;

(21) 33°54.28′ N. lat., 118°38.68′ W. long.;

(22) 33°51.00′ N. lat., 118°36.66′ W. long.;

(23) 33°39.77′ N. lat., 118°18.41′ W. long.;

(24) 33°35.50′ N. lat., 118°16.85′ W. long.;

(25) 33°32.68′ N. lat., 118°9.82′ W. long.;

(26) 33°34.09′ N. lat., 117°54.06′ W. long.;

(27) 33°31.60′ N. lat., 117°49.28′ W. long.;

(28) 33°16.07′ N. lat., 117°34.74′ W. long.;

(29) 33°7.06′ N. lat., 117°22.71′ W. long.;

(30) 32°53.34′ N. lat., 117°19.13′ W. long.;

(31) 32°46.39′ N. lat., 117°23.45′ W. long.;

(32) 32°42.79′ N. lat., 117°21.16′ W. long.; and

(33) 32°34.22′ N. lat., 117°21.20′ W. long.

(ix) The 150-fm (274-m) depth contour used between 38° N. lat. and the U.S. border with Mexico as a western boundary for both the trawl RCA and the non-trawl RCA is defined by straight lines connecting all of the following points in the order stated:

(1) 37°59.73′ N. lat., 123°29.85′ W. long.;

(2) 37°51.46′ N. lat., 123°25.16′ W. long.;

(3) 37°44.06′ N. lat., 123°11.44′ W. long.;

(4) 37°35.26′ N. lat., 123°2.29′ W. long.;

(5) 37°14.00′ N. lat., 122°50.00′ W. long.;

(6) 37°1.00′ N. lat., 122°36.00′ W. long.;

(7) 36°58.07′ N. lat., 122°28.35′ W. long.;

(8) 37°0.71′ N. lat., 122°24.53′ W. long.;

(9) 36°57.50′ N. lat., 122°24.98′ W. long.;

(10) 36°58.38′ N. lat., 122°21.85′ W. long.;

(11) 36°55.85′ N. lat., 122°21.95′ W. long.;

(12) 36°52.86′ N. lat., 122°12.89′ W. long.;

(13) 36°48.71′ N. lat., 122°9.28′ W. long.;

(14) 36°46.65′ N. lat., 122°4.10′ W. long.;

(15) 36°51.00′ N. lat., 121°58.00′ W. long.;

(16) 36°44.00′ N. lat., 121°59.00′ W. long.;

(17) 36°38.00′ N. lat., 122°2.00′ W. long.;

(18) 36°26.00′ N. lat., 121°59.05′ W. long.;

(19) 36°22.00′ N. lat., 122°1.00′ W. long.;

(20) 36°19.00′ N. lat., 122°5.00′ W. long.;

(21) 36°14.00′ N. lat., 121°58.00′ W. long.;

(22) 36°10.61′ N. lat., 121°44.51′ W. long.;

(23) 35°50.53′ N. lat., 121°29.93′ W. long.;

(24) 35°46.00′ N. lat., 121°28.00′ W. long.;

(25) 35°38.94′ N. lat., 121°23.16′ W. long.;

(26) 35°26.00′ N. lat., 121°8.00′ W. long.;

(27) 35°7.42′ N. lat., 120°57.08′ W. long.;

(28) 34°42.00′ N. lat., 120°54.00′ W. long.;

(29) 34°29.00′ N. lat., 120°44.00′ W. long.;

(30) 34°22.00′ N. lat., 120°32.00′ W. long.;

(31) 34°21.00′ N. lat., 120°21.00′ W. long.;

(32) 34°24.00′ N. lat., 120°15.00′ W. long.;

(33) 34°22.11′ N. lat., 119°56.63′ W. long.;

(34) 34°19.00′ N. lat., 119°48.00′ W. long.;

(35) 34°15.00′ N. lat., 119°48.00′ W. long.;

(36) 34°8.00′ N. lat., 119°37.00′ W. long.;

(37) 34°7.00′ N. lat., 120°11.00′ W. long.;

(38) 34°13.00′ N. lat., 120°30.00′ W. long.;

(39) 34°9.00′ N. lat., 120°38.00′ W. long.;

(40) 33°58.00′ N. lat., 120°29.00′ W. long.;

(41) 33°51.00′ N. lat., 120°9.00′ W. long.;

(42) 33°38.00′ N. lat., 119°58.00′ W. long.;

(43) 33°38.00′ N. lat., 119°50.00′ W. long.;

(44) 33°46.25′ N. lat., 119°49.32′ W. long.;

(45) 33°53.82′ N. lat., 119°53.42′ W. long.;

(46) 33°59.00′ N. lat., 119°21.00′ W. long.;

(47) 34°2.00′ N. lat., 119°13.00′ W. long.;

(48) 34°1.52′ N. lat., 119°4.50′ W. long.;

(49) 33°58.83′ N. lat., 119°3.76′ W. long.;

(50) 33°56.55′ N. lat., 118°40.50′ W. long.;

(51) 33°51.00′ N. lat., 118°38.00′ W. long.;

(52) 33°39.63′ N. lat., 118°18.75′ W. long.;

(53) 33°35.44′ N. lat., 118°17.57′ W. long.;

(54) 33°31.98′ N. lat., 118°12.59′ W. long.;

(55) 33°33.25′ N. lat., 117°54.15′ W. long.;

(56) 33°31.43′ N. lat., 117°49.84′ W. long.;

(57) 33°16.53′ N. lat., 117°36.13′ W. long.;

(58) 33°6.51′ N. lat., 117°24.11′ W. long.;

(59) 32°54.11′ N. lat., 117°21.45′ W. long.;

(60) 32°46.15′ N. lat., 117°24.26′ W. long.;

(61) 32°41.97′ N. lat., 117°22.10′ W. long.;

(62) 32°39.00′ N. lat., 117°28.13′ W. long.; and

(63) 32°34.84′ N. lat., 117°24.62′ W. long.

(x) The 150-fm (274-m) depth contour used around islands/seamounts off the state of California is defined by straight lines around each island/seamount connecting all of the following points in the order stated:

(A) San Nicholas Island

(1) 33°32.73′ N. lat., 119°47.00′ W. long.;

(2) 33°14.00′ N. lat., 119°15.00′ W. long.;

(3) 33°12.00′ N. lat., 119°18.00′ W. long.;

(4) 33°11.00′ N. lat., 119°26.00′ W. long.;

(5) 33°13.13′ N. lat., 119°43.19′ W. long.;

(6) 33°13.11′ N. lat., 119°53.05′ W. long.;

(7) 33°30.00′ N. lat., 119°52.00′ W. long.; and

(8) 33°32.73′ N. lat., 119°47.00′ W. long.

(B) Santa Catalina Island

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(C) San Clemente Island

(1) 32°48.50′ N. lat., 118°18.34′ W. long.;

(2) 32°56.00′ N. lat., 118°29.00′ W. long.;

(3) 33°3.00′ N. lat., 118°34.00′ W. long.;

(4) 33°5.00′ N. lat., 118°38.00′ W. long.;

(5) 33°3.00′ N. lat., 118°40.00′ W. long.;

(6) 32°48.00′ N. lat., 118°31.00′ W. long.;

(7) 32°43.00′ N. lat., 118°24.00′ W. long.; and

(8) 32°48.50′ N. lat., 118°18.34′ W. long.

(D) Santa Barbara Island

(1) 33°36.06′ N. lat., 118°57.15′ W. long.;

(2) 33°20.64′ N. lat., 118°59.39′ W. long.;

(3) 33°23.00′ N. lat., 119°7.00′ W. long.;

(4) 33°43.00′ N. lat., 119°14.00′ W. long.;

(5) 33°46.00′ N. lat., 119°12.00′ W. long.; and

(6) 33°36.06′ N. lat., 118°57.15′ W. long.

(E) Orange County Seamount

(1) 33°25.00′ N. lat., 118°1.00′ W. long.;

(2) 33°25.00′ N. lat., 117°58.00′ W. long.;

(3) 33°23.00′ N. lat., 117°58.00′ W. long.;

(4) 33°23.00′ N. lat., 118°1.00′ W. long.; and

(5) 33°25.00′ N. lat., 118°1.00′ W. long.

(xi) The 50-fm (91-m) depth contour off Oregon state, which may be used for inseason management in 2003 is defined by straight lines connecting all of the following points in the order stated:

(1) 46°16.00′ N. lat., 124°17.33′ W. long.;

(2) 45°50.88′ N. lat., 124°9.68′ W. long.;

(3) 45°12.99′ N. lat., 124°6.71′ W. long.;

(4) 44°52.48′ N. lat., 124°11.22′ W. long.;

(5) 44°42.41′ N. lat., 124°19.70′ W. long.;

(6) 44°38.80′ N. lat., 124°26.58′ W. long.;

(7) 44°24.99′ N. lat., 124°31.22′ W. long.;

(8) 44°18.11′ N. lat., 124°43.74′ W. long.;

(9) 44°15.23′ N. lat., 124°40.47′ W. long.;

(10) 44°18.80′ N. lat., 124°35.48′ W. long.;

(11) 44°19.62′ N. lat., 124°27.18′ W. long.;

(12) 43°56.65′ N. lat., 124°16.86′ W. long.;

(13) 43°34.95′ N. lat., 124°17.47′ W. long.;

(14) 43°12.60′ N. lat., 124°35.80′ W. long.;

(15) 43°8.96′ N. lat., 124°33.77′ W. long.;

(16) 42°59.66′ N. lat., 124°34.79′ W. long.;

(17) 42°54.29′ N. lat., 124°39.46′ W. long.;

(18) 42°46.50′ N. lat., 124°39.99′ W. long.;

(19) 42°41.00′ N. lat., 124°34.92′ W. long.;

(20) 42°36.29′ N. lat., 124°34.70′ W. long.;

(21) 42°28.36′ N. lat., 124°37.90′ W. long.;

(22) 42°25.53′ N. lat., 124°37.68′ W. long.;

(23) 42°18.64′ N. lat., 124°29.47′ W. long.;

(24) 42°12.95′ N. lat., 124°27.34′ W. long.;

(25) 42°3.04′ N. lat., 124°25.81′ W. long.; and

(26) 42°0.00′ N. lat., 124°26.21′ W. long.

(xii) The 150-fm (274-m) depth contour between 46°16′ N. lat. and 38° N. lat., which may be used for inseason management in 2003 is defined by straight lines connecting all of the following points in the order stated:

(1) 46°16.00′ N. lat., 124°26.15′ W. long.;

(2) 46°13.38′ N. lat., 124°31.36′ W. long.;

(3) 46°12.09′ N. lat., 124°38.39′ W. long.;

(4) 46°9.46′ N. lat., 124°40.64′ W. long.;

(5) 46°7.30′ N. lat., 124°40.68′ W. long.;

(6) 46°2.76′ N. lat., 124°44.01′ W. long.;

(7) 46°2.64′ N. lat., 124°47.96′ W. long.;

(8) 46°1.22′ N. lat., 124°43.47′ W. long.;

(9) 45°51.81′ N. lat., 124°42.89′ W. long.;

(10) 45°45.95′ N. lat., 124°40.72′ W. long.;

(11) 45°44.11′ N. lat., 124°43.09′ W. long.;

(12) 45°34.50′ N. lat., 124°30.27′ W. long.;

(13) 45°21.10′ N. lat., 124°23.11′ W. long.;

(14) 45°9.69′ N. lat., 124°20.45′ W. long.;

(15) 44°56.25′ N. lat., 124°27.03′ W. long.;

(16) 44°44.47′ N. lat., 124°37.85′ W. long.;

(17) 44°31.81′ N. lat., 124°39.60′ W. long.;

(18) 44°31.48′ N. lat., 124°43.30′ W. long.;

(19) 44°19.70′ N. lat., 124°50.88′ W. long.;

(20) 44°12.04′ N. lat., 124°58.16′ W. long.;

(21) 44°7.38′ N. lat., 124°57.87′ W. long.;

(22) 43°57.06′ N. lat., 124°57.20′ W. long.;

(23) 43°52.52′ N. lat., 124°49.00′ W. long.;

(24) 43°51.56′ N. lat., 124°37.49′ W. long.;

(25) 43°47.83′ N. lat., 124°36.43′ W. long.;

(26) 43°31.79′ N. lat., 124°36.80′ W. long.;

(27) 43°30.78′ N. lat., 124°38.19′ W. long.;

(28) 43°29.34′ N. lat., 124°36.77′ W. long.;

(29) 43°26.46′ N. lat., 124°40.02′ W. long.;

(30) 43°16.15′ N. lat., 124°44.37′ W. long.;

(31) 43°9.33′ N. lat., 124°45.35′ W. long.;

(32) 43°8.85′ N. lat., 124°48.92′ W. long.;

(33) 43°3.23′ N. lat., 124°52.41′ W. long.;

(34) 43°0.25′ N. lat., 124°51.93′ W. long.;

(35) 42°56.62′ N. lat., 124°53.93′ W. long.;

(36) 42°54.84′ N. lat., 124°54.01′ W. long.;

(37) 42°52.31′ N. lat., 124°50.76′ W. long.;

(38) 42°47.78′ N. lat., 124°47.27′ W. long.;

(39) 42°46.32′ N. lat., 124°43.59′ W. long.;

(40) 42°41.63′ N. lat., 124°44.07′ W. long.;

(41) 42°38.83′ N. lat., 124°42.77′ W. long.;

(42) 42°35.37′ N. lat., 124°43.22′ W. long.;

(43) 42°32.78′ N. lat., 124°44.68′ W. long.;

(44) 42°32.19′ N. lat., 124°42.40′ W. long.;

(45) 42°30.28′ N. lat., 124°44.30′ W. long.;

(46) 42°28.16′ N. lat., 124°48.38′ W. long.;

(47) 42°18.34′ N. lat., 124°38.77′ W. long.;

(48) 42°13.65′ N. lat., 124°36.82′ W. long.;

(49) 42°0.15′ N. lat., 124°35.81′ W. long.;

(50) 41°47.79′ N. lat., 124°29.52′ W. long.;

(51) 41°21.00′ N. lat., 124°29.00′ W. long.;

(52) 41°11.00′ N. lat., 124°23.00′ W. long.;

(53) 41°5.00′ N. lat., 124°23.00′ W. long.;

(54) 40°54.00′ N. lat., 124°26.00′ W. long.;

(55) 40°50.00′ N. lat., 124°26.00′ W. long.;

(56) 40°44.51′ N. lat., 124°30.83′ W. long.;

(57) 40°40.61′ N. lat., 124°32.06′ W. long.;

(58) 40°37.36′ N. lat., 124°29.41′ W. long.;

(59) 40°35.64′ N. lat., 124°30.47′ W. long.;

(60) 40°37.43′ N. lat., 124°37.10′ W. long.;

(61) 40°36.00′ N. lat., 124°40.00′ W. long.;

(62) 40°31.59′ N. lat., 124°40.72′ W. long.;

(63) 40°24.64′ N. lat., 124°35.62′ W. long.;

(64) 40°23.00′ N. lat., 124°32.00′ W. long.;

(65) 40°23.39′ N. lat., 124°28.70′ W. long.;

(66) 40°22.28′ N. lat., 124°25.25′ W. long.;

(67) 40°21.90′ N. lat., 124°25.17′ W. long.;

(68) 40°22.00′ N. lat., 124°28.00′ W. long.;

(69) 40°21.35′ N. lat., 124°29.53′ W. long.;

(70) 40°19.75′ N. lat., 124°28.98′ W. long.;

(71) 40°18.15′ N. lat., 124°27.01′ W. long.;

(72) 40°17.45′ N. lat., 124°25.49′ W. long.;

(73) 40°18.00′ N. lat., 124°24.00′ W. long.;

(74) 40°16.00′ N. lat., 124°26.00′ W. long.;

(75) 40°17.00′ N. lat., 124°35.00′ W. long.;

(76) 40°16.00′ N. lat., 124°36.00′ W. long.;

(77) 40°10.07′ N. lat., 124°22.90′ W. long.;

(78) 40°7.00′ N. lat., 124°19.00′ W. long.;

(79) 40°8.10′ N. lat., 124°16.70′ W. long.;

(80) 40°5.90′ N. lat., 124°17.77′ W. long.;

(81) 40°1.46′ N. lat., 124°12.85′ W. long.;

(82) 40°4.32′ N. lat., 124°10.33′ W. long.;

(83) 40°3.21′ N. lat., 124°8.83′ W. long.;

(84) 40°1.33′ N. lat., 124°8.70′ W. long.;

(85) 39°58.51′ N. lat., 124°12.44′ W. long.; and

(86) 38°00.00′ N. lat., 124°7.49′ W. long.

(20) Rockfish categories. Rockfish (except thornyheads) are divided into categories north and south of 40°10′ N. lat., depending on the depth where they most often are caught: nearshore, shelf, or slope (scientific names appear in Table 2). Nearshore rockfish are further divided into shallow nearshore and deeper nearshore categories south of 40°10′ N. lat. Trip limits are established for “minor rockfish” species according to these categories (see Tables 2-5).

(a) Nearshore rockfish consists entirely of the minor nearshore rockfish species listed in Table 2, which includes California scorpionfish.

(i) Shallow nearshore rockfish consists of black-and-yellow rockfish, China rockfish, gopher rockfish, grass rockfish, and kelp rockfish.

(ii) Deeper nearshore rockfish consists of black rockfish, blue rockfish, brown rockfish, calico rockfish, copper rockfish, olive rockfish, quillback rockfish, and treefish.

(iii) California scorpionfish.

(b) Shelf rockfish consists of canary rockfish, shortbelly rockfish, widow rockfish, yelloweye rockfish, yellowtail rockfish, bocaccio, chilipepper, cowcod, and the minor shelf rockfish species listed in Table 2.

(c) Slope rockfish consists of Pacific ocean perch, splitnose rockfish, darkblotched rockfish, and the minor slope rockfish species listed in Table 2.

BILLING CODE 3510-22-S

B. Limited Entry Fishery

(1) General. Most species taken in limited entry fisheries will be managed with cumulative trip limits (see paragraph IV.A.(1)(d),) size limits (see paragraph IV.A.(6)), seasons (see paragraph IV.A. (7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A. (20)). Yelloweye rockfish retention is prohibited in the limited entry fixed gear fisheries. Most of the management measures for the limited entry fishery are listed above and in the following tables: Table 3 (North), Table 3 (South), Table 4 (North), and Table 4 (South).

A header in Table 3 (North), Table 3 (South), Table 4 (North), and Table 5 (South) approximates the Rockfish Conservation Area (i.e., closed area) for vessels participating in the limited entry fishery. [Note: Between a line drawn due south from

Point Fermin (33° 42′ 30″ N. lat.; 118° 17′ 30″ W. long.) and a line drawn due west from the Newport South Jetty (33° 35′ 37″ N. lat.; 117° 52′ 50″ W. long.,) vessels fishing with hook-and-line and/or trap (or pot) gear may operate from shore to a boundary line approximating 50 fm (91 m).]

Management measures may be changed during the year by announcement in the Federal Register. However, the management regimes for several fisheries (nontrawl sablefish, Pacific whiting, and black rockfish) do not neatly fit into these tables and are addressed immediately following Table 3 (North), Table 3 (South), Table 4 (North), and Table 4 (South).

BILLING CODE 3510-22-C

(2) Sablefish. The limited entry sablefish allocation is further allocated 58 percent to trawl gear and 42 percent to nontrawl gear. See footnote e/ of Table 1a.

(a) Trawl trip and size limits. Management measures for the limited entry trawl fishery for sablefish are listed in Table 3 (North) and Table 3 (South).

(b) Nontrawl (fixed gear) trip and size limits. To take, retain, possess, or land sablefish during the primary season for the limited entry fixed gear sablefish fishery, the owner of a vessel must hold a limited entry permit for that vessel, affixed with both a gear endorsement for longline or trap (or pot) gear, and a sablefish endorsement. (See 50 CFR 660.323(a)(2)(i).) A sablefish endorsement is not required to participate in the limited entry daily trip limit fishery.

(i) Primary season. The primary season begins at 12 noon l.t. on April 1, 2003, and ends at 12 noon l.t. on October 31, 2003. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2003, the following limits would be in effect: Tier 1, 53,000 lb (24,040 kg); Tier 2, 24,000 lb (10,886 kg); Tier 3, 14,000 lb (6,350 kg). All limits are in round weight. If a vessel is registered for use with a sablefish-endorsed limited entry permit, all sablefish taken after April 1, 2003 count against the cumulative limits associated with the permit(s) registered for use with that vessel.

(ii) Daily trip limit. Daily and/or weekly sablefish trip limits listed in Table 4 (North) and Table 4 (South) apply to any limited entry fixed gear vessels not participating in the primary sablefish season described in paragraph (i) of this section. North of 36° N. lat., the daily and/or weekly trip limits apply to fixed gear vessels that are not registered for use with a sablefish-endorsed limited entry permit, and to fixed gear vessels that are registered for use with a sablefish-endorsed limited entry permit when those vessels are not fishing against their primary sablefish season cumulative limits. South of 36° N. lat., the daily and/or weekly trip limits for taking and retaining sablefish that are listed in Table 4 (South) apply throughout the year to all vessels registered for use with a limited entry fixed gear permit.

(iii) Participating in both the primary and daily trip limit fisheries. A vessel that is eligible to participate in the primary sablefish season may participate in the daily trip limit fishery for sablefish once that vessel's primary season sablefish limit(s) have been taken or after October 31, 2003, whichever occurs first. No vessel may land sablefish against both its primary season cumulative sablefish limits and against the daily trip limit fishery limits within the same 24 hour period of 0001 hour l.t. to 2400 hours l.t. If a vessel has taken all of its tier limit except for an amount that is smaller than the daily trip limit amount, that vessel′s subsequent sablefish landings are automatically subject to daily and/or weekly trip limits.

(3) Whiting. Additional regulations that apply to the whiting fishery are found at 50 CFR 660.306 and at 50 CFR 660.323(a)(3) and (a)(4).

(a) Allocations. The non-tribal allocations, based on percentages that are applied to the commercial OY of 121,200 mt in 2003 (see 50 CFR 660.323 (a)(4)), are as follows:

(i) Catcher/processor sector—41,288 mt (34 percent);

(ii) Mothership sector—29,080 mt (24 percent);

(iii) Shore-based sector—50,904 mt (42 percent). No more than 5 percent (2,545 mt) of the shore-based whiting allocation may be taken before the shore-based fishery begins north of 42° N. lat. on June 15, 2003.

(iv) Tribal allocation—See paragraph V.

(b) Seasons. The 2003 primary seasons for the whiting fishery start on the same dates as in 2002, as follows (see 50 CFR 660.323(a)(3)):

(i) Catcher/processor sector—May 15;

(ii) Mothership sector—May 15;

(iii) Shore-based sector—June 15 north of 42° N. lat.; April 1 between 42°-40°30′ N. lat.; April 15 south of 40°30′ N. lat.

(c) Trip limits. (i) Before and after the regular season. The “per trip” limit for whiting before and after the regular season for the shore-based sector is announced in Table 3 (North) and Table 3 (South), as authorized at 50 CFR 660.323(a)(3) and (a)(4). This trip limit includes any whiting caught shoreward of 100 fathoms (183 m) in the Eureka area.

(ii) Inside the Eureka 100 fm (183 m) contour. No more than 10,000 lb (4,536 kg) of whiting may be taken and retained, possessed, or landed by a vessel that, at any time during a fishing trip, fished in the fishery management area shoreward of the 100 fathom (183 m) contour (as shown on NOAA Charts 18580, 18600, and 18620) in the Eureka area.

(4) Black rockfish. The regulations at 50 CFR 660.323(a)(1) state: “The trip limit for black rockfish (Sebastes melanops) for commercial fishing vessels using hook-and-line gear between the U.S.-Canada border and Cape Alava (48°09′30″ N. lat.) and between Destruction Island (47°40′00″ N. lat.) and Leadbetter Point (46°38′10″ N. lat.), is 100 lb (45 kg) or 30 percent, by weight of all fish on board, whichever is greater, per vessel per fishing trip.” These “per trip” limits apply to limited entry and open access fisheries, in conjunction with the cumulative trip limits and other management measures listed in Tables 4 (North) and Table 5 (North) of section IV. The crossover provisions at paragraphs IV.A. (12) do not apply to the black rockfish per-trip limits.

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30″ N. lat.), CA halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception must adhere to CCA restrictions (see paragraph IV.A.(19)). Retention of yelloweye rockfish and canary rockfish and, south of 40°10′ N. lat., bocaccio is prohibited in all open access fisheries. The trip limits, size limits, seasons, and other management measures for open access groundfish gear, including exempted trawl gear, are listed in Table 5 (North) and Table 5 (South). A header in Table 5 (North) and Table 5 (South) approximates the RCA (i.e., closed area) for vessels participating in the open access fishery. [Note: Between a line drawn due south from Point Fermin (33 42′30″ N. lat.; 118 17′30″ W. long.) and a line drawn due west from the Newport South Jetty (33 35′37″ N. lat.; 117 52′50″ W. long.,) vessels fishing with hook-and-line and/or trap (or pot) gear may operate from shore to a boundary line approximating 50 fm (91 m) in the months of July and August.] For vessels participating in exempted trawl fisheries, the RCAs are the same as those for limited entry trawl gear. Exempted trawl gear RCAs are detailed in the exempted trawl gear sections at the bottom of Table 5 (North) and Table 5 (South). Retention of groundfish caught by exempted trawl gear is prohibited in the designated RCAs. The trip limit at 50 CFR 660.323(a)(1) for black rockfish caught with hook-and-line gear also applies. (The black rockfish limit is repeated at paragraph IV.B.(4).)

BILLING CODE 3510-22-S

BILLING CODE 3510-22-C

(2) Groundfish taken with exempted trawl gear by vessels engaged in fishing for spot and ridgeback prawns, California halibut, or sea cucumbers. [Note: The States of California and Washington will likely prohibit trawling for spot prawn beginning in 2003, while the State of Oregon will likely begin phasing out trawling for spot prawn in 2003.] Trip limits and RCAs for groundfish retained in the spot and ridgeback prawn, California halibut, or sea cucumber fisheries are in Table 5 (North) and Table 5 (South). (a) State law. The trip limits in Table 5(North) and Table 5(South) are not intended to supersede any more restrictive State law relating to the retention of groundfish taken in shrimp or prawn pots or traps.

(b) Participation in the California halibut fishery. A trawl vessel will be considered participating in the California halibut fishery if:

(i) It is not fishing under a valid limited entry permit issued under 50 CFR 660.333 for trawl gear;

(ii) All fishing on the trip takes place south of Pt. Arena, CA; and

(iii) The landing includes California halibut of a size required by California Fish and Game Code section 8392(a), which states: “No California halibut may be taken, possessed or sold which measures less than 22 in (56 cm) in total length, unless it weighs 4 lbs (1.8144 kg) or more in the round, 3 and one-half lbs (1.587 kg) or more dressed with the head on, or 3 lbs (1.3608 kg) or more dressed with the head off. Total length means “the shortest distance between the tip of the jaw or snout, whichever extends farthest while the mouth is closed, and the tip of the longest lobe of the tail, measured while the halibut is lying flat in natural repose, without resort to any force other than the swinging or fanning of the tail.”

(c) Participation in the sea cucumber fishery. A trawl vessel will be considered to be participating in the sea cucumber fishery if:

(i) It is not fishing under a valid limited entry permit issued under 50 CFR 660.333 for trawl gear;

(ii) All fishing on the trip takes place south of Pt. Arena, CA; and

(iii) The landing includes sea cucumbers taken in accordance with California Fish and Game Code, section 8405, which requires a permit issued by the State of California.

(3) Groundfish taken with exempted trawl gear by vessels engaged in fishing for pink shrimp. Trip limits for groundfish retained in the pink shrimp fishery are in Table 5 (North) and Table 5 (South). Notwithstanding section IV.A.(11), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

D. Recreational Fishery

Federal recreational groundfish regulations are not intended to supersede any more restrictive State recreational groundfish regulations relating to federally-managed groundfish.

(1) Washington. For each person engaged in recreational fishing seaward of Washington, the groundfish bag limit is 15 groundfish, including rockfish and lingcod, and is open year-round (except for lingcod). The following sublimits and closed areas apply:

(a) Yelloweye Rockfish Conservation Area. The Yelloweye Rockfish Conservation Area, or YRCA, is an “C-shaped” area which is closed to recreational groundfish and halibut fishing. The coordinates for the YRCA are defined at 50 CFR 660.304(d).

(b) Rockfish. In areas seaward of Washington that are open to recreational groundfish fishing, there is a 10 rockfish per day bag limit, of which no more than 1 may be canary rockfish. Taking and retaining yelloweye rockfish is prohibited.

(c) Lingcod. Recreational fishing for lingcod is closed between January 1 and March 15, and between October 16 and December 31. In areas seaward of Washington that are open to recreational groundfish fishing and when the recreational season for lingcod is open (i.e., between March 16-October 15), there is a bag limit of 2 lingcod per day, which may be no smaller than 24 in (61 cm) total length.

(2) Oregon. The bag limits for each person engaged in recreational fishing seaward of Oregon are 2 lingcod per day, which may be no smaller than 24 in (61 cm) total length; and 10 marine fish per day, which excludes salmon, tuna, surfperch, sanddab, lingcod, and baitfish, but which includes rockfish and other groundfish. The minimum size limit for cabezon retained in the recreational fishery is 15 in (38 cm). Within the 10 marine fish bag limit, no more than 1 may be canary rockfish, no more than 1 may be yelloweye rockfish and when the all-depth recreational fisheries for Pacific halibut (Hippoglossus stenolopis) are open, the first Pacific halibut taken of 32 in (81 cm) (or greater in length may be retained. During the all-depth recreational fisheries for Pacific halibut, vessels with halibut on board may not take, retain, possess or land yelloweye rockfish or canary rockfish.

(3) California. Seaward of California (north and south of 40°10′ N. lat.), California law provides that, in times and areas when the recreational fishery is open, there is a 20-fish bag limit for all species of finfish, within which no more than 10 fish of any one species may be taken or possessed by any one person. Retention of cowcod is prohibited in California's recreational fishery all year in all areas.

(a) North of 40°10′ N. lat. North of 40°10′ N. lat. to the California/Oregon border, California's recreational groundfish fishery will generally conform with Oregon's recreational regulations (see IV.D.(2)). For each person engaged in recreational fishing seaward of California north of 40°10′ N. lat., the following seasons, bag limits, and size limits apply:

(i) RCG Complex. The California rockfish, cabezon, greenling complex (RCG Complex), as defined in State regulations (Section 1.91, Title 14, California Code of Regulations), includes all rockfish, kelp greenling, rock greenling, and cabezon. This category does not include California scorpionfish, also known as “sculpin.”

(A) Seasons. North of 40°10′ N. lat., recreational fishing for the RCG Complex is open from January 1 through December 31.

(B) Bag limits, boat limits, hook limits. North of 40°10′ N. lat., the bag limit is 10 rockfish per day, of which no more than 2 may be bocaccio, 1 may be canary rockfish, and no more than 1 per day up to a maximum of two per boat may be yelloweye rockfish. The following daily bag limits also apply: no more than 10 cabezon per day and no more than 10 greenlings (kelp and/or rock greenlings) per day. Multi-day limits are authorized by a valid permit issued by California and must not exceed the daily limit multiplied by the number of days in the fishing trip.

(C) Size limits. The following size limits apply: cabezon may be no smaller than 15 in (38 cm) total length and kelp and rock greenling may be no smaller than 12 in (30 cm) total length.

(D) Dressing/Filleting. Cabezon, kelp greenling, and rock greenling taken in the recreational fishery may not be filleted at sea. Rockfish skin may not be removed when filleting or otherwise dressing rockfish taken in the recreational fishery. Brown-skinned rockfish fillets may be no smaller than 6.5 in (16.6 cm). “Brown-skinned” rockfish include the following species: brown, calico, copper, gopher, kelp, olive, speckled, squarespot, and yellowtail.

(ii) Lingcod.

(A) Seasons. North of 40°10′ N. lat., recreational fishing for lingcod is open from January 1 through December 31.

(B) Bag limits, boat limits, hook limits. North of 40°10′ N. lat., the bag limit is 2 lingcod per day. Multi-day limits are authorized by a valid permit issued by California and must not exceed the daily limit multiplied by the number of days in the fishing trip.

(C) Size limits. Lingcod may be no smaller than 24 in (61 cm) total length.

(D) Dressing/Fileting. Lingcod filets may be no smaller than 16 in. (41 cm) in length .

(b) South of 40°10′ N. lat. For each person engaged in recreational fishing seaward of California south of 40°10′ N. lat., the following seasons, bag limits, size limits and closed areas apply:

(i) Closed Areas.

(A) Cowcod Conservation Areas. Recreational fishing for all groundfish is prohibited within the CCAs, for coordinates described in Federal regulations at 50 CFR 660.304(c), except that fishing for sanddabs is permitted subject to the provisions in paragraph IV.D.(3)(iv) and that fishing for species managed under this section (not including cowcod, bocaccio, canary, and yelloweye rockfishes) are permitted in waters shoreward of the 20-fm (37-m) depth contour within the CCAs from July 1 through December 31, 2003, subject to the bag limits in this section.

(B) South of 40°10′ N. lat., recreational fishing for all groundfish, including lingcod, is prohibited seaward of the 20-fm (37-m) depth contour, except that recreational fishing for sanddabs is permitted seaward of the 20-fm (37-m) depth contour subject to the provisions in paragraph IV.D.(3)(iv).

(ii) RCG Complex. The California rockfish, cabezon, greenling complex (RCG Complex), as defined in State regulations (Section 1.91, Title 14, California Code of Regulations), includes all rockfish, kelp greenling, rock greenling, and cabezon. This category does not include California scorpionfish, also known as “sculpin.”

(A) Seasons. South of 40°10′ N. lat., recreational fishing for the RCG Complex is open from July 1 through December 31 (i.e., it's closed from January 1 through June 30). When recreational fishing for the RCG Complex is open, it is permitted only inside the 20-fm (37-m) depth contour, subject to the bag limits in paragraph (B) of this section.

(B) Bag limits, boat limits, hook limits. South of 40°10′ N. lat., in times and areas when the recreational season for the RCG Complex is open, there is a limit of 2-hooks and one line when fishing for rockfish, and the bag limit is 10 RCG Complex fish per day, of which up to 10 may be rockfish, no more than 2 of which may be shallow nearshore rockfish. [Note: The shallow nearshore rockfish group off California are composed of kelp, grass, black-and-yellow, China, and gopher rockfishes.] Also within the 10 RCG Complex fish per day limit, no more than 2 fish per day may be greenlings (kelp and/or rock greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(C) Size limits. The following size limits apply: cabezon may be no smaller than 15 in (38 cm) and kelp and rock greenling may be no smaller than 12 in (30 cm).

(B) Dressing/Filleting. Cabezon, kelp greenling, and rock greenling taken in the recreational fishery may not be filleted at sea. Rockfish skin may not be removed when filleting or otherwise dressing rockfish taken in the recreational fishery. Brown-skinned rockfish filets may be no smaller than 6.5 in (16.6 cm). “Brown-skinned” rockfish include the following species: brown, calico, copper, gopher, kelp, olive, speckled, squarespot, and yellowtail.

(iii) California scorpionfish. California scorpionfish only occur south of 40°10′ N. lat.

(A) Seasons. South of 40°10′ N. lat., recreational fishing for California scorpionfish is closed from March 1 through June 30 (i.e., the California scorpionfish season is open during January-February and during July-December). When recreational fishing for California scorpionfish is open, it is permitted only inside the 20-fm (37-m) depth contour (except at Huntington Flats between a line drawn due south from Point Fermin (33 42′30″ N. lat.; 118 17′30” W. long.) and a line drawn due west from the Newport South Jetty (33 35′37″ N. lat.; 117 52′50″ W. long.,) recreational fishing for California scorpionfish may occur from shore to a boundary line approximating 50 fm (91 m) during July-August), subject to the bag limits in paragraph (B) of this section.

(B) Bag limits, boat limits, hook limits. South of 40°10′ N. lat., in times and areas where the recreational season for California scorpionfish is open, and the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Filleting. California scorpionfish fillets may be no smaller than 5 in (12.8 cm).

(iv) Lingcod. (A) Seasons. South of 40°10′ N. lat., recreational fishing for lingcod is open July 1 through December 31. When recreational fishing for lingcod is open in the south, it is permitted only inside the 20-fm (37-m) depth contour, subject to the bag limits in paragraph (B) of this section.

(B) Bag limits, boat limits, hook limits. South of 40°10′ N. lat., in times and areas when the recreational season for lingcod is open, there is a limit of 2-hooks and one line when fishing for lingcod, and the bag limit is 2 lingcod per day. Lingcod do not count against the 10 RCG Complex fish per day limit. Multi-day limits are authorized by a valid permit issued by California and must not exceed the daily limit multiplied by the number of days in the fishing trip.

(C) Size limits. Lingcod may be no smaller than 24 in (61 cm) total length.

(D) Dressing/Filleting. Lingcod fillets may be no smaller than 16 in. (41 cm) in length.

(iv) Sanddabs. South of 40°10′ N. lat., recreational fishing for sanddabs is permitted both shoreward and seaward of the 20 fm (37 m) depth contour (i.e., recreational fishing for sanddabs is permitted in all areas south of 40°10′ N. lat.). Recreational fishing for sanddabs is permitted seaward of the 20- fm (37-m) depth contour subject to a limit of up to 12-hooks “Number 2” or smaller, which measure 11 mm (0.44 inches) point to shank, and up to 2 lb of weight per line. There is no bag limit, season, or size limit for sanddabs, however, it is prohibited to fillet sanddabs at sea.

V. Washington Coastal Tribal Fisheries

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes' usual and accustomed ocean fishing areas (described at 60 CFR 660.324).

A tribal allocation is subtracted from the species OY before limited entry and open access allocations are derived. The tribal fisheries for sablefish, black rockfish, and whiting are separate fisheries, and are not governed by the limited entry or open access regulations or allocations. The tribes regulate these fisheries so as not to exceed their allocations.

The tribal allocation for black rockfish is the same in 2003 as in 2002. Also similar to 2002, the tribal sablefish allocation is 10 percent of the total catch OY (650 mt), less 3 percent for estimated discard mortality, or 631 mt.

In 1999 through 2002, the tribal whiting allocation has been based on a methodology originally proposed by the Makah Tribe in 1998. The methodology is an abundance-based sliding scale that determines the tribal allocation based on the level of the overall U.S. OY, up to a maximum 17.5 percent tribal harvest ceiling at OY levels below 145,000 mt. The tribes have proposed using the same methodology in 2003. In 2003, applying the sliding scale methodology to a 148,200-mt overall OY results in a 25,000-mt tribal whiting allocation, which will be taken by the Makah Tribe. No other tribes have proposed to harvest whiting in 2003.

The sliding scale methodology used to determine the treaty Indian share of Pacific whiting is the subject of ongoing litigation. In United States v. Washington, Subproceeding 96-2, the Court held that the methodology is consistent with the Magnuson-Stevens Act, and is the best available scientific method to determine the appropriate allocation of whiting to the tribes. United States v. Washington, 143 F.Supp.2d 1218 (W.D. Wash. 2001). This ruling was reaffirmed in July 2002. Midwater Trawlers Cooperative v. Daley, C96-1808R (W.D. Wash.) (Order Granting Defendants' Motion to Supplement Record, July 17, 2002). Additional briefing will occur in this case. However, at this time NMFS remains under a Court Order in Subproceeding 96-2 to continue use of the methodology unless the Secretary finds just cause for its alteration or abandonment, the parties agree to a permissible alternative, or further order issues from the Court. Therefore NMFS is obliged to continue to use the methodology unless one of the events identified by the Court occurs. Since NMFS finds no reason to change the methodology, it has been used to determine the 2003 tribal allocation.

For some species on which the tribes have a modest harvest, no specific allocation has been determined. Rather than try to reserve specific allocations for the tribes, NMFS is establishing trip limits recommended by the tribes and the Council to accommodate modest tribal fisheries. For lingcod, all tribal fisheries are restricted to 300 lb (136 kg) per day and 900 lb (408 kg) per week cumulative limits. Tribal fisheries are expected to take about 5.2 mt of lingcod in 2003. For rockfish species, the 2003 tribal longline and trawl fisheries will operate under trip and cumulative limits. Tribal fisheries will operate under a 300-lb (136-kg) per trip limit each for canary rockfish, thornyheads, and the minor rockfish species groups (nearshore, shelf, and slope), and under a 100-lb (45-kg) trip limit for yelloweye rockfish. A 300-lb (136 kg) canary rockfish trip limit is expected to result in landings of 2.3 mt in 2003. A 300-lb (136-kg) thornyheads trip limit is expected to result in landings of 2.7 mt in 2003. Other rockfish limits are expected to result in the following landings levels: widow rockfish, 45 mt; yelloweye rockfish, 3.1 mt; yellowtail rockfish, 400 mt; minor nearshore rockfish, 2 mt; minor shelf rockfish excluding yelloweye, 4.5 mt; minor slope rockfish, 4 mt. Trace amounts (1 mt) of POP and darkblotched rockfish may also be landed in tribal commercial fisheries.

The Assistant Administrator (AA) announces the following tribal allocations for 2003, including those that are the same as in 2002. Trip limits for certain species were recommended by the tribes and the Council and are specified here with the tribal allocations.

A. Sablefish

The tribal allocation is 631 mt, 10 percent of the total catch OY, less 3 percent estimated discard mortality.

B. Rockfish

(1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.).

(2) Thornyheads are subject to a 300-lb (136-kg) trip limit.

(3) Canary rockfish are subject to a 300-lb (136-kg) trip limit.

(4) Yelloweye rockfish are subject to a 100-lb (45-kg) trip limit.

(5) Yellowtail rockfish taken in the tribal mid-water trawl fisheries are subject to a cumulative limit of 30,000 lb (13,608 kg) per 2-month period. Landings of widow rockfish must not exceed 10 percent of the weight of yellowtail rockfish landed in any two-month period. These limits may be adjusted by an individual tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

C. Lingcod

Lingcod are subject to a 300-lb (136-kg) daily trip limit and a 900-lb (408-kg) weekly limit.

D. Pacific whiting

The tribal allocation is 25,000 mt.

Classification

These proposed specifications and management measures for 2003 are issued under the authority of, and are in accordance with, the Magnuson-Stevens Act, the FMP, and 50 CFR parts 600 and 660 subpart G (the regulations implementing the FMP).

This proposed rule has been determined to be significant for purposes of Executive Order 12866.

Pursuant to Executive Order 13175, this rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two fall groundfish meetings of the Council. The regulation at 50 CFR 660.324(d) further states “the Secretary will develop tribal allocations and regulations under this paragraph in consultation with the affected tribe(s) and, insofar as possible, with tribal consensus.” The tribal management measures in this proposed rule have been developed following these procedures. The tribal representative on the Council made a motion to adopt the tribal management measures, which was passed by the Council, and those management measures, which were developed and proposed by the tribes, are included in this proposed rule.

The Council prepared an initial regulatory flexibility analysis that describes the impact this proposed rule, if adopted, would have on small entities.

NMFS is proposing the 2003 annual specifications and management measures to allow West Coast commercial and recreational fisheries participants to fish the harvestable surplus of more abundant groundfish stocks, while also ensuring that those fisheries do not exceed the allowable catch levels intended to protect overfished and depleted stocks. The form of the specifications, in ABCs and OYS, follows the guidance of the Magnuson-Stevens Act, the National Standard Guidelines, and the FMP for protecting and conserving fish stocks. Annual management measures include trip and bag limits, size limits, time/area closures, gear restrictions, and other measures intended to allow year-round West Coast groundfish landings without compromising overfished species rebuilding measures.

Approximately 2,000 vessels participate in the West Coast groundfish fisheries. Of those, about 500 vessels are registered to limited entry permits issued for either trawl, longline, or pot gear. About 1,500 vessels land groundfish against open access limits while either directly targeting groundfish or taking groundfish incidentally in fisheries directed at non-groundfish species. All but 10-20 of those vessels are considered small businesses by the Small Business Administration. There are also about 450 groundfish buyers on the West Coast, approximately 5 percent of which are responsible for about 80 percent of West Coast groundfish purchases. In the 2001 recreational fisheries, there were 106 Washington charter vessels engaged in salt water fishing outside of Puget Sound, 232 charter vessels active on the Oregon coast and 415 charter vessels active on the California coast.

The Council considered five alternative specifications and management measures regimes for 2003: the no action alternative, which would have implemented the 2002 regime for 2003; the low OY alternative, which set harvest levels so that overfished stocks would have an 80 percent probability of rebuilding within Tmax; the high OY alternative, which set harvest levels so that overfished stocks would have a 50 percent probability of rebuilding within Tmax; the Allocation Committee alternative, which set harvest levels intermediate to those of the low and high alternatives, but includes management through depth-based closures, and; the Council OY alternatives (preferred alternative) which was the same as the Allocation Committee alternative, except that it included a higher sablefish harvest north of Point Conception, CA and more restrictive recreational fishery management measures south of Cape Mendocino, CA. Each of these alternatives included both harvest levels (specifications) and management measures needed to achieve those harvest levels, with the most restrictive management measures corresponding to the lowest OYs.

Each of the alternatives analyzed by the Council was expected to have different overall effects on the economy. Among other factors, the draft EIS for this action reviewed alternatives other than the no action alternative for expected declines in revenue and income from 2001 levels. Declines were not measured from 2002 levels because complete data from 2002 is not yet available. The low OY alternative was expected to reduce commercial exvessel revenue by $60 million in 2003, reduce overall commercial harvest income by $274 million, and reduce recreational fishery income (mainly charter businesses) by $150 million. The high OY alternative was expected to reduce commercial exvessel revenue by $6 million in 2003, reduce overall commercial harvest income by $16 million, and reduce recreational fishery income by $1.3 million. The economic effects of the Allocation Committee alternative were analyzed both for management with depth-based regulatory measures and without those measures. The Allocation Committee alternative without depth-based regulatory measures was expected to reduce commercial exvessel revenue by $21 million in 2003, reduce overall commercial harvest income by $53 million, and reduce recreational fishery income by $1.3 million. The Allocation Committee alternative with depth-based regulatory measures was expected to reduce commercial exvessel revenue by $15 million in 2003, reduce overall commercial harvest income by $40 million, and reduce recreational fishery income by $1.3 million. The Council's preferred alternative, which includes depth-based regulatory measures and a recreational fishery management regime designed to more strictly constrain harvest of overfished species, was expected to reduce commercial exvessel revenue by $13 million in 2003, reduce overall commercial harvest income by $35 million, and reduce recreational fishery income by $26 million. The Council's preferred alternative meets the conservation requirements of the Magnuson-Stevens Act, while reducing to the extent possible the adverse economic impacts of these conservation measures on the fishing industries and associated communities.

Depth based management is particularly expected to both protect overfished species from harvest in areas where they commonly occur and allow fisheries greater access to more abundant stocks outside of the closed areas. Without depth-based management, harvest of abundant stocks would have been more severely restricted because there would have been no measures to prevent vessels from operating in areas where abundant and overfished stocks cooccur.

Recreational fisheries management measures in 2001 and 2002 were not adequately conservative and those fisheries exceeded their overfished species retention levels in both years. Thus, the recreational fisheries are more severely restricted under the preferred alternative than under the high OY alternative or under either of the Allocation Committee alternatives. While the preferred alternative is expected to result in greater income declines for businesses associated with recreational fishing, those declines reflect conservation measures expected to better protect overfished species. Estimates of declines in revenues and income in this section are from the draft EIS for this action and may change with the completion of the final EIS.

Revenues for many groundfish fishery participants under the preferred alternative are expected to decline in 2003. These declines are mainly attributable to more restrictive management measures intended to protect overfished species. It is difficult to estimate exactly how this overall decline in landings and revenue will affect individual members of the groundfish fleet. However, the overall decline is significant enough to suggest that small businesses with a substantial portion of their incomes dependent on groundfish will be negatively affected by implementation of the 2003 proposed harvest levels. Overall, commercial vessels that target groundfish are expected to have a 21 percent decline in groundfish-related ex-vessel revenue and a 5 percent decline in total ex-vessel fishing revenue. The cumulative effect of 2003 management on the personal incomes of fishery participants is expected to be a $35 million decline. Vessels and groundfish buyers that rely heavily on groundfish for their annual income, as opposed to other West Coast fish species, will be more affected by the 2003 management regime than those with more diversified catch and harvest assemblages.

Most of the significant catch and effort reductions in the recreational fleet would occur off California south of 40°10′ N. lat. Little change in overall recreational effort is expected in Washington or Oregon. For the West Coast recreational fleet, personal income is expected to decline by 10 percent overall, with a cumulative effect of a $26 million decline. These personal income values are a measure of the contribution of recreational fishing to businesses and local communities. Reduction in effort in California is expected to result in a reduction in revenue for businesses that cater to recreational fishers. Gross receipts for recreational groundfish activities will likely decline in proportion with the decline in number of angler trips, however, net profits may decline more given that certain costs will be fixed on an annual and per trip basis. Revenue declines from groundfish may be offset to the degree that charter vessels operate in other fisheries.

This rule does not propose any new reporting and recordkeeping requirements. Other regulations affecting the West Coast groundfish fisheries are primarily found at 50 CFR 660.301-360. A copy of this analysis is available from the Council (see ADDRESSES).

NMFS issued Biological Opinions (BOs) under the Endangered Species Act on August 10, 1990, November 26, 1991, August 28, 1992, September 27, 1993, May 14, 1996, and December 15, 1999, pertaining to the effects of the groundfish fishery on chinook salmon (Puget Sound, Snake River spring/summer, Snake River fall, upper Columbia River spring, lower Columbia River, upper Willamette River, Sacramento River winter, Central Valley, California coastal), coho salmon (Central California coastal, southern Oregon/northern California coastal, Oregon coastal), chum salmon (Hood Canal, Columbia River), sockeye salmon (Snake River, Ozette Lake), and steelhead (upper, middle and lower Columbia River, Snake River Basin, upper Willamette River, central California coast, California Central Valley, south-central California, northern California, and southern California). During the 2000 Pacific whiting season, the whiting fisheries exceeded the chinook bycatch amount specified in the Pacific whiting fishery's Biological Opinion'e;s (whiting BO) (December 19, 1999) incidental catch statement estimate of 11,000 fish, by approximately 500 fish. In the 2001 whiting season, however, the whiting fishery's chinook bycatch was about 7,000 fish, which approximates the long-term average. After reviewing data from, and management of, the 2000 and 2001 whiting fisheries (including industry bycatch minimization measures), the status of the affected listed chinook, environmental baseline information, and the incidental catch statement from the 1999 whiting BO, NMFS determined in a letter dated April 25, 2002, that a re-initiation of the 1999 whiting BO was not required. NMFS has concluded that implementation of the FMP for the Pacific Coast groundfish fishery is not expected to jeopardize the continued existence of any endangered or threatened species under the jurisdiction of NMFS, or result in the destruction or adverse modification of critical habitat. This action is within the scope of these consultations.

List of Subjects in 50 CFR Part 660

Administrative practice and procedure, American Samoa, Fisheries, Fishing, Guam, Hawaiian Natives, Indians, Northern Mariana Islands, Reporting and recordkeeping requirements.

Dated: December 20, 2002.
Rebecca Lent,
Deputy Assistant Administrator for Regulatory Programs, National Marine Fisheries Service.

For the reasons set out in the preamble, 50 CFR part 660 is proposed to be amended as follows:

PART 660—FISHERIES OFF WEST COAST STATES AND IN THE WESTERN PACIFIC

l. The authority citation for part 660 continues to read as follows:

Authority: 16 U.S.C. 1801 et seq.

2. In § 660.302, the definition for “Open access fishery” is revised to read as follows:

§ 660.302 Definitions.

* * * * *

Open access fishery means the fishery composed of vessels using open access gear fished pursuant to the harvest guidelines, quotas, and other management measures governing the open access fishery. Any commercial fishing vessels that does not have a limited entry permit and which lands groundfish in any commercial fishery is a participant in the open access fishery.

* * * * *

3. In § 660.304, the section heading and entire section are revised to read as follows:

§ 660.304 Management areas, including conservation areas, and commonly used geographic coordinates.

(a) Management areas—(1) Vancouver. (i) The northeastern boundary is that part of a line connecting the light on Tatoosh Island, WA, with the light on Bonilla Point on Vancouver Island, British Columbia (at 48 deg.35′75″ N. lat., 124 deg.43′00″ W. long.) south of the International Boundary between the U.S. and Canada (at 48 deg.29′37.19″ N. lat., 124 deg.43′33.19″ W. long.), and north of the point where that line intersects with the boundary of the U.S. territorial sea.

(ii) The northern and northwestern boundary is a line connecting the following coordinates in the order listed, which is the provisional international boundary of the EEZ as shown on NOAA/NOS Charts #18480 and #18007:

Point | N. lat. | W. long.
1 | 48 deg.29′37.19″ | 124 deg.43′33.19″
2 | 48 deg.30′11″ | 124 deg.47′13″
3 | 48 deg.30′22″ | 124 deg.50′21″
4 | 48 deg.30′14″ | 124 deg.54′52″
5 | 48 deg.29′57″ | 124 deg.59′14″
6 | 48 deg.29′44″ | 125 deg.00′06″
7 | 48 deg.28′09″ | 125 deg.05′47″
8 | 48 deg.27′10″ | 125 deg.08′25″
9 | 48 deg.26′47″ | 125 deg.09′12″
10 | 48 deg.20′16″ | 125 deg.22′48″
11 | 48 deg.18′22″ | 125 deg.29′58″
12 | 48 deg.11′05″ | 125 deg.53′48″
13 | 47 deg.49′15″ | 126 deg.40′57″
14 | 47 deg.36′47″ | 127 deg.41′23″
15 | 47 deg.22′00″ | 127 deg.41′23″
16 | 46 deg.42′05″ | 128 deg.51′56″
17 | 46 deg.31′47″ | 129 deg.07′39″

(iii) The southern limit is 47 deg.30′ N. lat.

(2) Columbia. (i) The northern limit is 47 deg.30′ N. lat.

(ii) The southern limit is 43 deg.00′ N. lat.

(3) Eureka. (i) The northern limit is 43 deg.00′ N. lat.

(ii) The southern limit is 40 deg.30′ N. lat.

(4) Monterey. (i) The northern limit is 40 deg.30′ N. lat.

(ii) The southern limit is 36 deg.00′ N. lat.

(5) Conception. (i) The northern limit is 36 deg.00′ N. lat.

(ii) The southern limit is the U.S.-Mexico International Boundary, which is a line connecting the following coordinates in the order listed:

Point | N. lat. | W. long.
1 | 32 deg.35′22″ | 117 deg.27′49″
2 | 32 deg.37′37″ | 117 deg.49′31″
3 | 31 deg.07′58″ | 118 deg.36′18″
4 | 30 deg.32′31″ | 121 deg.51′58″

(b) Commonly used geographic coordinates—

(1) Cape Falcon, OR--45°46′ N. lat.

(2) Cape Lookout, OR--45°20′15″ N. lat.

(3) Cape Blanco, OR--42°50′ N. lat.

(4) Cape Mendocino, CA--40°30′ N. lat.

(5) North/South management line--40°10′ N. lat.

(6) Point Arena, CA--38°57′30″ N. lat.

(7) Point Conception, CA--34°27' N. lat.

(c) Cowcod Conservation Areas (CCAs). (1) The Western CCA is an area south of Point Conception that is bound by straight lines connecting all of the following points in the order listed:

33°50′ N. lat., 119°30′ W. long.;

33°50′ N. lat., 118°50′ W. long.;

32°20′ N. lat., 118°50′ W. long.;

32°20′ N. lat., 119°37′ W. long.;

33°00′ N. lat., 119°37′ W. long.;

33°00′ N. lat., 119°53′ W. long.;

33°33′ N. lat., 119°53′ W. long.;

33°33′ N. lat., 119°30′ W. long.;

and connecting back to 33°50′ N. lat., 119°30′ W. long.

(2) The Eastern CCA is a smaller area west of San Diego that is bound by straight lines connecting all of the following points in the order listed:

32°42′ N. lat., 118°02′ W. long.;

32°42′ N. lat., 117°50′ W. long.;

32°36′42″ N. lat., 117°50′ W. long.;

32°30′ N. lat., 117°53′30″ W. long.;

32°30′ N. lat., 118°02′ W. long.;

and connecting back to 32°42′ N. lat., 118°02′ W. long.

(d) Yelloweye Rockfish Conservation Area (YRCA). The YRCA is an C-shaped area off the northern Washington coast that is bound by straight lines connecting all of the following points in the order listed:

48°18′ N. lat.; 125°18′ W. long.;

48°18′ N. lat.; 124°59′ W. long.;

48°11′ N. lat.; 125°11′ W. long.;

48°11′ N. lat.; 124°59′ W. long.;

48°04′ N. lat.; 125°11′ W. long.;

48°04′ N. lat.; 124°59′ W. long.;

48°00′ N. lat.; 125°18′ W. long.;

48°00′ N. lat.; 124°59′ W. long.;

and connecting back to 48°18′ N. lat.; 125°18′ W. long.

(e) International boundaries. (1) Any person fishing subject to this subpart is bound by the international boundaries described in this section, notwithstanding any dispute or negotiation between the United States and any neighboring country regarding their respective jurisdictions, until such time as new boundaries are established or recognized by the United States.

(2) The inner boundary of the fishery management area is a line coterminous with the seaward boundaries of the States of Washington, Oregon, and California (the “3-mile limit”).

(3) The outer boundary of the fishery management area is a line drawn in such a manner that each point on it is 200 nm from the baseline from which the territorial sea is measured, or is a provisional or permanent international boundary between the United States and Canada or Mexico.

4. In § 660.322, paragraphs (b)(5) and (b)(6) are revised to read as follows:

§ 660.322 Gear restrictions.

* * * * *

(b) Trawl gear. * * *

(5) Large and small footrope trawl gear. Large footrope trawl gear is bottom trawl gear, as specified at § 660.302, with a footrope diameter larger than 8 inches (20 cm) (including rollers, bobbins or other material encircling or tied along the length of the footrope). Small footrope trawl gear is bottom trawl gear, as specified at § 660.302 and 660.322(b), with a footrope diameter 8 inches (20 cm) or smaller (including rollers, bobbins or other material encircling or tied along the length of the footrope). Chafing gear may be used only on the last 50 meshes of a small footrope trawl, measured from the terminal (closed) end of the codend. Other lines or ropes that run parallel to the footrope may not be augmented or modified to violate footrope size restrictions. For enforcement purposes, the footrope will be measured in a straight line from the outside edge to the opposite outside edge at the widest part on any individual part, including any individual disk, roller, bobbin, or any other device.

(6) Pelagic or “midwater” trawls. Pelagic trawl nets must have unprotected footropes at the trawl mouth, and must not have rollers, bobbins, tires, wheels, rubber discs, or any similar device anywhere in the net. The footrope of pelagic gear may not be enlarged by encircling it with chains or by any other means. Ropes or lines running parallel to the footrope of pelagic trawl gear must be bare and may not be suspended with chains or any other materials. Sweeplines, including the bottom leg of the bridle, must be bare. For at least 20 ft (6.15 m) immediately behind the footrope or headrope, bare ropes or mesh of 16-inch (40.6-cm) minimum mesh size must completely encircle the net. A band of mesh (a “skirt”) may encircle the net under transfer cables, lifting or splitting straps (chokers), but must be: Over riblines and restraining straps; the same mesh size and coincide knot-to-knot with the net to which it is attached; and no wider than 16 meshes.

* * * * *

5. In § 660.323, paragraph (b) is revised to read as follows:

§ 660.323 Catch restrictions.

* * * * *

(b) Routine management measures. In addition to the catch restrictions in this section, other catch restrictions that are likely to be adjusted on an annual or more frequent basis may be imposed and announced by a single notification in the Federal Register if they have been designated as routine through the two-meeting process described in PCGFMP. The following catch restrictions have been designated as routine:

(1) Commercial limited entry and open access fisheries —(i) Trip landing and frequency limits, size limits, all gear. Trip landing and frequency limits have been designated as routine for the following species or species groups: widow rockfish, canary rockfish, yellowtail rockfish, Pacific ocean perch, yelloweye rockfish, splitnose rockfish, bocaccio, cowcod, minor nearshore rockfish or shallow and deeper minor nearshore rockfish, shelf or minor shelf rockfish, and minor slope rockfish; Dover sole, sablefish, shortspine thornyheads, longspine thornyheads, and the “DTS complex,” which is composed of those species; petrale sole, rex sole, arrowtooth flounder, Pacific sanddabs, and the flatfish complex, which is composed of those species plus any other flatfish species listed at § 660.302; Pacific whiting; lingcod; and “other fish” as a complex consisting of all groundfish species listed at § 660.302 and not otherwise listed as a distinct species or species group. Size limits have been designated as routine for sablefish and lingcod. Trip landing and frequency limits and size limits for species with those limits designated as routine may be imposed or adjusted on an annual or more frequent basis for the purpose of keeping landings within the harvest levels announced by NMFS, and for the other purposes given in paragraph (b)(1)(i)(A) and (B) of this section.

(A) Trip landing and frequency limits. To extend the fishing season; to minimize disruption of traditional fishing and marketing patterns; to reduce discards; to discourage target fishing while allowing small incidental catches to be landed; to protect overfished species; to allow small fisheries to operate outside the normal season; and, for the open access fishery only, to maintain landings at the historical proportions during the 1984-88 window period.

(B) Size limits. To protect juvenile fish; to extend the fishing season.

(ii) Differential trip landing and frequency limits based on gear type, closed seasons. Trip landing and frequency limits that differ by gear type and closed seasons may be imposed or adjusted on an annual or more frequent basis for the purpose of rebuilding and protecting overfished or depleted stocks.

(2) Recreational fisheries all gear types. Routine management measures for all groundfish species, separately or in any combination, include bag limits, size limits, time/area closures, boat limits, hook limits, and dressing requirements. All routine management measures on recreational fisheries are intended to keep landings within the harvest levels announced by NMFS, to rebuild and protect overfished or depleted species, and to maintain consistency with State regulations, and for the other purposes set forth in this section.

(i) Bag limits. To spread the available catch over a large number of anglers; to protect and rebuild overfished species; to avoid waste.

(ii) Size limits. To protect juvenile fish; to protect and rebuild overfished species; to enhance the quality of the recreational fishing experience.

(iii) Season duration restrictions. To spread the available catch over a large number of anglers; to protect and rebuild overfished species; to avoid waste; to enhance the quality of the recreational fishing experience.

(3) All fisheries, all gear types depth-based management measures. Depth-based management measures, particularly the setting of closed areas known as Groundfish Conservation Areas may be imposed on any sector of the groundfish fleet using specific boundary lines that approximate depth contours with latitude/longitude waypoints. Depth-based management measures and the setting of closed areas may be used to protect and rebuild overfished stocks.

* * * * *

[FR Doc. 02-32756 Filed 12-31-02; 1:23 pm]

BILLING CODE 3510-22-S